DEPARTMENT OF HOUSING AND URBAN DEVELOPMENT

[Docket No. FR-4557-N-07]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing-and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should sent a written expression of interest to HHS, addressed to Brian Rooney, Division of Property Management, Program Support Center, HHS, room 5B-41, 5600 Fishers Lane, Rockville, MD 20857; (301) 443-2265. (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7855 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Mr. Jeff Holste, Military Programs, U.S. Army Corps of Engineers, Installation Support Center, Planning & Real Property Branch, ATTN: CEMP-IP, 7701 Telegraph Road, Alexandria, VA 22315-3862; (703) 428-6318; (These are not toll-free numbers).

Dated: February 10, 2000.
Fred Karnas, Jr.,
Deputy Assistant Secretary for Special Needs Assistance Programs.

TITLE V—FEDERAL SURPLUS PROPERTY PROGRAM FEDERAL REGISTER REPORT FOR 2/18/00

Suitable/Available Properties

BUILDINGS (by State)

Alabama

Bldg. 60101

Shell Army Heliport

Ft. Rucker Co: Dale Al 36362-5000

Landholding Agency: Army

Property Number: 21199520152

Status: Unutilized

Comment: 6082 sq. ft., 1-story, most recent use—airfield fire station, off-site use only

Bldg. 60103

Shell Army Heliport

Ft. Rucker Co: Dale Al 36362-5000

Landholding Agency: Army

Property Number: 21199520154

Status: Unutilized

Comment: 12516 sq. ft., 2-story, most recent use—admin., off-site use only

Bldg. 60110

Shell Army Heliport

Ft. Rucker Co: Dale Al 36362-5000

Landholding Agency: Army

Property Number: 21199520155

Status: Unutilized

Comment: 8319 sq. ft., 1-story, most recent use—admin., off-site use only

Bldg. 60113

Shell Army Heliport

Ft. Rucker Co: Dale Al 36362-5000

Landholding Agency: Army

Property Number: 21199520156

Status: Unutilized

Comment: 4000 sq. ft., 1-story, most recent use—admin., off-site use only

Alaska

Bldgs. 420, 422, 426, 430

Fort Richardson

Anchorage AK 99505-6500

Landholding Agency: Army

Property Number: 21199740276

Status: Excess

Comment: 13,056 sq. ft., presence of asbestos/lead paint, most recent use—family housing, off-site use only

Bldg. 789

Fort Richardson

Anchorage Co: AK 99505-6500

Landholding Agency: Army

Property Number: 21199910084

Status: Excess

Comment: 19,001 sq. ft., concrete block, most recent use—vehicle maint., off-site use only

Bldg. 263

Fort Richardson

Ft. Richardson Co: AK 99505-

Landholding Agency: Army

Property Number: 21199930111

Status: Excess

Comment: 13056 sq. ft., most recent use—housing, off-site use only

Bldg. 636

Fort Richardson

Fort Richardson Co: AK 99505-

Landholding Agency: Army

Property Number: 21199930112

Status: Excess

Comment: 33,726 sq. ft., concrete block, most recent use—library, off-site use only

Bldg. 736

Fort Richardson

Fort Richardson Co: AK 99505-

Landholding Agency: Army

Property Number: 21199930113

Status: Excess

Comment: 7090 sq. ft., most recent use—admin., off-site use only

Bldg. 786

Fort Richardson

Fort Richardson Co: AK 99505-

Landholding Agency: Army

Property Number: 21199930114

Status: Excess

Comment: 2242 sq. ft., most recent use—driver's testing facility, off-site use only

Bldg. 978

Fort Richardson

Fort Richardson Co: AK 99505-

Landholding Agency: Army

Property Number: 21199930116

Status: Excess

Comment: 2411 sq. ft., concrete block, most recent use—training, off-site use only

Bldg. 980

Fort Richardson

Fort Richardson Co: AK 99505-

Landholding Agency: Army

Property Number: 21199930117

Status: Excess

Comment: 11,651 sq. ft., concrete block, most recent use—vehicle maintenance, off-site use only

Bldg. 58780

Fort Richardson

Ft. Richardson Co: AK 99505-

Landholding Agency: Army

Property Number: 21199930118

Status: Excess

Comment: 3230 sq. ft., most recent use—admin., off-site use only

Arizona

Bldg. 30012, Fort Huachuca

Sierra Vista Co: Cochise AZ 85635-

Landholding Agency: Army

Property Number: 21199310298

Status: Excess

Comment: 237 sq. ft., 1-story block, most recent use—storage

Bldg. S-306

Yuma Proving Ground

Yuma Co: Yuma/La Paz AZ 85365-9104

Landholding Agency: Army

Property Number: 21199420346

Status: Unutilized

Comment: 4103 sq. ft., 2-story, needs major rehab, off-site use only

Bldg. 503, Yuma Proving Ground

Yuma Co: Yuma AZ 85365-9104

Landholding Agency: Army

Property Number: 21199520073

Status: Underutilized

Comment: 3789 sq. ft., 2-story, major structural changes required to meet floor loading & fire code requirements, presence of asbestos, off-site use only

5 Bldg.

Fort Huachuca

Sierra Vista Co: Cochise AZ 85635-

Location: 44101, 44102, 44124, 44125, 44201

Landholding Agency: Army

Property Number: 21199840129

Status: Excess

Comment: various sq. ft. & bdrm units, presence of asbestos/lead paint, most recent use—family housing, off-site use only

Bldgs. 87821, 90420

Fort Huachuca

Sierra Vista Co: Cochise AZ 85635-

Landholding Agency: Army

Property Number: 2119910087

Status: Excess

Comment: 377 and 5662 sq. ft., presence of asbestos/lead paint, most recent use—storage, off-site use only

Bldgs. 12521, 13572

Fort Huachuca

Sierra Vista Co: Cochise AZ 85635-

Landholding Agency: Army

Property Number: 21199920183

Status: Unutilized

Comment: 448 sq. ft. & 54 sq. ft., off-site use only

Bldgs. 43101-43109

Fort Huachuca

Sierra Vista Co: Cochise AZ 85635-

Landholding Agency: Army

Property Number: 21199940001

Status: Excess

Comment: 969 sq. ft. per unit, 2-units per bldg., wood/stucco, presence of asbestos/lead paint, most recent use—housing, off-site use only

California

Bldg. 4282

Presidio of Monterey Annex

Seaside Co: Monterey CA 93944-

Landholding Agency: Army

Property Number: 21199810378

Status: Unutilized

Comment: 2283 sq. ft. presence of asbestos/lead paint, most recent use—office

Bldg. 4461

Presidio of Monterey Annex

Seaside Co: Monterey CA 93944-

Landholding Agency: Army

Property Number: 21199810379

Status: Unutilized

Comment: 992 sq. ft. presence of asbestos/lead paint, most recent use—storage

Bldg. 104

Presidio of Monterey

Monterey Co: CA 93944-

Landholding Agency: Army

Property Number: 21199910088

Status: Unutilized

Comment: 8039 sq. ft. presence of asbestos/lead paint, most recent use—office, off-site use only

Bldg. 106

Presidio of Monterey

Monterey Co: CA 93944-

Landholding Agency: Army

Property Number: 21199910089

Status: Unutilized

Comment: 1950 sq. ft. presence of asbestos/lead paint, most recent use—office/storage, off-site use only

Bldg. 125

Presidio of Monterey

Monterey Co: CA 93944-

Landholding Agency: Army

Property Number: 21199910090

Status: Unutilized

Comment: 371 sq. ft., presence of asbestos/lead paint, most recent use—office, off-site use only

Bldg. 339

Presidio of Monterey

Monterey Co: CA 93944-

Landholding Agency: Army

Property Number: 21199910092

Status: Unutilized

Comment: 5654 sq. ft., presence of asbestos/lead paint, most recent use—office, off-site use only

Bldg. 340

Presidio of Monterey

Monterey Co: CA 93944-

Landholding Agency: Army

Property Number: 21199910093

Status: Unutilized

Comment: 6500 sq. ft., presence of asbestos/lead paint, most recent use—office, off-site use only

Bldg. 341

Presidio of Monterey

Monterey Co: CA 93944-

Landholding Agency: Army

Property Number: 21199910094

Status: Unutilized

Comment:371 sq ft., presence of asbestos/lead paint, most recent use—office, off-site use only

Bldg. 4214

Presidio of Monterey

Monterey Co: CA 93944-

Landholding Agency: Army

Property Number: 21199910095

Status: Unutilized

Comment: 3168 sq. ft., presence of asbestos/lead paint, most recent use—office, off-site use only

Colorado

Bldg. P-1008

Fort Carson

Ft. Carson Co: El Paso CO 80913-5023

Landholding Agency: Army

Property Number: 21199630127

Status: Unutilized

Comment: 3362 sq. ft., fair condition, possible asbestos/lead based paint, most recent use—service outlet, off-site use only

Bldg. P-1007

Fort Carson

Ft. Carson Co: El Paso CO 80913-

Landholding Agency: Army

Property Number: 21199730210

Status: Unutilized

Comment: 3818 sq. ft., needs repair, possible asbestos/lead paint, most recent use—health clinic, off-site use only

Bldg. T-1342

Fort Carson

Ft. Carson Co: El Paso CO 80913-

Landholding Agency: Army

Property Number: 21199730211

Status: Unutilized

Comment: 13,364 sq. ft., possible asbestos/lead paint, most recent use—instruction bldg.

Bldg. T-6005

Fort Carson

Ft. Carson Co: El Paso CO 80913-

Landholding Agency: Army

Property Number: 21199730213

Status: Unutilized

Comment: 19,015 sq. ft., possible asbestos/lead paint, most recent use—warehouse

Georgia

Bldg. 2285

Fort Benning

Ft. Benning Co: Muscogee GA 31905-

Landholding Agency: Army

Property Number: 21199011704

Status: Unutilized

Comment: 4574 sq. ft.; most recent use—clinic; needs substantial rehabilitation; 1 floor

Bldg. 1252, Fort Benning

Ft. Benning Co: Muscogee GA 31905-

Landholding Agency: Army

Property Number: 21199220694

Status: Unutilized

Comment: 583 sq. ft., 1 story, most recent use—storehouse, needs major rehab, off-site removal only

Bldg. 4881, Fort Benning

Ft. Benning Co: Muscogee GA 31905-

Landholding Agency: Army

Property Number: 21199220707

Status: Unutilized

Comment: 2449 sq. ft., 1 story, most recent use—storehouse, need repairs, off-site removal only

Bldg. 4963, Fort Benning

Ft. Benning Co: Muscogee GA 31905-

Landholding Agency: Army

Property Number: 21199220710

Status: Unutilized

Comment: 6077 sq. ft., 1 story, most recent use—storehouse, need repairs, off-site removal only

Bldg. 2396, Fort Benning

Ft. Benning Co: Muscogee GA 31905-

Landholding Agency: Army

Property Number: 21199220712

Status: Unutilized

Comment: 9786 sq. ft., 1 story, most recent use—dining facility, needs major rehab, off-site removal only

Bldg. 4882, Fort Benning

Ft. Benning Co: Muscogee GA 31905-

Landholding Agency: Army

Property Number: 21199220727

Status: Unutilized

Comment: 6077 sq. ft., 1 story, most recent use—storage, need repairs, off-site removal only

Bldg. 4967, Fort Benning

Ft. Benning Co: Muscogee GA 31905-

Landholding Agency: Army

Property Number: 21199220728

Status: Unutilized

Comment: 6077 sq. ft., 1 story, most recent use—storage, need repairs, off-site removal only

Bldg. 4977, Fort Benning

Ft. Benning Co: Muscogee GA 31905-

Landholding Agency: Army

Property Number: 21199220736

Status: Unutilized

Comment: 192 sq. ft., 1 story, most recent use—offices, need repairs, off-site removal only

Bldg. 4944, Fort Benning

Ft. Benning Co: Muscogee GA 31905-

Landholding Agency: Army

Property Number: 21199220747

Status: Unutilized

Comment: 6400 sq. ft., 1 story, most recent use—vehicle maintenance shop, need repairs, off-site removal only

Bldg. 4960, Fort Benning

Ft. Benning Co: Muscogee GA 31905-

Landholding Agency: Army

Property Number: 21199220752

Status: Unutilized

Comment: 3335 sq. ft., 1 story, most recent use—vehicle maintenance shop, off-site removal only

Bldg. 4969, Fort Benning

Ft. Benning Co: Muscogee GA 31905-

Landholding Agency: Army

Property Number: 21199220753

Status: Unutilized

Comment: 8416 sq. ft., 1 story, most recent use—vehicle maintenance shop, off-site removal only

Bldg. 4884, Fort Benning

Ft. Benning Co: Muscogee GA 31905-

Landholding Agency: Army

Property Number: 21199220762

Status: Unutilized

Comment: 2000 sq. ft., 1 story, most recent use—headquarters bldg., need repairs, off-site removal only

Bldg. 4964, Fort Benning

Ft. Benning Co: Muscogee GA 31905-

Landholding Agency: Army

Property Number: 21199220763

Status: Unutilized

Comment: 2000 sq. ft., 1 story, most recent use—headquarters bldg., need repairs, off-site removal only

Bldg. 4966, Fort Benning

Ft. Benning Co: Muscogee GA 31905-

Landholding Agency: Army

Property Number: 21199220764

Status: Unutilized

Comment: 2000 sq. ft., 1 story, most recent use—headquarters bldg., need repairs, off-site removal only

Bldg. 4965, Fort Benning

Ft. Benning Co: Muscogee GA 31905-

Landholding Agency: Army

Property Number: 21199220769

Status: Unutilized

Comment: 7713 sq. ft., 1 story, most recent use—supply bldg., need repairs, off-site removal only

Bldg. 4945, Fort Benning

Ft. Benning Co: Muscogee GA 31905-

Landholding Agency: Army

Property Number: 21199220779

Status: Unutilized

Comment: 220 sq. ft., 1 story, most recent use—gas station, needs major rehab, off-site removal only

Bldg. 4979, Fort Benning

Ft. Benning Co: Muscogee GA 31905-

Landholding Agency: Army

Property Number: 21199220780

Status: Unutilized

Comment: 400 sq. ft., 1 story, most recent use—oil house, needs repairs, off-site removal only

Bldg. 4023, Fort Benning

Ft. Benning Co: Muscogee GA 31905-

Landholding Agency: Army

Property Number: 21199310461

Status: Unutilized

Comment: 2269 sq. ft., 1-story, needs rehab, most recent use—maintenance shop, off-site use only

Bldg. 4024, Fort Benning

Ft. Benning Co: Muscogee GA 31905-

Landholding Agency: Army

Property Number: 21199310462

Status: Unutilized

Comment: 3281 sq. ft., 1-story, needs rehab, most recent use—maintenance shop, off-site use only

Bldg. 4067, Fort Benning

Ft. Benning Co: Muscogee GA 31905-

Landholding Agency: Army

Property Number: 21199310465

Status: Unutilized

Comment: 4406 sq. ft., 1-story, needs rehab, most recent use—admin. off-site use only

Bldg. 10501

Fort Gordon

Fort Gordon Co: Richmond GA 30905-

Landholding Agency: Army

Property Number: 21199410264

Status: Unutilized

Comment: 2516 sq. ft.; 1 story; wood; needs rehab.; most recent use—office; off-site use only

Bldg. 11813

Fort Gordon

Fort Gordon Co: Richmond GA 30905-

Landholding Agency: Army

Property Number: 21199410269

Status: Unutilized

Comment: 70 sq. ft.; 1 story; metal; needs rehab.; most recent use—storage; off-site use only

Bldg. 21314

Fort Gordon

Fort Gordon Co: Richmond GA 30905-

Landholding Agency: Army

Property Number: 21199410270

Status: Unutilized

Comment: 85 sq. ft.; 1 story; needs rehab.; most recent use—storage; off-site use only

Bldg. 12809

Fort Gordon

Fort Gordon Co: Richmond GA 30905-

Landholding Agency: Army

Property Number: 21199410272

Status: Unutilized

Comment: 2788 sq. ft.; 1 story; wood; needs rehab.; most recent use—maintenance shop; off-site use only

Bldg. 10306

Fort Gordon

Fort Gordon Co: Richmond GA 30905-

Landholding Agency: Army

Property Number: 21199410273

Status: Unutilized

Comment: 195 sq. ft.; 1 story; wood; most recent use—oil storage shed; off-site use only

Bldg. 4051, Fort Benning

Ft. Benning Co: Muscogee GA 31905-

Landholding Agency: Army

Property Number: 21199520175

Status: Unutilized

Comment: 967 sq. ft., 1-story, needs rehab, most recent use—storage, off-site use only

Bldg. 2141

Fort Gordon

Ft. Gordon Co: Richmond GA 30905-

Landholding Agency: Army

Property Number: 21199610655

Status: Unutilized

Comment: 2283 sq. ft., needs repair, most recent use—office, off-site use only

Bldg. 322

Fort Benning

Ft. Benning Co: Muscogee GA 31905-

Landholding Agency: Army

Property Number: 21199720156

Status: Unutilized

Comment: 9600 sq. ft., needs rehab, most recent use—admin., off-site use only

Bldg. 1737

Fort Benning

Ft. Benning Co: Muscogee GA 31905-

Landholding Agency: Army

Property Number: 21199720161

Status: Unutilized

Comment: 1500 sq. ft., needs rehab, most recent use—storage, off-site use only

Bldg. 2593

Fort Benning

Ft. Benning Co: Muscogee GA 31905-

Landholding Agency: Army

Property Number: 21199720167

Status: Unutilized

Comment: 13644 sq. ft., needs rehab, most recent use—parachute shop, off-site use only

Bldg. 2595

Fort Benning

Ft. Benning Co: Muscogee GA 31905-

Landholding Agency: Army

Property Number: 21199720168

Status: Unutilized

Comment: 3356 sq. ft., needs rehab, most recent use—chapel, off-site use only

Bldgs. 2865, 2869, 2872

Fort Benning

Ft. Benning Co: Muscogee GA 31905-

Landholding Agency: Army

Property Number: 21199720169

Status: Unutilized

Comment: approx. 1100 sq. ft. each, needs rehab, most recent use—shower fac., off-site use only

Bldg. 4476

Fort Benning

Ft. Benning Co: Muscogee GA 31905-

Landholding Agency: Army

Property Number: 21199720184

Status: Unutilized

Comment: 3148 sq. ft., needs rehab, most recent use—vehicle maint. shop, off-site use only

8 Bldgs.

Fort Benning

4700-4701, 4704-4707, 4710-4711

Ft. Benning Co: Muscogee GA 31905-

Landholding Agency: Army

Property Number: 21199720189

Status: Unutilized

Comment: 6433 sq. ft. each, needs rehab, most recent use—unaccompanied personnel housing, off-site use only

Bldg. 4714

Fort Benning

Ft. Benning Co: Muscogee GA 31905-

Landholding Agency: Army

Property Number: 21199720191

Status: Unutilized

Comment: 1983 sq. ft., needs rehab, most recent use—battalion headquarters bldg., off-site use only

Bldg. 4702

Fort Benning

Ft. Benning Co: Muscogee GA 31905-

Landholding Agency: Army

Property Number: 21199720192

Status: Unutilized

Comment: 3690 sq. ft., needs rehab, most recent use—dining facility off-site use only

Bldgs. 4712-4713

Fort Benning

Ft. Benning Co: Muscogee GA 31905-

Landholding Agency: Army

Property Number: 21199720193

Status: Unutilized

Comment: 1983 sq. ft. and 10270 sq. ft., needs rehab, most recent use—company headquarters bldg., off-site use only

Bldg. 305

Fort Benning

Ft. Benning Co: Muscogee GA 31905-

Landholding Agency: Army

Property Number: 21199810268

Status: Unutilized

Comment: 4083 sq. ft., most recent use—recreation center, off-site use only

Bldg. 318

Fort Benning

Ft. Benning Co: Muscogee GA 31905-

Landholding Agency: Army

Property Number: 21199810269

Status: Unutilized

Comment: 374 sq. ft., poor condition, most recent use—maint. shop, off-site use only

Bldg. 1792

Fort Benning

Ft. Benning Co: Muscogee GA 31905-

Landholding Agency: Army

Property Number: 21199810274

Status: Unutilized

Comment: 10,200 sq. ft., most recent use—storage, off-site use only

Bldg. 1836

Fort Benning

Ft. Benning Co: Muscogee GA 31905-

Landholding Agency: Army

Property Number: 21199810276

Status: Unutilized

Comment: 2998 sq. ft., most recent use—admin., off-site use only

Bldg. 4373

Fort Benning

Ft. Benning Co: Muscogee GA 31905-

Landholding Agency: Army

Property Number: 21199810286

Status: Unutilized

Comment: 409 sq. ft., poor condition, most recent use—station bldg. off-site use only

Bldg. 4628

Fort Benning

Ft. Benning Co: Muscogee GA 31905-

Landholding Agency: Army

Property Number: 21199810287

Status: Unutilized

Comment: 5483 sq. ft., most recent use—admin., off-site use only

Bldg. 92

Fort Benning

Co: Muscogee GA 31905-

Landholding Agency: Army

Property Number: 21199830278

Status: Unutilized

Comment: 637 sq. ft., needs rehab, most recent use—admin., off-site use only

Bldg. 2445

Fort Benning

Co: Muscogee GA 31905-

Landholding Agency: Army

Property Number: 21199830279

Status: Unutilized

Comment: 2385 sq. ft., needs rehab, most recent use—fire station, off-site use only

Bldg. 4232

Fort Benning

Co: Muscogee GA 31905-

Landholding Agency: Army

Property Number: 21199830291

Status: Unutilized

Comment: 3270 sq. ft., needs rehab, most recent use—maint. bay off-site use only

Bldg. 39720

Fort Gordon

Ft. Gordon Co: Richmond GA 30905-

Landholding Agency: Army

Property Number: 21199930119

Status: Unutilized

Comment: 1520 sq. ft., concrete block, possible asbestos/lead paint, most recent use—office, off-site use only

Bldg. 492

Fort Benning

Ft. Benning Co: Muscogee GA 31905-

Landholding Agency: Army

Property Number: 21199930120

Status: Unutilized

Comment: 720 sq. ft., most recent use—admin/maint, off-site use only

Bldg. 880

Fort Benning

Ft. Benning Co: Muscogee GA 31905-

Landholding Agency: Army

Property Number: 21199930121

Status: Unutilized

Comment: 57,110 sq. ft., most recent use—instruction, off-site use only

Bldg. 1370

Fort Benning

Ft. Benning Co: Muscogee GA 31905-

Landholding Agency: Army

Property Number: 21199930122

Status: Unutilized

Comment: 5204 sq. ft., most recent use—hdqts. bldg., off-site use only

Bldg. 2288

Fort Benning

Ft. Benning Co: Muscogee GA 31905-

Landholding Agency: Army

Property Number: 21199930123

Status: Unutilized

Comment: 2481 sq. ft., most recent use—admin., off-site use only

Bldg. 2290

Fort Benning

Ft. Benning Co: Muscogee GA 31905-

Landholding Agency: Army

Property Number: 21199930124

Status: Unutilized

Comment: 455 sq. ft., most recent use—storage, off-site use only

Bldg. 2293

Fort Benning

Ft. Benning Co: Muscogee GA 31905-

Landholding Agency: Army

Property Number: 21199930125

Status: Unutilized

Comment: 2600 sq. ft., most recent use—hdqts. bldg., off-site use only

Bldg. 2297

Fort Benning

Ft. Benning Co: Muscogee GA 31905-

Landholding Agency: Army

Property Number: 21199930126

Status: Unutilized

Comment: 5156 sq. ft., most recent use—admin., off-site use only

Bldg. 2505

Fort Benning

Ft. Benning Co: Muscogee GA 31905-

Landholding Agency: Army

Property Number: 21199930127

Status: Unutilized

Comment: 10,257 sq. ft., most recent use—repair shop, off-site use only

Bldg. 2508

Fort Benning

Ft. Benning Co: Muscogee GA 31905-

Landholding Agency: Army

Property Number: 21199930128

Status: Unutilized

Comment: 2434 sq. ft., most recent use—storage, off-site use only

Bldg. 2815

Fort Benning

Ft. Benning Co: Muscogee GA 31905-

Landholding Agency: Army

Property Number: 21199930129

Status: Unutilized

Comment: 2578 sq. ft., most recent use—hdqts. bldg., off-site use only

Bldg. 3815

Fort Benning

Ft. Benning Co: Muscogee GA 31905-

Landholding Agency: Army

Property Number: 21199930130

Status: Unutilized

Comment: 7575 sq. ft., most recent use—storage, off-site use only

Bldg. 3816

Fort Benning

Ft. Benning Co: Muscogee GA 31905-

Landholding Agency: Army

Property Number: 21199930131

Status: Unutilized

Comment: 7514 sq. ft., most recent use—storage, off-site use only

Bldg. 4555

Fort Benning

Ft. Benning Co: Muscogee GA 31905-

Landholding Agency: Army

Property Number: 21199930132

Status: Unutilized

Comment: 18,240 sq. ft., most recent use—maint. shop, off-site use only

Bldg. 5886

Fort Benning

Ft. Benning Co: Muscogee GA 31905-

Landholding Agency: Army

Property Number: 21199930134

Status: Unutilized

Comment: 67 sq. ft., most recent use—maint/storage, off-site use only

Bldgs. 5974-5978

Fort Benning

Ft. Benning Co: Muscogee GA 31905-

Landholding Agency: Army

Property Number: 21199930135

Status: Unutilized

Comment: 400 sq. ft., most recent use—storage, off-site use only

Bldg. 5993

Fort Benning

Ft. Benning Co: Muscogee GA 31905-

Landholding Agency: Army

Property Number: 21199930136

Status: Unutilized

Comment: 960 sq. ft., most recent use—storage, off-site use only

Bldg. 5994

Fort Benning

Ft. Benning Co: Muscogee GA 31905-

Landholding Agency: Army

Property Number: 21199930137

Status: Unutilized

Comment: 2016 sq. ft., most recent use—storage, off-site use only

Hawaii

P-88

Aliamanu Military

Reservation

Honolulu Co: Honolulu HI 96818-

Location: Approximately 600 feet from Main Gate on Aliamanu Drive.

Landholding Agency: Army

Property Number: 21199030324

Status: Unutilized

Comment: 45,216 sq. ft. underground tunnel complex, pres. of asbestos clean-up required of contamination, use of respirator required by those entering property, use limitations

Bldg. T-675A

Schofield Barracks

Wahiawa HI 96786-

Landholding Agency: Army

Property Number: 21199640202

Status: Unutilized

Comment: 4365 sq. ft., most recent use—office, off-site use only

Bldg. T-337

Fort Shafter

Honolulu Co: Honolulu HI 96819-

Landholding Agency: Army

Property Number: 21199640203

Status: Unutilized

Comment: 132 sq. ft., most recent use—storage, off-site use only

Illinois

Bldg. 54

Rock Island Arsenal

Rock Island Co: Rock Island IL 61299-

Landholding Agency: Army

Property Number: 21199620666

Status: Unutilized

Comment: 2000 sq. ft., most recent use—oil storage, needs repair, off-site use only

Bldgs. HP113, 114

Sheridan Army Reserve

Complex

Sheridan Co: IL 60037-

Landholding Agency: Army

Property Number: 21199920186

Status: Unutilized

Comment: 2864 sq. ft. and 3458 sq. ft., most recent use—admin., off-site use only

Bldgs. HP432-439

Sheridan Army Reserve

Complex

Sheridan Co: IL 60037-

Landholding Agency: Army

Property Number: 21199920189

Status: Unutilized

Comment: 4845 sq. ft. each, presence of asbestos, most recent use—admin/storage, off-site use only

Bldgs. HP459, 460

Sheridan Army Reserve

Complex

Sheridan Co: IL 60037-

Landholding Agency: Army

Property Number: 21199920191

Status: Unutilized

Comment: 4848 sq. ft., presence of asbestos, most recent use—storage, off-site use only

Kansas

Bldg. 166, Fort Riley

Ft. Riley Co: Geary KS 66442-

Landholding Agency: Army

Property Number: 21199410325

Status: Unutilized

Comment: 3803 sq. ft., 3-story brick residence, needs rehab, presence of asbestos, located within National Registered Historic District

Bldg. 184, Fort Riley

Ft. Riley KS 66442-

Landholding Agency: Army

Property Number: 21199430146

Status: Unutilized

Comment: 1959 sq. ft., 1-story, needs rehab, presence of asbestos, most recent use—boiler plant, historic district

Bldg. P-390

Fort Leavenworth

Leavenworth KS 66027-

Landholding Agency: Army

Property Number: 21199740295

Status: Unutilized

Comment: 4713 sq. ft., presence of lead based paint, most recent use—swine house, off-site use only

Bldg. T-323

Fort Leavenworth

Leavenworth Co: Leavenworth KS 66027-

Landholding Agency: Army

Property Number: 21199810297

Status: Unutilized

Comment: 720 sq. ft., most recent use—boy scout bldg., off-site use only

Bldg. T-688

Fort Leavenworth

Leavenworth Co: Leavenworth KS 66027-

Landholding Agency: Army

Property Number: 21199810298

Status: Unutilized

Comment: 832 sq. ft., possible lead paint, most recent use—girl scout bldg., off-site use only

Bldg. T-895

Fort Leavenworth

Leavenworth Co: Leavenworth KS 66027-

Landholding Agency: Army

Property Number: 21199810299

Status: Unutilized

Comment: 228 sq. ft., possible lead paint, most recent use—storage, off-site use only

Bldg. P-68

Fort Leavenworth

Leavenworth KS 66027-

Landholding Agency: Army

Property Number: 21199820153

Status: Unutilized

Comment: 2236 sq. ft., most recent use—vehicle storage, off-site use only

Bldg. P-69

Fort Leavenworth

Leavenworth KS 66027-

Landholding Agency: Army

Property Number: 21199820154

Status: Unutilized

Comment: 224 sq. ft., most recent use—storage, off-site use only

Bldg. P-93

Fort Leavenworth

Leavenworth KS 66027-

Landholding Agency: Army

Property Number: 21199820155

Status: Unutilized

Comment: 63 sq. ft., concrete, most recent use—storage, off-site use only

Bldg. P-128

Fort Leavenworth

Leavenworth KS 66027-

Landholding Agency: Army

Property Number: 21199820156

Status: Unutilized

Comment: 79 sq. ft., concrete, most recent use—storage, off-site use only

Bldg. P-321

Fort Leavenworth

Leavenworth KS 66027-

Landholding Agency: Army

Property Number: 21199820157

Status: Unutilized

Comment: 600 sq. ft., most recent use—picnic shelter, off-site use only

Bldg. P-347

Fort Leavenworth

Leavenworth KS 66027-

Landholding Agency: Army

Property Number: 21199820158

Status: Unutilized

Comment: 2135 sq. ft., most recent use—bath house, off-site use only

Bldg. P-397

Fort Leavenworth

Leavenworth KS 66027-

Landholding Agency: Army

Property Number: 21199820159

Status: Unutilized

Comment: 80 sq. ft., most recent use—storage, off-site use only

Bldg. S-809

Fort Leavenworth

Leavenworth KS 66027-

Landholding Agency: Army

Property Number: 21199820160

Status: Unutilized

Comment: 39 sq. ft., most recent use—access control, off-site use only

Bldg. S-830

Fort Leavenworth

Leavenworth KS 66027-

Landholding Agency: Army

Property Number: 21199820161

Status: Unutilized

Comment: 5789 sq. ft., most recent use—underground storage, off-site use only

Bldg. S-831

Fort Leavenworth

Leavenworth KS 66027-

Landholding Agency: Army

Property Number: 21199820162

Status: Unutilized

Comment: 5789 sq. ft., most recent use—underground storage, off-site use only

Bldg. T-2360

Fort Riley

Ft. Riley KS

Landholding Agency: Army

Property Number: 21199830310

Status: Unutilized

Comment: 4534 sq. ft., needs major rehab, most recent use—aces. fac.

Bldgs. P-104, P-105, P-106

Fort Leavenworth

Leavenworth KS 66027-

Landholding Agency: Army

Property Number: 21199830313

Status: Unutilized

Comment: 81 sq. ft., most recent use—storage, off-site use only

Bldg. P-108

Fort Leavenworth

Leavenworth KS 66027-

Landholding Agency: Army

Property Number: 21199830314

Status: Unutilized

Comment: 138 sq. ft., most recent use—storage, off-site use only

Bldg. P-147

Fort Leavenworth

Leavenworth KS 66027-

Landholding Agency: Army

Property Number: 21199830315

Status: Unutilized

Comment: 378 sq. ft., most recent use—storage, off-site use only

Bldgs. P-163, P-169

Fort Leavenworth

Leavenworth KS 66027-

Landholding Agency: Army

Property Number: 21199830316

Status: Unutilized

Comment: 87 sq. ft., most recent use—storage, off-site use only

Bldg. P-164

Fort Leavenworth

Leavenworth KS 66027-

Landholding Agency: Army

Property Number: 21199830317

Status: Unutilized

Comment: 145 sq. ft., most recent use—storage, off-site use only

Bldg. P-171

Fort Leavenworth

Leavenworth KS 66027-

Landholding Agency: Army

Property Number: 21199830318

Status: Unutilized

Comment: 144 sq. ft., most recent use—storage, off-site use only

Bldg. P-172

Fort Leavenworth

Leavenworth KS 66027-

Landholding Agency: Army

Property Number: 21199830319

Status: Unutilized

Comment: 87 sq. ft., most recent use—storage, off-site use only

Bldgs. P-173, P-174

Fort Leavenworth

Leavenworth KS 66027-

Landholding Agency: Army

Property Number: 21199830320

Status: Unutilized

Comment: 120 sq. ft., most recent use—storage, off-site use only

Bldg. P-243

Fort Leavenworth

Leavenworth KS 66027-

Landholding Agency: Army

Property Number: 21199830321

Status: Unutilized

Comment: 242 sq. ft., most recent use—industrial, off-site use only

Bldg. P-146

Fort Leavenworth

Leavenworth Co: KS 66027-

Landholding Agency: Army

Property Number: 21199920198

Status: Unutilized

Comment: 196 sq. ft., most recent use—utility, off-site use only

Bldg. P-149

Fort Leavenworth

Leavenworth Co: KS 66027-

Landholding Agency: Army

Property Number: 21199920199

Status: Unutilized

Comment: 76 sq. ft., most recent use—utility, off-site use only

Bldg. P-150

Fort Leavenworth

Leavenworth Co: KS 66027-

Landholding Agency: Army

Property Number: 21199920200

Status: Unutilized

Comment: 96 sq. ft., most recent use—utility, off-site use only

Bldg. P-162

Fort Leavenworth

Leavenworth Co: KS 66027-

Landholding Agency: Army

Property Number: 21199920201

Status: Unutilized

Comment: 81 sq. ft., most recent use—utility, off-site use only

Bldg. P-242

Fort Leavenworth

Leavenworth Co: KS 66027-

Landholding Agency: Army

Property Number: 21199920202

Status: Unutilized

Comment: 4680 sq. ft., most recent use—storage, off-site use only

Bldg. T-71

Fort Leavenworth

Leavenworth Co: KS 66027-

Landholding Agency: Army

Property Number: 21199930139

Status: Unutilized

Comment: 180 sq. ft., most recent use—storage, off-site use only

Bldg. P-75

Fort Leavenworth

Leavenworth Co: KS 66027-

Landholding Agency: Army

Property Number: 21199930140

Status: Unutilized

Comment: 12,129 sq. ft., most recent use—storage, off-site use only

Bldg. P-76

Fort Leavenworth

Leavenworth Co: KS 66027-

Landholding Agency: Army

Property Number: 21199930141

Status: Unutilized

Comment: 180 sq. ft., most recent use—storage, off-site use only

Bldgs. P-26, P-97

Fort Leavenworth

Leavenworth Co: KS 66027-

Landholding Agency: Army

Property Number: 21199930142

Status: Unutilized

Comment: 84 sq. ft., most recent use—utility, off-site use only

Bldgs. P-110, P-114, P-115

Fort Leavenworth

Leavenworth Co: KS 66027-

Landholding Agency: Army

Property Number: 21199930143

Status: Unutilized

Comment: 85-92 sq. ft., most recent use—utility, off-site use only

Bldg. P-118

Fort Leavenworth

Leavenworth Co: KS 66027-

Landholding Agency: Army

Property Number: 21199930144

Status: Unutilized

Comment: 117 sq. ft., most recent use—storage, off-site use only

Bldgs. P-160, P-161, P-165

Fort Leavenworth

Leavenworth Co: KS 66027-

Landholding Agency: Army

Property Number: 21199930145

Status: Unutilized

Comment: 86-88 sq. ft., most recent use—utility, off-site use only

Bldg. P-223

Fort Leavenworth

Leavenworth Co: KS 66027-

Landholding Agency: Army

Property Number: 21199930146

Status: Unutilized

Comment: 7,174 sq. ft., most recent use—storage, off-site use only

Bldg. T-236

Fort Leavenworth

Leavenworth Co: KS 66027-

Landholding Agency: Army

Property Number: 21199930147

Status: Unutilized

Comment: 4563 sq. ft., most recent use—storage, off-site use only

Bldg. P-241

Fort Leavenworth

Leavenworth Co: KS 66027-

Landholding Agency: Army

Property Number: 21199930148

Status: Unutilized

Comment: 5920 sq. ft., most recent use—storage, off-site use only

Bldg. T-257

Fort Leavenworth

Leavenworth Co: KS 66027-

Landholding Agency: Army

Property Number: 21199930149

Status: Unutilized

Comment: 5920 sq. ft., most recent use—storage, off-site use only

Bldg. P-309

Fort Leavenworth

Leavenworth Co: KS 66027-

Landholding Agency: Army

Property Number: 21199930150

Status: Unutilized

Comment: 71 sq. ft., most recent use—storage, off-site use only

Bldg. T347

Fort Riley

Ft. Riley Co: Manhatten KS 66442-

Landholding Agency: Army

Property Number: 21199940012

Status: Unutilized

Comment: 2888 sq. ft., most recent use—storage, off-site use only

Louisiana

Bldg. 8405, Fort Polk

Ft. Polk Co: Vernon Parish LA 71459-

Landholding Agency: Army

Property Number: 21199640524

Status: Underutilized

Comment: 1029 sq. ft., most recent use—office

Bldg. 8407, Fort Polk

Ft. Polk Co: Vernon Parish LA 71459-

Landholding Agency: Army

Property Number: 21199640525

Status: Underutilized

Comment: 2055 sq. ft., most recent use—admin.

Bldg. 8408, Fort Polk

Ft. Polk Co: Vernon Parish LA 71459-

Landholding Agency: Army

Property Number: 21199640526

Status: Underutilized

Comment: 2055 sq. ft., most recent use—admin.

Bldg. 8414, Fort Polk

Ft. Polk Co: Vernon Parish LA 71459-

Landholding Agency: Army

Property Number: 21199640527

Status: Underutilized

Comment: 4172 sq. ft., most recent use—barracks

Bldg. 8423, Fort Polk

Ft. Polk Co: Vernon Parish LA 71459-

Landholding Agency: Army

Property Number: 21199640528

Status: Underutilized

Comment: 4172 sq. ft., most recent use—barracks

Bldg. 8424, Fort Polk

Ft. Polk Co: Vernon Parish LA 71459-

Landholding Agency: Army

Property Number: 21199640529

Status: Underutilized

Comment: 4172 sq. ft., most recent use—barracks

Bldg. 8426, Fort Polk

Ft. Polk Co: Vernon Parish LA 71459-

Landholding Agency: Army

Property Number: 21199640530

Status: Underutilized

Comment: 4172 sq. ft., most recent use—barracks

Bldg. 8427, Fort Polk

Ft. Polk Co: Vernon Parish LA 71459-

Landholding Agency: Army

Property Number: 21199640531

Status: Underutilized

Comment: 4172 sq. ft., most recent use—barracks

Bldg. 8428, Fort Polk

Ft. Polk Co: Vernon Parish LA 71459-

Landholding Agency: Army

Property Number: 21199640532

Status: Underutilized

Comment: 4172 sq. ft., most recent use—barracks

Bldg. 8429, Fort Polk

Ft. Polk Co: Vernon Parish LA 71459-

Landholding Agency: Army

Property Number: 21199640533

Status: Underutilized

Comment: 4172 sq. ft., most recent use—barracks

Bldg. 8430, Fort Polk

Ft. Polk Co: Vernon Parish LA 71459-

Landholding Agency: Army

Property Number: 21199640534

Status: Underutilized

Comment: 4172 sq. ft., most recent use—barracks

Bldg. 8431, Fort Polk

Ft. Polk Co: Vernon Parish LA 71459-

Landholding Agency: Army

Property Number: 21199640535

Status: Underutilized

Comment: 4172 sq. ft., most recent use—barracks

Bldg. 8432, Fort Polk

Ft. Polk Co: Vernon Parish LA 71459-

Landholding Agency: Army

Property Number: 21199640536

Status: Underutilized

Comment: 4172 sq. ft., most recent use—barracks

Bldg. 8433, Fort Polk

Ft. Polk Co: Vernon Parish LA 71459-

Landholding Agency: Army

Property Number: 21199640537

Status: Underutilized

Comment: 4172 sq. ft., most recent use—barracks

Bldg. 8446, Fort Polk

Ft. Polk Co: Vernon Parish LA 71459-

Landholding Agency: Army

Property Number: 21199640538

Status: Underutilized

Comment: 2093 sq. ft., most recent use—admin.

Bldg. 8449, Fort Polk

Ft. Polk Co: Vernon Parish LA 71459-

Landholding Agency: Army

Property Number: 21199640539

Status: Underutilized

Comment: 2093 sq. ft., most recent use—office

Bldg. 8450, Fort Polk

Ft. Polk Co: Vernon Parish LA 71459-

Landholding Agency: Army

Property Number: 21199640540

Status: Underutilized

Comment: 2093 sq. ft., most recent use—admin.

Bldg. 8458, Fort Polk

Ft. Polk Co: Vernon Parish LA 71459-

Landholding Agency: Army

Property Number: 21199640542

Status: Underutilized

Comment: 4172 sq. ft., most recent use—barracks

Bldg. 8459, Fort Polk

Ft. Polk Co: Vernon Parish LA 71459-

Landholding Agency: Army

Property Number: 21199640543

Status: Underutilized

Comment: 4172 sq. ft., most recent use—barracks

Bldg. 8460, Fort Polk

Ft. Polk Co: Vernon Parish LA 71459-

Landholding Agency: Army

Property Number: 21199640544

Status: Underutilized

Comment: 4172 sq. ft., most recent use—barracks

Bldg. 8461, Fort Polk

Ft. Polk Co: Vernon Parish LA 71459-

Landholding Agency: Army

Property Number: 21199640545

Status: Underutilized

Comment: 4172 sq. ft., most recent use—barracks

Bldg. 8462, Fort Polk

Ft. Polk Co: Vernon Parish LA 71459-

Landholding Agency: Army

Property Number: 21199640546

Status: Underutilized

Comment: 4172 sq. ft., most recent use—barracks

Bldg. 8463, Fort Polk

Ft. Polk Co: Vernon Parish LA 71459-

Landholding Agency: Army

Property Number: 21199640547

Status: Underutilized

Comment: 4172 sq. ft., most recent use—barracks

Bldg. 8501, Fort Polk

Ft. Polk Co: Vernon Parish LA 71459-

Landholding Agency: Army

Property Number: 21199640548

Status: Underutilized

Comment: 1687 sq. ft., most recent use—office

Bldg. 8502, Fort Polk

Ft. Polk Co: Vernon Parish LA 71459-

Landholding Agency: Army

Property Number: 21199640549

Status: Underutilized

Comment: 1029 sq. ft., most recent use—office

Bldg. 8451, Fort Polk

Ft. Polk Co: Vernon Parish LA 71459-

Landholding Agency: Army

Property Number: 21199640551

Status: Underutilized

Comment: 4172 sq. ft., most recent use—barracks

Bldg. 8542, Fort Polk

Ft. Polk Co: Vernon Parish LA 71459-

Landholding Agency: Army

Property Number: 21199640552

Status: Underutilized

Comment: 4172 sq. ft., most recent use—barracks

Bldg. 8543, Fort Polk

Ft. Polk Co: Vernon Parish LA 71459-

Landholding Agency: Army

Property Number: 21199640553

Status: Underutilized

Comment: 4172 sq. ft., most recent use—barracks

Bldg. 8544, Fort Polk

Ft. Polk Co: Vernon Parish LA 71459-

Landholding Agency: Army

Property Number: 21199640554

Status: Underutilized

Comment: 4172 sq. ft., most recent use—barracks

Bldg. 8545, Fort Polk

Ft. Polk Co: Vernon Parish LA 71459-

Landholding Agency: Army

Property Number: 21199640555

Status: Underutilized

Comment: 4172 sq. ft., most recent use—barracks

Bldg. 8546, Fort Polk

Ft. Polk Co: Vernon Parish LA 71459-

Landholding Agency: Army

Property Number: 21199640556

Status: Underutilized

Comment: 4172 sq. ft., most recent use—barracks

Bldg. 8547, Fort Polk

Ft. Polk Co: Vernon Parish LA 71459-

Landholding Agency: Army

Property Number: 21199640557

Status: Underutilized

Comment: 4172 sq. ft., most recent use—barracks

Bldg. 8548, Fort Polk

Ft. Polk Co: Vernon Parish LA 71459-

Landholding Agency: Army

Property Number: 21199640558

Status: Underutilized

Comment: 4172 sq. ft., most recent use—barracks

Bldg. 8549, Fort Polk

Ft. Polk Co: Vernon Parish LA 71459-

Landholding Agency: Army

Property Number: 21199640559

Status: Underutilized

Comment: 4172 sq. ft., most recent use—barracks

Bldg. 4960 A-F

Fort Polk

Ft. Polk Co: Vernon Parish LA 71459-

Landholding Agency: Army

Property Number: 21199940013

Status: Unutilized

Comment: 4412 sq. ft., most recent use—housing, off-site use only

Bldg. 5143 A-D

Fort Polk

Ft. Polk Co: Vernon Parish La 71459-

Landholding Agency: Army

Property Number: 21199940014

Status: Unutilized

Comment: 4109 sq. ft., most recent use—housing, off-site use only

Bldg. 5179 A-F

Fort Polk

Ft. Polk Co: Vernon Parish LA 71459-

Landholding Agency: Army

Property Number: 21199940015

Status: Unutilized

Comment: 8969 sq. ft., most recent use—housing, off-site use only

Bldg. 5253 A-D

Fort Polk

Ft. Polk Co: Vernon Parish LA 71459-

Landholding Agency: Army

Property Number: 21199940016

Status: Unutilized

Comment: 4109 sq. ft., most recent use—housing, off-site use only

Bldg. 5846 A-E

Fort Polk

Ft. Polk Co: Vernon Parish LA 71459-

Landholding Agency: Army

Property Number: 21199940017

Status: Unutilized

Comment: 3919 sq. ft., most recent use—housing, off-site use only

Bldg. 5903 A-F

Fort Polk

Ft. Polk Co: Vernon Parish LA 71459-

Landholding Agency: Army

Property Number: 21199940018

Status: Unutilized

Comment: 5719 sq. ft., most recent use—housing, off-site use only

Bldg. 5909 A-B

Fort Polk

Ft. Polk Co: Vernon Parish LA 71459-

Landholding Agency: Army

Property Number: 21199940019

Status: Unutilized

Comment: 2025 sq. ft., most recent use—housing, off-site use only

Bldg. 6169 A-D

Fort Polk

Ft. Polk Co: Vernon Parish La 71459-

Landholding Agency: Army

Property Number: 21199940020

Status: Unutilized

Comment: 2850 sq. ft., most recent use—housing, off-site use only

Bldg. 6475 A-B

Fort Polk

Ft. Polk Co: Vernon Parish LA 71459-

Landholding Agency: Army

Property Number: 21199940021

Status: Unutilized

Comment: 5100 sq. ft., most recent use—housing, off-site use only

Bldg. 6477 A-D

Fort Polk

Ft. Polk Co: Vernon Parish LA 71459-

Landholding Agency: Army

Property Number: 21199940022

Status: Unutilized

Comment: 5972 sq. ft., most recent use—housing, off-site use only

Bldg. 6704 A-D

Fort Polk

Ft. Polk Co: Vernon Parish LA 71459-

Landholding Agency: Army

Property Number: 21199940023

Status: Unutilized

Comment: 5972 sq. ft., most recent use—housing, off-site use only

Bldg.6810 A-D

Fort Polk

Ft. Polk Co: Vernon Parish LA 71459-

Landholding Agency: Army

Property Number: 21199940024

Status: Unutilized

Comment: 6193 sq. ft., most recent use—housing, off-site use only

Maryland

Bldg. 370

Fort Meade

Ft. Meade Co: Anne Arundel MD 20755-5115

Landholding Agency: Army

Property Number: 21199730256

Status: Unutilized

Comment: 19,583 sq. ft., most recent use—NCO club, possible asbestos/lead paint

Bldg. 2446

Fort George G. Meade

Ft. Meade Co: Anne Arundel MD 20755-5115

Landholding Agency: Army

Property Number: 21199740305

Status: Unutilized

Comment: 4720 sq. ft., presence of asbestos/lead paint, most recent use—admin., off-site use only

Bldg. 2472

Fort George G. Meade

Ft. Meade Co: Anne Arundel MD 20755-5115

Landholding Agency: Army

Property Number: 21199740306

Status: Unutilized

Comment: 7670 sq. ft., presence of asbestos/lead paint, most recent use—admin., off-site use only

Bldg. 4700

Fort George G. Meade

Ft. Meade Co: Anne Arundel MD 20755-5115

Landholding Agency: Army

Property Number: 21199740309

Status: Unutilized

Comment: 36,619 sq. ft., presence of asbestos/lead paint, most recent use—admin., off-site use only

Bldg. 6294

Fort Meade

Ft. Meade Co: Anne Arundel MD 20755-5115

Landholding Agency: Army

Property Number: 21199810302

Status: Unutilized

Comment: 4720 sq. ft., needs rehab, presence of asbestos/lead paint, most recent use—custodial, off-site use only

Bldg. 3176

Fort Meade

Ft. Meade Co: Anne Arundel MD 20755-5115

Landholding Agency: Army

Property Number: 21199810303

Status: Unutilized

Comment: 7670 sq. ft., needs rehab, presence of asbestos/lead paint, most recent use—admin., off-site use only

Bldg. E5813

Aberdeen Proving Ground

Co: Harford MD 21005-5001

Landholding Agency: Army

Property Number: 21199830326

Status: Unutilized

Comment: 69 sq. ft., presence of asbestos/lead paint, most recent use—storage

Bldg. 00307

Aberdeen Proving Ground

Aberdeen Co: Harford MD 21005-

Landholding Agency: Army

Property Number: 21199930152

Status: Unutilized

Comment: 4071 sq. ft., most recent use—admin., off-site use only

Bldg. 00646

Aberdeen Proving Ground

Aberdeen Co: Harford MD 21005-

Landholding Agency: Army

Property Number: 21199930153

Status: Unutilized

Comment: 880 sq. ft., presence of asbestos/lead paint, most recent use—storage, off-site use only

Bldg. 01110

Aberdeen Proving Ground

Aberdeen Co: Harford MD 21005-

Landholding Agency: Army

Property Number: 21199930154

Status: Unutilized

Comment: 396 sq. ft., most recent use—magazine, off-site use only

Bldg. 01195

Aberdeen Proving Ground

Aberdeen Co: Harford MD 21005-

Landholding Agency: Army

Property Number: 21199930155

Status: Unutilized

Comment: 120 sq. ft., most recent use—storage, off-site use only

Bldg. E3264

Aberdeen Proving Ground

Aberdeen Co: Harford MD 21005-

Landholding Agency: Army

Property Number: 21199930156

Status: Unutilized

Comment: 64 sq. ft., most recent use—access control facility, off-site use only

Bldg. E3333

Aberdeen Proving Ground

Aberdeen Co: Harford MD 21005-

Landholding Agency: Army

Property Number: 21199930157

Status: Unutilized

Comment: 64 sq. ft., most recent use—access control facility, off-site use only

Bldgs. 2454-2457

Fort George G. Meade

Ft. Meade Co: Anne Arundel MD 20755-5115

Landholding Agency: Army

Property Number: 21199940025

Status: Unutilized

Comment: 4720 sq. ft., needs rehab, presence of asbestos, most recent use—admin./health clinics, off-site use only

Bldg. 2478

Fort George G. Meade

Ft. Meade Co: Anne Arundel MD 20755-5115

Landholding Agency: Army

Property Number: 21199940026

Status: Unutilized

Comment: 2534 sq. ft., needs rehab, presence of asbestos, most recent use—health clinic, off-site use only

Bldg. 2845

Fort George G. Meade

Ft. Meade Co: Anne Arundel MD 20755-5115

Landholding Agency: Army

Property Number: 21199940027

Status: Unutilized

Comment: 6104 sq. ft., needs rehab, presence of asbestos/lead paint, most recent use—admin., off-site use only

Missouri

Bldg. T599

Fort Leonard Wood

Ft. Leonard Wood Co: Pulaski MO 65473-5000

Landholding Agency: Army

Property Number: 21199230260

Status: Underutilized

Comment: 18270 sq. ft., 1-story, presence of asbestos, most recent use—storehouse, off-site use only

Bldg. T2171

Fort Leonard Wood

Ft. Leonard Wood Co: Pulaski MO 65473-5000

Landholding Agency: Army

Property Number: 21199340212

Status: Unutilized

Comment: 1296 sq. ft., 1-story wood frame, most recent use—administrative, no handicap fixtures, lead base paint, off-site use only

Bldg. T6822

Fort Leonard Wood

Ft. Leonard Wood Co: Pulaski MO 65473-5000

Landholding Agency: Army

Property Number: 21199340219

Status: Underutilized

Comment: 4000 sq. ft., 1-story wood frame, most recent use—storage, no handicap fixtures, off-site use only

Bldg. T1497

Fort Leonard Wood

Ft. Leonard Wood Co: Pulaski MO 65473-5000

Landholding Agency: Army

Property Number: 21199420441

Status: Underutilized

Comment: 4720 sq. ft., 2-story, presence of lead base paint, most recent use—admin/gen. purpose, off-site use only

Bldg. T2139

Fort Leonard Wood

Ft. Leonard Wood Co: Pulaski MO 65473-5000

Landholding Agency: Army

Property Number: 21199420446

Status: Underutilized

Comment: 3663 sq. ft., 1-story, presence of lead base paint, most recent use—admin/gen. purpose, off-site use only

Bldg. T-2191

Fort Leonard Wood

Ft. Leonard Wood Co: Pulaski MO 65473-5000

Landholding Agency: Army

Property Number: 21199440334

Status: Excess

Comment: 4720 sq. ft., 2 story wood frame, off-site removal only, to be vacated 8/95, lead based paint, most recent use—barracks

Bldg. T-2197

Fort Leonard Wood

Ft. Leonard Wood Co: Pulaski MO 65473-5000

Landholding Agency: Army

Property Number: 21199440335

Status: Excess

Comment: 4720 sq. ft., 2 story wood frame, off-site removal only, to be vacated 8/95, lead based paint, most recent use—barracks

Bldg. T590

Fort Leonard Wood

Ft. Leonard Wood Co: Pulaski MO 65473-

Landholding Agency: Army

Property Number: 21199510110

Status: Excess

Comment: 3263 sq. ft., 1-story, wood frame, most recent use—admin., to be vacated 8/95, off-site use only

Bldg. T2385

Fort Leonard Wood

Ft. Leonard Wood Co: Pulaski MO 65473-5000

Landholding Agency: Army

Property Number: 21199510115

Status: Excess

Comment: 3158 sq. ft., 1-story, wood frame, most recent use—admin., to be vacated 8/95, off-site use only

Bldgs. T-2340 thru T2343

Fort Leonard Wood

Ft. Leonard Wood Co: Pulaski MO 65473-5000

Landholding Agency: Army

Property Number: 21199710138

Status: Underutilized

Comment: 9267 sq. ft. each, most recent use—storage/general purpose

Bldg. 1226

Fort Leonard Wood

Ft. Leonard Wood Co: Pulaski MO 65473-5000

Landholding Agency: Army

Property Number: 21199730275

Status: Unutilized

Comment: 1600 sq. ft., presence of asbestos/lad paint, most recent use—admin., off-site use only

Bldg. 1271

Fort Leonard Wood

Ft. Leonard Wood Co: Pulaski MO 65473-5000

Landholding Agency: Army

Property Number: 21199730276

Status: Unutilized

Comment: 2360 sq. ft., presence of asbestos/lead paint, most recent use—storage, off-site use only

Bldg. 1280

Fort Leonard Wood

Ft. Leonard Wood Co: Pulaski MO 65473-5000

Landholding Agency: Army

Property Number: 21199730277

Status: Unutilized

Comment: 1144 sq. ft., presence of asbestos/lead paint, most recent use—classroom, off-site use only

Bldg. 1281

Fort Leonard Wood

Ft. Leonard Wood Co: Pulaski MO 65473-5000

Landholding Agency: Army

Property Number: 21199730278

Status: Unutilized

Comment: 2360 sq. ft., presence of asbestos/lead paint, most recent use—classroom, off-site use only

Bldg. 1282

Fort Leonard Wood

Ft. Leonard Wood Co: Pulaski MO 65473-5000

Landholding Agency: Army

Property Number: 21199730279

Status: Unutilized

Comment: 4720 sq. ft., presence of asbestos/lead paint, most recent use—barracks, off-site use only

Bldg. 1283

Fort Leonard Wood

Ft. Leonard Wood Co: Pulaski MO 65473-5000

Landholding Agency: Army

Property Number: 21199730280

Status: Unutilized

Comment: 1296 sq. ft., presence of asbestos/lead paint, most recent use—storage, off-site use only

Bldg. 1284

Fort Leonard Wood

Ft. Leonard Wood Co: Pulaski MO 65473-5000

Landholding Agency: Army

Property Number: 21199730281

Status: Unutilized

Comment: 4720 sq. ft., presence of asbestos/lead paint, most recent use—admin., off-site use only

Bldg. 1285

Fort Leonard Wood

Ft. Leonard Wood Co: Pulaski MO 65473-5000

Landholding Agency: Army

Property Number: 21199730282

Status: Unutilized

Comment: 4720 sq. ft., presence of asbestos/lead paint, most recent use—barracks, off-site use only

Bldg. 1286

Fort Leonard Wood

Ft. Leonard Wood Co: Pulaski MO 65473-5000

Landholding Agency: Army

Property Number: 21199730283

Status: Unutilized

Comment: 1296 sq. ft., presence of asbestos/lead paint, most recent use—admin., off-site use only

Bldg. 1287

Fort Leonard Wood

Ft. Leonard Wood Co: Pulaski MO 65473-5000

Landholding Agency: Army

Property Number: 21199730284

Status: Unutilized

Comment: 4720 sq. ft., presence of asbestos/lead paint, most recent use—barracks, off-site use only

Bldg. 1288

Fort Leonard Wood

Ft. Leonard Wood Co: Pulaski MO 65473-5000

Landholding Agency: Army

Property Number: 21199730285

Status: Unutilized

Comment: 2360 sq. ft., presence of asbestos/lead paint, most recent use—dining facility, off-site use only

Bldg. 1289

Fort Leonard Wood

Ft. Leonard Wood Co: Pulaski MO 65473-5000

Landholding Agency: Army

Property Number: 21199730286

Status: Unutilized

Comment: 1144 sq. ft., presence of asbestos/lead paint, most recent use—classroom, off-site use only

Bldg. 430

Fort Leonard Wood

Ft. Leonard Wood Co: Pulaski MO 65473-5000

Landholding Agency: Army

Property Number: 21199810305

Status: Unutilized

Comment: 4100 sq. ft., presence of asbestos/lead paint, most recent use—Red Cross facility, off-site use only

Bldg. 758

Fort Leonard Wood

Ft. Leonard Wood Co: Pulaski MO 65473-5000

Landholding Agency: Army

Property Number: 21199810306

Status: Unutilized

Comment: 2400 sq. ft., presence of asbestos/lead paint, most recent use—classroom, off-site use only

Bldg. 759

Fort Leonard Wood

Ft. Leonard Wood Co: Pulaski MO 65473-5000

Landholding Agency: Army

Property Number: 21199810307

Status: Unutilized

Comment: 2400 sq. ft., presence of asbestos/lead paint, most recent use—classroom, off-site use only

Bldg. 760

Fort Leonard Wood

Ft. Leonard Wood Co: Pulaski MO 65473-5000

Landholding Agency: Army

Property Number: 21199810308

Status: Unutilized

Comment: 2400 sq. ft., presence of asbestos/lead paint, off-site use only

Bldgs. 761-766

Fort Leonard Wood

Ft. Leonard Wood Co: Pulaski MO 65473-5000

Landholding Agency: Army

Property Number: 21199810309

Status: Unutilized

Comment: 2400 sq. ft., presence of asbestos/lead paint, most recent use—classroom, off-site use only

Bldg. 1650

Fort Leonard Wood

Ft. Leonard Wood Co: Pulaski MO 65473-5000

Landholding Agency: Army

Property Number: 21199810311

Status: Unutilized

Comment: 1676 sq. ft., presence of asbestos/lead paint, most recent use—union hall, off-site use only

Bldg. 2111

Fort Leonard Wood

Ft. Leonard Wood Co: Pulaski MO 65473-5000

Landholding Agency: Army

Property Number: 21199810312

Status: Unutilized

Comment: 1600 sq. ft., presence of asbestos/lead paint, most recent use—union hall, off-site use only

Bldg. 2170

Fort Leonard Wood

Ft. Leonard Wood Co: Pulaski MO 65473-5000

Landholding Agency: Army

Property Number: 21199810313

Status: Unutilized

Comment: 1296 sq. ft., presence of asbestos/lead paint, most recent use—admin., off-site use only

Bldg. 2204

Fort Leonard Wood

Ft. Leonard Wood Co: Pulaski MO 65473-5000

Landholding Agency: Army

Property Number: 21199810315

Status: Unutilized

Comment: 3525 sq. ft., presence of asbestos/lead paint, most recent use—admin., off-site use only

Bldg. 2225

Fort Leonard Wood

Ft. Leonard Wood Co: Pulaski MO 65473-5000

Landholding Agency: Army

Property Number: 21199810316

Status: Unutilized

Comment: 820 sq. ft., presence of lead paint, most recent use—storage, off-site use only

Bldg. 2271

Fort Leonard Wood

Ft. Leonard Wood Co: Pulaski MO 65473-5000

Landholding Agency: Army

Property Number: 21199810317

Status: Unutilized

Comment: 256 sq. ft., presence of lead paint, most recent use—storage, off-site use only

Bldg. 2275

Fort Leonard Wood

Ft. Leonard Wood Co: Pulaski MO 65473-5000

Landholding Agency: Army

Property Number: 21199810318

Status: Unutilized

Comment: 225 sq. ft., presence of lead paint, most recent use—storage, off-site use only

Bldg. 2291

Fort Leonard Wood

Ft. Leonard Wood Co: Pulaski MO 65473-5000

Landholding Agency: Army

Property Number: 21199810319

Status: Unutilized

Comment: 510 sq. ft., presence of lead paint, most recent use—storage, off-site use only

Bldg. 2318

Fort Leonard Wood

Ft. Leonard Wood Co: Pulaski MO 65473-5000

Landholding Agency: Army

Property Number: 21199810322

Status: Unutilized

Comment: 9267 sq. ft., presence of asbestos/lead paint, most recent use—storage, off-site use only

Bldg. 2579

Fort Leonard Wood

Ft. Leonard Wood Co: Pulaski MO 65473-5000

Landholding Agency: Army

Property Number: 21199810325

Status: Unutilized

Comment: 176 sq. ft., presence of asbestos/lead paint, most recent use—storage, off-site use only

Bldg. 2580

Fort Leonard Wood

Ft. Leonard Wood Co: Pulaski MO 65473-5000

Landholding Agency: Army

Property Number: 21199810326

Status: Unutilized

Comment: 200 sq. ft., presence of asbestos/lead paint, most recent use—generator plant, off-site use only

Bldg. 4199

Fort Leonard Wood

Ft. Leonard Wood Co: Pulaski MO 65473-5000

Landholding Agency: Army

Property Number: 21199810327

Status: Unutilized

Comment: 2400 sq. ft., presence of asbestos/lead paint, most recent use—storage, off-site use only

Bldg. 386

Fort Leonard Wood

Ft. Leonard Wood Co: Pulaski MO 65473-5000

Landholding Agency: Army

Property Number: 21199820163

Status: Unutilized

Comment: 4902 sq. ft., presence of asbestos/lead paint, most recent use—fire station, off-site use only

Bldg. 401

Fort Leonard Wood

Ft. Leonard Wood Co: Pulaski MO 65473-5000

Landholding Agency: Army

Property Number: 21199820164

Status: Unutilized

Comment: 9567 sq. ft., presence of asbestos/lead paint, most recent use—admin., off-site use only

Bldg. 856

Fort Leonard Wood

Ft. Leonard Wood Co: Pulaski MO 65473-5000

Landholding Agency: Army

Property Number: 21199820166

Status: Unutilized

Comment: 2400 sq. ft., presence of asbestos/lead paint, most recent use—storage, off-site use only

Bldg. 859

Fort Leonard Wood

Ft. Leonard Wood Co: Pulaski MO 65473-5000

Landholding Agency: Army

Property Number: 21199820167

Status: Unutilized

Comment: 2400 sq. ft., presence of asbestos/lead paint, most recent use—storage, off-site use only

Bldg. 1242

Fort Leonard Wood

Ft. Leonard Wood Co: Pulaski MO 65473-5000

Landholding Agency: Army

Property Number: 21199820168

Status: Unutilized

Comment: 260 sq. ft., presence of asbestos/lead paint, most recent use—storage, off-site use only

Bldg. 1265

Fort Leonard Wood

Ft. Leonard Wood Co: Pulaski MO 65473-5000

Landholding Agency: Army

Property Number: 21199820169

Status: Unutilized

Comment: 2360 sq. ft., presence of asbestos/lead paint, most recent use—storage, off-site use only

Bldg. 1267

Fort Leonard Wood

Ft. Leonard Wood Co: Pulaski MO 65473-5000

Landholding Agency: Army

Property Number: 21199820170

Status: Unutilized

Comment: 1144 sq. ft., presence of asbestos/lead paint, most recent use—admin., off-site use only

Bldg. 1272

Fort Leonard Wood

Ft. Leonard Wood Co: Pulaski MO 65473-5000

Landholding Agency: Army

Property Number: 21199820171

Status: Unutilized

Comment: 1144 sq. ft., presence of asbestos/lead paint, most recent use—admin., off-site use only

Bldg. 1277

Fort Leonard Wood

Ft. Leonard Wood Co: Pulaski MO 65473-5000

Landholding Agency: Army

Property Number: 21199820172

Status: Unutilized

Comment: 1144 sq. ft., presence of asbestos/lead paint, most recent use—admin., off-site use only

Bldgs. 2142, 2145, 2151-2153

Fort Leonard Wood

Ft. Leonard Wood Co: Pulaski MO 65473-5000

Landholding Agency: Army

Property Number: 21199820174

Status: Unutilized

Comment: 4720 sq. ft., presence of asbestos/lead paint, most recent use—barracks, off-site use only

Bldg. 2150

Fort Leonard Wood

Ft. Leonard Wood Co: Pulaski MO 65473-5000

Landholding Agency: Army

Property Number: 21199820175

Status: Unutilized

Comment: 2892 sq. ft., presence of asbestos/lead paint, most recent use—dayroom, off-site use only

Bldg. 2155

Fort Leonard Wood

Ft. Leonard Wood Co: Pulaski MO 65473-5000

Landholding Agency: Army

Property Number: 21199820176

Status: Unutilized

Comment: 1296 sq. ft., presence of asbestos/lead paint, most recent use—admin., off-site use only

Bldgs. 2156, 2157, 2163, 2164

Fort Leonard Wood

Ft. Leonard Wood Co: Pulaski MO 65473-5000

Landholding Agency: Army

Property Number: 21199820177

Status: Unutilized

Comment: 4720 sq. ft., presence of asbestos/lead paint, most recent use—barracks, off-site use only

Bldg. 2165

Fort Leonard Wood

Ft. Leonard Wood Co: Pulaski MO 65473-5000

Landholding Agency: Army

Property Number: 21199820178

Status: Unutilized

Comment: 2892 sq. ft., presence of asbestos/lead paint, most recent use—dayroom, off-site use only

Bldg. 2167

Fort Leonard Wood

Ft. Leonard Wood Co: Pulaski MO 65473-5000

Landholding Agency: Army

Property Number: 21199820179

Status: Unutilized

Comment: 1296 sq. ft., presence of asbestos/lead paint, most recent use—admin., off-site use only

Bldgs. 2169, 2181, 2182, 2183

Fort Leonard Wood

Ft. Leonard Wood Co: Pulaski MO 65473-5000

Landholding Agency: Army

Property Number: 21199820180

Status: Unutilized

Comment: 4720 sq. ft., presence of asbestos/lead paint, most recent use—barracks, off-site use only

Bldg. 2186

Fort Leonard Wood

Ft. Leonard Wood Co: Pulaski MO 65473-5000

Landholding Agency: Army

Property Number: 21199820181

Status: Unutilized

Comment: 1296 sq. ft., presence of asbestos/lead paint, most recent use—admin., off-site use only

Bldg. 2187

Fort Leonard Wood

Ft. Leonard Wood Co: Pulaski MO 65473-5000

Landholding Agency: Army

Property Number: 21199820182

Status: Unutilized

Comment: 2892 sq. ft., presence of asbestos/lead paint, most recent use—dayroom, off-site use only

Bldgs. 2192, 2196, 2198

Fort Leonard Wood

Ft. Leonard Wood Co: Pulaski MO 65473-5000

Landholding Agency: Army

Property Number: 21199820183

Status: Unutilized

Comment: 4720 sq. ft., presence of asbestos/lead paint, most recent use—barracks, off-site use only

Bldgs. 2304, 2306

Fort Leonard Wood

Ft. Leonard Wood Co: Pulaski MO 65473-5000

Landholding Agency: Army

Property Number: 21199820184

Status: Unutilized

Comment: 1625 sq. ft., presence of asbestos/lead paint, most recent use—storage, off-site use only

Bldg. 12651

Fort Leonard Wood

Ft. Leonard Wood Co: Pulaski MO 65473-5000

Landholding Agency: Army

Property Number: 21199820186

Status: Unutilized

Comment: 240 sq. ft., presence of lead paint, off-site use only

Bldg. 1448

Fort Leonard Wood

Ft. Leonard Wood Co: Pulaski MO 65473-5000

Landholding Agency: Army

Property Number: 21199830327

Status: Unutilized

Comment: 8450 sq. ft., presence of asbestos/lead paint, most recent use—training, off-site use only

Bldg. 2210

Fort Leonard Wood

Ft. Leonard Wood Co: Pulaski MO 65473-5000

Landholding Agency: Army

Property Number: 21199830328

Status: Unutilized

Comment: 808 sq. ft., concrete, presence of asbestos/lead paint, most recent use—storage, off-site use only

Bldg. 2270

Fort Leonard Wood

Co: Pulaski MO 65473-5000

Landholding Agency: Army

Property Number: 21199830329

Status: Unutilized

Comment: 256 sq. ft., concrete, presence of asbestos/lead paint, most recent use—storage, off-site use only

Bldg. 6036

Fort Leonard Wood

Pulaski Co: MO 65473-8994

Landholding Agency: Army

Property Number: 21199910101

Status: Underutilized

Comment: 240 sq. ft., off-site use only

Bldg. 9110

Fort Leonard Wood

Pulaski Co: MO 65473-8994

Landholding Agency: Army

Property Number: 21199910108

Status: Underutilized

Comment: 6498 sq. ft., presence of asbestos/lead paint, most recent use—family quarters, off-site use only

Bldgs. 9113, 9115, 9117

Fort Leonard Wood

Pulaski Co: MO 65473-8994

Landholding Agency: Army

Property Number: 21199910109

Status: Underutilized

Comment: 4332 sq. ft., presence of asbestos/lead paint, most recent use—family quarters, off-site use only

Bldg. 493

Fort Leonard Wood

Ft. Leonard Wood Co: Pulaski MO 65473-

Landholding Agency: Army

Property Number: 21199930158

Status: Unutilized

Comment: 26,936 sq. ft., concrete, presence of asbestos/lead paint, most recent use—store, off-site use only

New Jersey

Bldg. 22

Armament R&D Engineering Center

Picatinny Arsenal Co: Morris NJ 07806-5000

Landholding Agency: Army

Property Number: 21199740311

Status: Unutilized

Comment: 4220 sq. ft., needs rehab, most recent use—machine shop, off-site use only

Bldg. 178

Armament R&D Engineering Center

Picatinny Arsenal Co: Morris NJ 07806-5000

Landholding Agency: Army

Property Number: 21199740312

Status: Unutilized

Comment: 2067 sq. ft., most recent use—research, off-site use only

Bldg. 642

Armament R&D Engineering Center

Picatinny Arsenal Co: Morris NJ 07806-5000

Landholding Agency: Army

Property Number: 21199740314

Status: Unutilized

Comment: 280 sq. ft., most recent use—explosives testing, off-site use only

Bldg. 732

Armament R&D Engineering Center

Picatinny Arsenal Co: Morris NJ 07806-5000

Landholding Agency: Army

Property Number: 21199740315

Status: Unutilized

Comment: 9077 sq. ft., needs rehab, most recent use—storage, off-site use only

Bldg. 1604

Armament R&D Engineering Center

Picatinny Arsenal Co: Morris NJ 07806-5000

Landholding Agency: Army

Property Number: 21199740321

Status: Unutilized

Comment: 8519 sq. ft., most recent use—loading facility, off-site use only

Bldg. 3117

Armament R&D Engineering Center

Picatinny Arsenal Co: Morris NJ 07806-5000

Landholding Agency: Army

Property Number: 21199740322

Status: Unutilized

Comment: 100 sq. ft., most recent use—sentry station, off-site use only

Bldg. 3201

Armament R&D Engineering Center

Picatinny Arsenal Co: Morris NJ 07806-5000

Landholding Agency: Army

Property Number: 21199740324

Status: Unutilized

Comment: 1360 sq. ft., most recent use—water treatment plant, off-site use only

Bldg. 3202

Armament R&D Engineering Center

Picatinny Arsenal Co: Morris NJ 07806-5000

Landholding Agency: Army

Property Number: 21199740325

Status: Unutilized

Comment: 96 sq ft., most recent use—snack bar, off-site use only

Bldg. 3219

Armament R&D Engineering Center

Picatinny Arsenal Co: Morris NJ 07806-5000

Landholding Agency: Army

Property Number: 21199740326

Status: Unutilized

Comment: 288 sq. ft., most recent use—snack bar, off-site use only

New Mexico

68 Housing Units

White Sands Missile Range

White Sands Co: Dona Ana NM 88002-

Landholding Agency: Army

Property Number: 21199940028

Status: Unutilized

Comment: 1269 sq. ft. ea., needs major repair, presence of asbestos, most recent use—housing, off-site use only

Facility 11230

White Sands Missile Range

White Sands Co: Dona Ana NM 88002-

Landholding Agency: Army

Property Number: 21199940029

Status: Unutilized

Comment: 1620 sq. ft., needs major repair, presence, of asbestos, most recent use—housing unit, off-site use only

3 Facilities

White Sands Missile Range

#00651, 00637, 00716

White Sands Co: Dona Ana NM 88002-

Landholding Agency: Army

Property Number: 21199940030

Status: Unutilized

Comment: 1509 sq. ft. ea., needs major repair, presence of asbestos, most recent use—housing units, off-site use only

17 Garages

White Sands Missile Range

White Sands Co: Dona Ana NM 88002-

Landholding Agency: Army

Property Number: 21199940031

Status: Unutilized

Comment: 598 sq. ft., needs major repair, presence of asbestos, most recent use—garages, off-site use only

37 Garages

White Sands Missile Range

White Sands Co: Dona Ana NM 88002-

Landholding Agency: Army

Property Number: 21199940032

Status: Unutilized

Comment: 312 sq. ft., needs major repair, presence of asbestos, most recent use—garages, off-site use only

New York

Bldg. T-35

Fort Drum

Co: Jefferson NY 13602-

Landholding Agency: Army

Property Number: 21199840143

Status: Unutilized

Comment: 1296 sq. ft., most recent use—admin., off-site use only

Bldg. S-149

Fort Drum

Co: Jefferson NY 13602-

Landholding Agency: Army

Property Number: 21199840144

Status: Unutilized

Comment: 2488 sq. ft., most recent use—admin., off-site use only

Bldg. T-250

Fort Drum

Co: Jefferson NY 13602-

Landholding Agency: Army

Property Number: 21199840145

Status: Unutilized

Comment: 2360 sq. ft., most recent use—storage, off-site use only

Bldg. T-254

Fort Drum

Co: Jefferson NY 13602-

Landholding Agency: Army

Property Number: 21199840146

Status: Unutilized

Comment: 4720 sq. ft., most recent use—barracks, off-site use only

Bldg. T-260

Fort Drum

Co: Jefferson NY 13602-

Landholding Agency: Army

Property Number: 21199840147

Status: Unutilized

Comment: 2371 sq. ft., most recent use—HQ bldg., off-site use only

Bldg. T-261

Fort Drum

Co: Jefferson NY 13602-

Landholding Agency: Army

Property Number: 21199840148

Status: Unutilized

Comment: 1144 sq. ft., most recent use—HQ bldg., off-site use only

Bldg. T-262

Fort Drum

Co: Jefferson NY 13602-

Landholding Agency: Army

Property Number: 21199840149

Status: Unutilized

Comment: 1144 sq. ft., most recent use—HQ bldg., off-site use only

Bldg. T-340

Fort Drum

Co: Jefferson NY 13602-

Landholding Agency: Army

Property Number: 21199840150

Status: Unutilized

Comment: 2360 sq. ft., most recent use—storage, off-site use only

Bldg. T-392

Fort Drum

Co: Jefferson NY 13602-

Landholding Agency: Army

Property Number: 21199840151

Status: Unutilized

Comment: 2740 sq. ft., most recent use—storage, off-site use only

Bldg. T-413

Fort Drum

Co: Jefferson NY 13602-

Landholding Agency: Army

Property Number: 21199840152

Status: Unutilized

Comment: 3663 sq. ft., most recent use—admin., off-site use only

Bldg. T-415

Fort Drum

Co: Jefferson NY 13602-

Landholding Agency: Army

Property Number: 21199840153

Status: Unutilized

Comment: 1676 sq. ft., most recent use—HQ bldg., off-site use only

Bldg. T-530

Fort Drum

Co: Jefferson NY 13602-

Landholding Agency: Army

Property Number: 21199840154

Status: Unutilized

Comment: 2588 sq. ft., most recent use—HQ bldg., off-site use only

Bldg. T-840

Fort Drum

Co: Jefferson NY 13602-

Landholding Agency: Army

Property Number: 21199840155

Status: Unutilized

Comment: 2803 sq. ft., most recent use—dining, off-site use only

Bldg. T-892

Fort Drum

Co: Jefferson NY 13602-

Landholding Agency: Army

Property Number: 21199840156

Status: Unutilized

Comment: 2740 sq. ft., most recent use—HQ bldg., off-site use only

Bldg. T-991

Fort Drum

Co: Jefferson NY 13602-

Landholding Agency: Army

Property Number: 21199840157

Status: Unutilized

Comment: 2740 sq. ft., most recent use—HQ bldg., off-site use only

Bldg. P-996

Fort Drum

Co: Jefferson NY 13602-

Landholding Agency: Army

Property Number: 21199840158

Status: Unutilized

Comment: 9602 sq. ft., most recent use—storage, off-site use only

Bldg. S-998

Fort Drum

Co: Jefferson NY 13602-

Landholding Agency: Army

Property Number: 21199840159

Status: Unutilized

Comment: 1432 sq. ft., most recent use—storage, off-site use only

Bldg. T-2159

Fort Drum

Co: Jefferson NY 13602-

Landholding Agency: Army

Property Number: 21199840160

Status: Unutilized

Comment: 1948 sq. ft., off-site use only

Bldg. T-2339

Fort Drum

Co: Jefferson NY 13602-

Landholding Agency: Army

Property Number: 21199840163

Status: Unutilized

Comment: 2027 sq. ft., most recent use—museum, off-site use only

Bldg. P-2415

Fort Drum

Co: Jefferson NY 13602-

Landholding Agency: Army

Property Number: 21199840164

Status: Unutilized

Comment: 214 sq. ft., most recent use—incinerator, off-site use only

Bldg. P-21572

Fort Drum

Co: Jefferson NY 13602-

Landholding Agency: Army

Property Number: 21199840167

Status: Unutilized

Comment: 240 sq. ft., most recent use—bunker, off-site use only

Bldg. P-87

Fort Drum

Ft. Drum Co: Jefferson NY 13602-

Landholding Agency: Army

Property Number: 21199920203

Status: Unutilized

Comment: 360 sq. ft., needs rehab, most recent use—admin., off-site use only

Ohio

15 Units

Military Family Housing

Ravenna Army Ammunition

Plant

Ravenna Co: Portage OH 44266-9297

Landholding Agency: Army

Property Number: 21199230354

Status: Excess

Comment: 3 bedroom (7 units)—1,824 sq. ft. each, 4 bedroom 8 units)—2,430 sq. ft. each, 2-story wood frame, presence of asbestos, off-site use only

7 Units

Military Family Housing

Garages

Ravenna Army Ammunition

Plant

Ravenna Co: Portage OH 44266-9297

Landholding Agency: Army

Property Number: 21199230355

Status: Excess

Comment: 1-4 stall garage and 6-3 stall garages, presence of asbestos, off-site use only

Oklahoma

Bldg. T-2606

Fort Sill

2606 Currie Road

Lawton Co: Comanche OK 73503-5100

Landholding Agency: Army

Property Number: 21199011273

Status: Unutilized

Comment: 2722 sq. ft.; possible asbestos, one floor wood frame; most recent use—Headquarters Bldg.

Bldg. T-838, Fort Sill

838 Macomb Road

Lawton Co: Comanche OK 73503-5100

Landholding Agency: Army

Property Number: 21199220609

Status: Unutilized

Comment: 151 sq. ft.; wood frame, 1 story, off-site removal only, most recent use—vet facility (quarantine stable).

Bldg. T-954, Fort Sill

954 Quinette Road

Lawton Co: Comanche OK 73503-5100

Landholding Agency: Army

Property Number: 21199240659

Status: Unutilized

Comment: 3571 sq., ft., 1 story wood frame, need rehab off-site use only, most recent use—motor repair shop.

Bldg. T-4050, Fort Sill

4050 Pitman Street

Lawton Co: Comanche OK 73503-5100

Landholding Agency: Army

Property Number: 21199240676

Status: Unutilized

Comment: 3177 sq., ft., 1 story wood frame, need rehab off-site use only, most recent use—storage.

Bldg. T-3325, Fort Sill

3325 Naylor Road

Lawton Co: Comanche OK 73503-5100

Landholding Agency: Army

Property Number: 21199240681

Status: Unutilized

Comment: 8832 sq., ft., 1 story wood frame, need rehab off-site use only, most recent use—warehouse.

Bldg. T1652, Fort Sill

325 Naylor Road

Lawton Co: Comanche OK 73503-5100

Landholding Agency: Army

Property Number: 21199330380

Status: Unutilized

Comment: 1606 sq., ft., 1-story wood possible asbestos, most recent use—storage, off-site use only

Bldg. T5637, Fort Sill

Lawton Co: Comanche OK 73503-5100

Landholding Agency: Army

Property Number: 21199330419

Status: Unutilized

Comment: 1606 sq., ft., 1 story, possible asbestos, most recent use—storage, off-site use only

Bldg. T-4226

Fort Sill

Lawton Co: Comanche OK 73503-

Landholding Agency: Army

Property Number: 21199440384

Status: Unutilized

Comment: 114 sq., ft., 1-story wood frame, possible asbestos and lead paint, most recent use—storage, off-site use only

Bldg. P-1015, Fort Sill

Lawton Co: Comanche OK 73503-5100

Landholding Agency: Army

Property Number: 21199520197

Status: Unutilized

Comment: 15402 sq., ft., 1-story, most recent use—storage, off-site use only

Bldg. P-366, Fort Sill

Lawton Co: Comanche OK 73503-

Landholding Agency: Army

Property Number: 21199610740

Status: Unutilized

Comment: 482 sq. ft., possible asbestos, most recent use—storage, off-site use only

Bldg. P-1800

Fort Sill

Lawton Co: Comanche OK 73503-5100

Landholding Agency: Army

Property Number: 21199710033

Status: Unutilized

Comment: 2,545 sq. ft., possible asbestos and leadpaint, most recent use—military equipment, off-site use only

Bldg. T-2952

Fort Sill

Lawton Co: Comanche OK 73503-5100

Landholding Agency: Army

Property Number: 21199710047

Status: Unutilized

Comment: 4,327 sq. ft., possible asbestos and leadpaint, most recent use—motor repair shop, off-site use only

Bldg. P-5042

Fort Sill

Lawton Co: Comanche OK 73503-5100

Landholding Agency: Army

Property Number: 21199710066

Status: Unutilized

Comment: 119 sq. ft., possible asbestos and leadpaint, most recent use—heatplant, off-site use only

6 Buildings

Fort Sill

Lawton Co: Comanche OK 73503-5100

Location: P-6449, S-6451, T-6452, P-6460, P-6463, S-6450

Landholding Agency: Army

Property Number: 21199710085

Status: Unutilized

Comment: various sq. ft., possible asbestos and leadpaint, most recent use—range support, off-site use only

4 Buildings

Fort Sill

Lawton Co: Comanche OK 73503-5100

Location: T-6465, T-6466, T-6467, T-6468,

Landholding Agency: Army

Property Number: 21199710086

Status: Unutilized

Comment: various sq. ft., possible asbestos and leadpaint, most recent use—range support, off site use only

Bldg. P-6539

Fort Sill

Lawton Co: Comanche OK 73503-5100

Landholding Agency: Army

Property Number: 21199710087

Status: Unutilized

Comment: 1,483 sq. ft., possible asbestos and leadpaint, most recent use—office, off-site use only

Bldg. T-208

Fort Sill

Lawton Co: Comanche OK 73503-5100

Landholding Agency: Army

Property Number: 21199730344

Status: Unutilized

Comment: 20525 sq. ft., possible asbestos/lead paint, most recent use—training center, off-site use only

Bldg. T-214

Fort Sill

Lawton Co: Comanche OK 73503-5100

Landholding Agency: Army

Property Number: 21199730346

Status: Unutilized

Comment: 6332 sq. ft., possible asbestos/lead paint, most recent use—training center, off-site use only

Bldgs. T-215, T-216

Fort Sill

Lawton Co: Comanche OK 73503-5100

Landholding Agency: Army

Property Number: 21199730347

Status: Unutilized

Comment: 6300 sq. ft. each, possible asbestos/lead paint, most recent use—storage, off-site use only

Bldg. T-217

Fort Sill

Lawton Co: Comanche OK 73503-5100

Landholding Agency: Army

Property Number: 21199730348

Status: Unutilized

Comment: 6394 sq. ft., possible asbestos/lead paint, most recent use—training center, off-site use only

Bldg. T-810

Fort Sill

Lawton Co: Comanche OK 73503-5100

Landholding Agency: Army

Property Number: 21199730350

Status: Unutilized

Comment: 7205 sq. ft., possible asbestos/lead paint, most recent use—hay storage, off-site use only

Bldgs. T-837, T-839

Fort Sill

Lawton Co: Comanche OK 73503-5100

Landholding Agency: Army

Property Number: 21199730351

Status: Unutilized

Comment: approx. 100 sq. ft. each, possible asbestos/lead paint, most recent use—storage, off-site use only

Bldg. P-934

Fort Sill

Lawton Co: Comanche OK 73503-5100

Landholding Agency: Army

Property Number: 21199730353

Status: Unutilized

Comment: 402 sq. ft., possible asbestos/lead paint, most recent use—storage, off-site use only

Bldg. T-1177

Fort Sill

Lawton Co: Comanche OK 73503-5100

Landholding Agency: Army

Property Number: 21199730356

Status: Unutilized

Comment: 183 sq. ft., possible asbestos/lead paint, most recent use—snack bar, off-site use only

Bldgs. T-1468, T-1469

Fort Sill

Lawton Co: Comanche OK 73503-5100

Landholding Agency: Army

Property Number: 21199730357

Status: Unutilized

Comment: 114 sq. ft., possible asbestos/lead paint, most recent use—storage, off-site use only

Bldg. T-1470

Fort Sill

Lawton Co: Comanche OK 73503-5100

Landholding Agency: Army

Property Number: 21199730358

Status: Unutilized

Comment: 3120 sq. ft., possible asbestos/lead paint, most recent use—storage, off-site use only

Bldg. T-1940

Fort Sill

Lawton Co: Comanche OK 73503-5100

Landholding Agency: Army

Property Number: 21199730360

Status: Unutilized

Comment: 1400 sq. ft., possible asbestos/lead paint, most recent use—storage, off-site use only

Bldgs. T-1954, T-2022

Fort Sill

Lawton Co: Comanche OK 73503-5100

Landholding Agency: Army

Property Number: 21199730362

Status: Unutilized

Comment: approx. 100 sq. ft. each, possible asbestos/lead paint, most recent use—storage, off-site use only

Bldg. T-2180

Fort Sill

Lawton Co: Comanche OK 73503-5100

Landholding Agency: Army

Property Number: 21199730363

Status: Unutilized

Comment: possible asbestos/lead paint, most recent use—vehicle maint. facility, off-site use only

Bldg. T-2184

Fort Sill

Lawton Co: Comanche OK 73503-5100

Landholding Agency: Army

Property Number: 21199730364

Status: Unutilized

Comment: 454 sq. ft., possible asbestos/lead paint, most recent use—storage, off-site use only

Bldg. T-2185

Fort Sill

Lawton Co: Comanche OK 73503-5100

Landholding Agency: Army

Property Number: 21199730365

Status: Unutilized

Comment: 151 sq. ft., possible asbestos/lead paint, most recent use—fuel storage, off-site use only

Bldgs. T-2186, T-2188, T-2189

Fort Sill

Lawton Co: Comanche OK 73503-5100

Landholding Agency: Army

Property Number: 21199730366

Status: Unutilized

Comment: 1656—3583 sq. ft., possible asbestos/lead paint, most recent use—vehicle maint. shop, off-site use only

Bldg. T-2187

Fort Sill

Lawton Co: Comanche OK 73503-5100

Landholding Agency: Army

Property Number: 21199730367

Status: Unutilized

Comment: 1673 sq. ft., possible asbestos/lead paint, most recent use—storage, off-site use only

Bldg. T-2209

Fort Sill

Lawton Co: Comanche OK 73503-5100

Landholding Agency: Army

Property Number: 21199730368

Status: Unutilized

Comment: 1257 sq. ft., possible asbestos/lead paint, most recent use—storage, off-site use only

Bldgs. T-2240, T-2241

Fort Sill

Lawton Co: Comanche OK 73503-5100

Landholding Agency: Army

Property Number: 21199730369

Status: Unutilized

Comment: approx. 9500 sq. ft., possible asbestos/lead paint, most recent use—storage, off-site use only

Bldgs. T-2262, T-2263

Fort Sill

Lawton Co: Comanche OK 73503-5100

Landholding Agency: Army

Property Number: 21199730370

Status: Unutilized

Comment: approx. 3100 sq. ft., possible asbestos/lead paint, most recent use—maint. shop, off-site use only

Bldgs. T-2271, T-2272

Fort Sill

Lawton Co: Comanche OK 73503-5100

Landholding Agency: Army

Property Number: 21199730371

Status: Unutilized

Comment: 232 sq. ft., possible asbestos/lead paint, most recent use—storage, off-site use only

Bldgs. T-2291 thru T-2296

Fort Sill

Lawton Co: Comanche OK 73503-5100

Landholding Agency: Army

Property Number: 21199730372

Status: Unutilized

Comment: 400 sq. ft. each, possible asbestos/lead paint, most recent use—storage, off-site use only

5 Bldgs.

Fort Sill

T-2300, T-2301, T-2303,

T-2306, T-2307

Lawton Co: Comanche OK 73503-5100

Landholding Agency: Army

Property Number: 21199730373

Status: Unutilized

Comment: various sq. ft., possible asbestos/lead paint, most recent use—storage, off-site use only

Bldg. T-2406

Fort Sill

Lawton Co: Comanche OK 73503-5100

Landholding Agency: Army

Property Number: 21199730374

Status: Unutilized

Comment: 114 sq. ft., possible asbestos/lead paint, most recent use—storage, off-site use only

3 Bldgs.

Fort Sill

#T-2430, T-2432, T-2435

Lawton Co: Comanche OK 73503-5100

Landholding Agency: Army

Property Number: 21199730376

Status: Unutilized

Comment: approx. 8900 sq. ft., possible asbestos/lead paint, most recent use—office, off-site use only

Bldg. T-2434

Fort Sill

Lawton Co: Comanche OK 73503-5100

Landholding Agency: Army

Property Number: 21199730377

Status: Unutilized

Comment: 8997 sq. ft., possible asbestos/lead paint, most recent use—vehicle maint. shop, off-site use only

Bldgs. T-3001, T-3006

Fort Sill

Lawton Co: Comanche OK 73503-5100

Landholding Agency: Army

Property Number: 21199730383

Status: Unutilized

Comment: approx. 9300 sq. ft., possible asbestos/lead paint, most recent use—storage, off-site use only

Bldg. T-3025

Fort Sill

Lawton Co: Comanche OK 73503-5100

Landholding Agency: Army

Property Number: 21199730384

Status: Unutilized

Comment: 5259 sq. ft., possible asbestos/lead paint, most recent use—museum, off-site use only

Bldg. T-3314

Fort Sill

Lawton Co: Comanche OK 73503-5100

Landholding Agency: Army

Property Number: 21199730385

Status: Unutilized

Comment: 229 sq. ft., possible asbestos/lead paint, most recent use—office, off-site use only

Bldg. T-3323

Fort Sill

Lawton Co: Comanche OK 73503-5100

Landholding Agency: Army

Property Number: 21199730387

Status: Unutilized

Comment: 8832 sq. ft., possible asbestos/lead paint, most recent use—office, off-site only

Bldgs. T-4021, 4022

Fort Sill

Lawton Co: Comanche OK 73503-5100

Landholding Agency: Army

Property Number: 21199730389

Status: Unutilized

Comment: 442-869 sq. ft., possible asbestos/lead paint, most recent use—storage, off-site only

Bldg. T-4065

Fort Sill

Lawton Co: Comanche OK 73503-5100

Landholding Agency: Army

Property Number: 21199730390

Status: Unutilized

Comment: 3145 sq. ft., possible asbestos/lead paint, most recent use—maint. shop, off-site only

Bldg. T-4067

Fort Sill

Lawton Co: Comanche OK 73503-5100

Landholding Agency: Army

Property Number: 21199730391

Status: Unutilized

Comment: 1032 sq. ft., possible asbestos/lead paint, most recent use—storage, off-site only

Bldg. T-4281

Fort Sill

Lawton Co: Comanche OK 73503-5100

Landholding Agency: Army

Property Number: 21199730392

Status: Unutilized

Comment: 9405 sq. ft., possible asbestos/lead paint, most recent use—storage, off-site only

Bldgs. T-4401, T-4402

Fort Sill

Lawton Co: Comanche OK 73503-5100

Landholding Agency: Army

Property Number: 21199730393

Status: Unutilized

Comment: 2260 sq. ft., possible asbestos/lead paint, most recent use—office, off-site only

Bldg. T-4407

Fort Sill

Lawton Co: Comanche OK 73503-5100

Landholding Agency: Army

Property Number: 21199730395

Status: Unutilized

Comment: 3070 sq. ft., possible asbestos/lead paint, most recent use—dining facility, off-site only

4 Bldgs.

Fort Sill

#T-4410, T-4414, T-4415, T-4418

Lawton Co: Comanche OK 73503-5100

Landholding Agency: Army

Property Number: 21199730396

Status: Unutilized

Comment: 1311 sq. ft., possible asbestos/lead paint, most recent use—office, off-site only

5 Bldgs.

Fort Sill

#T-4411 thru T-4413, T-4416 thru T-4417

Lawton Co: Comanche OK 73503-5100

Landholding Agency: Army

Property Number: 21199730397

Status: Unutilized

Comment: 1244 sq. ft., possible asbestos/lead paint, most recent use—showers, off-site only

Bldg. T-4421

Fort Sill

Lawton Co: Comanche OK 73503-5100

Landholding Agency: Army

Property Number: 21199730398

Status: Unutilized

Comment: 3070 sq. ft., possible asbestos/lead paint, most recent use—dining, off-site only

10 Bldgs.

Fort Sill

#T-4422 thru T-4427, T-4431 thru T-4434

Lawton Co: Comanche OK 73503-5100

Landholding Agency: Army

Property Number: 21199730399

Status: Unutilized

Comment: 2263 sq. ft., possible asbestos/lead paint, most recent use—barracks, off-site only

6 Bldgs.

Fort Sill

Lawton Co: Comanche OK 73503-5100

Location: #T-4436, T-4440, T-4444, T-4445, T-4448, T-4449

Landholding Agency: Army

Property Number: 21199730400

Status: Unutilized

Comment: 1311-2263 sq. ft., possible asbestos/lead paint, most recent use—office, off-site only

5 Bldgs.

Fort Sill

Lawton Co: Comanche OK 73503-5100

Location: #T-4441, T-4442, T-4443, T-4446, T-4447

Landholding Agency: Army

Property Number: 21199730401

Status: Unutilized

Comment: 1244 sq. ft., possible asbestos/lead paint, most recent use—showers, off-site use only

Bldg. T-5041

Fort Sill

Lawton Co: Comanche OK 73503-5100

Landholding Agency: Army

Property Number: 21199730409

Status: Unutilized

Comment: 763 sq. ft., possible asbestos/lead paint, most recent use—storage, off-site use only

Bldgs. T-5044, T-5045

Fort Sill

Lawton Co: Comanche OK 73503-5100

Landholding Agency: Army

Property Number: 21199730410

Status: Unutilized

Comment: 1798/1806 sq. ft., possible asbestos/lead paint, most recent use—class rooms, off-site use only

4 Bldgs.

Fort Sill

Lawton Co: Comanche OK 73503-5100

Location: #T-5046, T-5047, T-5048, T-5049

Landholding Agency: Army

Property Number: 21199730411

Status: Unutilized

Comment: various sq. ft., possible asbestos/lead paint, most recent use—office, off-site use only

Bldg. T-5420

Fort Sill

Lawton Co: Comanche OK 73503-5100

Landholding Agency: Army

Property Number: 21199730414

Status: Unutilized

Comment: 189 sq. ft., possible asbestos/lead paint, most recent use—fuel storage, off-site use only

Bldg. T-5639

Fort Sill

Lawton Co: Comanche OK 73503-5100

Landholding Agency: Army

Property Number: 21199730416

Status: Unutilized

Comment: 10,720 sq. ft., possible asbestos/lead paint, most recent use—office, off-site use only

Bldgs. T-7290, T-7291

Fort Sill

Lawton Co: Comanche OK 73503-5100

Landholding Agency: Army

Property Number: 21199730417

Status: Unutilized

Comment: 224/840 sq. ft., possible asbestos/lead paint, most recent use—kennel, off-site use only

Bldg. T-7775

Fort Sill

Lawton Co: Comanche OK 73503-5100

Landholding Agency: Army

Property Number: 21199730419

Status: Unutilized

Comment: 1452 sq. ft., possible asbestos/lead paint, most recent use—private club, off-site use only

Bldg. T-207

Fort Sill

Lawton Co: Comanche OK 73503-5100

Landholding Agency: Army

Property Number: 21199910130

Status: Unutilized

Comment: 19,531 sq. ft., possible asbestos/lead paint, most recent use—office, off-site use only

Bldgs. P-364, P-584, P-588

Fort Sill

Lawton Co: Comanche OK 73503-5100

Landholding Agency: Army

Property Number: 21199910131

Status: Unutilized

Comment: 106 sq. ft., possible asbestos/lead paint, most recent use—utility plant, off-site use only

Bldg. P-599

Fort Sill

Lawton Co: Comanche OK 73503-5100

Landholding Agency: Army

Property Number: 21199910132

Status: Unutilized

Comment: 1400 sq. ft., possible asbestos/lead paint, most recent use—clubhouse, off-site use only

4 Bldgs.

Fort Sill

P-617, P-1114, P-1386, P-1608

Lawton Co: Comanche OK 73503-5100

Landholding Agency: Army

Property Number: 21199910133

Status: Unutilized

Comment: 106 sq. ft., possible asbestos/lead paint, most recent use—utility plant, off-site use only

Bldg. P-746

Fort Sill

Lawton Co: Comanche OK 73503-5100

Landholding Agency: Army

Property Number: 21199910135

Status: Unutilized

Comment: 6299 sq. ft., possible asbestos/lead paint, most recent use—admin., off-site use only

Bldgs. P-1908, P-2078

Fort Sill

Lawton Co: Comanche OK 73503-5100

Landholding Agency: Army

Property Number: 21199910136

Status: Unutilized

Comment: 106 & 131 sq. ft., possible asbestos/lead paint, most recent use—utility plant, off-site use only

Bldg. T-2183

Fort Sill

Lawton Co: Comanche OK 73503-5100

Landholding Agency: Army

Property Number: 21199910139

Status: Unutilized

Comment: 14,530 sq. ft., possible asbestos/lead paint, most recent use—repair shop, off-site use only

Bldgs. P-2581, P-2773

Fort Sill

Lawton Co: Comanche OK 73503-5100

Landholding Agency: Army

Property Number: 21199910140

Status: Unutilized

Comment: 4093 and 4129 sq. ft., possible asbestos/lead paint, most recent use—office, off-site use only

Bldg. P-2582

Fort Sill

Lawton Co: Comanche OK 73503-5100

Landholding Agency: Army

Property Number: 21199910141

Status: Unutilized

Comment: 3672 sq. ft., possible asbestos/lead paint, most recent use—admin., off-site use only

Bldgs. S-2790, P-2906

Fort Sill

Lawton Co: Comanche OK 73503-5100

Landholding Agency: Army

Property Number: 21199910142

Status: Unutilized

Comment: 1602 and 1390 sq. ft., possible asbestos/lead paint, most recent use—storage, off-site use only

Bldg. P-2909

Fort Sill

Lawton Co: Comanche OK 73503-5100

Landholding Agency: Army

Property Number: 21199910143

Status: Unutilized

Comment: 1236 sq. ft., possible asbestos/lead paint, most recent use—classroom, off-site use only

Bldgs. P-2912, P-2921, P-2944

Fort Sill

Lawton Co: Comanche OK 73503-5100

Landholding Agency: Army

Property Number: 21199910144

Status: Unutilized

Comment: 1390 sq. ft., possible asbestos/lead paint, most recent use—office, off-site use only

Bldg. S-3169

Fort Sill

Lawton Co: Comanche OK 73503-5100

Landholding Agency: Army

Property Number: 21199910145

Status: Unutilized

Comment: 6437 sq. ft., possible asbestos/lead paint, most recent use—office, off-site use only

Bldg. P-2914

Fort Sill

Lawton Co: Comanche OK 73503-5100

Landholding Agency: Army

Property Number: 21199910146

Status: Unutilized

Comment: 1236 sq. ft., possible asbestos/lead paint, most recent use—storage, off-site use only

Bldg. P-3469

Fort Sill

Lawton Co: Comanche OK 73503-5100

Landholding Agency: Army

Property Number: 21199910147

Status: Unutilized

Comment: 3930 sq. ft., possible asbestos/lead paint, most recent use—car wash, off-site use only

Bldg. S-3559

Fort Sill

Lawton Co: Comanche OK 73503-5100

Landholding Agency: Army

Property Number: 21199910148

Status: Unutilized

Comment: 9462 sq. ft., possible asbestos/lead paint, most recent use—classroom, off-site use only

Bldg. S-4064

Fort Sill

Lawton Co: Comanche OK 73503-5100

Landholding Agency: Army

Property Number: 21199910149

Status: Unutilized

Comment: 1389 sq. ft., possible asbestos/lead paint, off-site use only

Bldg. T-4748

Fort Sill

Lawton Co: Comanche OK 73503-5100

Landholding Agency: Army

Property Number: 21199910151

Status: Unutilized

Comment: 1896 sq. ft., possible asbestos/lead paint, most recent use—classroom, off-site use only

Bldg. S-5086

Fort Sill

Lawton Co: Comanche OK 73503-5100

Landholding Agency: Army

Property Number: 21199910152

Status: Unutilized

Comment: 6453 sq. ft., possible asbestos/lead paint, most recent use—maintenance shop, off-site use only

Bldg. P-5101

Fort Sill

Lawton Co: Comanche OK 73503-5100

Landholding Agency: Army

Property Number: 21199910153

Status: Unutilized

Comment: 82 sq. ft., possible asbestos/lead paint, most recent use—gas station, off-site use only

Bldg. P-5638

Fort Sill

Lawton Co: Comanche OK 73503-5100

Landholding Agency: Army

Property Number: 21199910155

Status: Unutilized

Comment: 300 sq. ft., possible asbestos/lead paint, most recent use—storage, off-site use only

Bldg. S-6430

Fort Sill

Lawton Co: Comanche OK 73503-5100

Landholding Agency: Army

Property Number: 21199910156

Status: Unutilized

Comment: 2080 sq. ft., possible asbestos/lead paint, most recent use—range support, off-site use only

Bldg. T-6461

Fort Sill

Lawton Co: Comanche OK 73503-5100

Landholding Agency: Army

Property Number: 21199910157

Status: Unutilized

Comment: 200 sq. ft., possible asbestos/lead paint, most recent use—range support, off-site use only

Bldg. T-6462

Fort Sill

Lawton Co: Comanche OK 73503-5100

Landholding Agency: Army

Property Number: 21199910158

Status: Unutilized

Comment: 64 sq. ft., possible asbestos/lead paint, most recent use—control tower, off-site use only

Bldg. P-7230

Fort Sill

Lawton Co: Comanche OK 73503-5100

Landholding Agency: Army

Property Number: 21199910159

Status: Unutilized

Comment: 160 sq. ft., possible asbestos/lead paint, most recent use—transmitter bldg., off-site use only

Bldg. S-7960

Fort Sill

Lawton Co: Comanche OK 73503-

Landholding Agency: Army

Property Number: 21199930159

Status: Unutilized

Comment: 120 sq. ft., possible asbestos/lead paint, most recent use—storage, off-site use only

Bldg. S-7961

Fort Sill

Lawton Co: Comanche OK 73503—

Landholding Agency: Army

Property Number: 21199930160

Status: Unutilized

Comment: 36 sq. ft., possible asbestos/lead paint, most recent use—storage, off-site use only

Pennsylvania

Bldg. T884

Carlisle Barracks

Carlisle Co: Cumberland PA 17013-

Landholding Agency: Army

Property Number: 21199940039

Status: Unutilized

Comment: 1500 sq. ft., needs major repair, presence of asbestos, most recent use—storehouse, off-site use only

Bldg. T889

Carlisle Barracks

Carlisle Co: Cumberland PA 17013-

Landholding Agency: Army

Property Number: 21199940040

Status: Unutilized

Comment: 1500 sq. ft., needs major repair, presence of asbestos, most recent use—storehouse, off-site use only

Bldg. T894

Carlisle Barracks

Carlisle Co: Cumberland PA 17013-

Landholding Agency: Army

Property Number: 21199940041

Status: Unutilized

Comment: 1555 sq. ft., needs major repair, presence of asbestos, most recent use—maint. facility, off-site use only

Bldg. T879

Carlisle Barracks

Carlisle Co: Cumberland PA 17013-

Landholding Agency: Army

Property Number: 21199940042

Status: Unutilized

Comment: 1850 sq. ft., needs major repair, presence of asbestos, most recent use—storehouse, off-site use only

Bldg. T895

Carlisle Barracks

Carlisle Co: Cumberland PA 17013-

Landholding Agency: Army

Property Number: 21199940043

Status: Unutilized

Comment: 1500 sq. ft. needs major repair, presence of asbestos, most recent use—maint. facility, off-site use only

South Carolina

Bldg. 3499

Fort Jackson

Ft. Jackson Co: Richland SC 29207-

Landholding Agency: Army

Property Number: 21199730310

Status: Unutilized

Comment: 3724 sq. ft., needs repair, most recent use—admin.

Bldg. 2441

Fort Jackson

Ft. Jackson Co: Richland SC 29207-

Landholding Agency: Army

Property Number: 21199820187

Status: Unutilized

Comment: 2160 sq. ft., needs repair, most recent use—admin.

Bldg 3605

Fort Jackson

Ft. Jackson Co: Richland SC 29207-

Landholding Agency: Army

Property Number: 21199820188

Status: Unutilized

Comment: 711 sq. ft., needs repair, most recent use—storage

Texas

Bldg. P-377, Fort Sam Houston

San Antonio Co: Bexar TX 78234-5000

Landholding Agency: Army

Property Number: 21199330444

Status: Unutilized

Comment: 74 sq. ft., 1-story brick, needs rehab, most recent use—scale house, located in National Historic District, off-site use only

Bldg. T-5901

Fort Sam Houston

San Antonio Co: Bexar TX 78234-5000

Landholding Agency: Army

Property Number: 21199330486

Status: Unutilized

Comment: 742 sq. ft., 1-story wood frame, most recent use—admin., off-site use only.

Bldg. 4480, Fort Hood

Ft. Hood Co: Bell TX 76544-

Landholding Agency: Army

Property Number: 21199410322

Status: Unutilized

Comment: 2160 sq. ft., 1-story, most recent use—storage, off-site use only

Bldg. P-6615

Fort Sam Houston

San Antonio Co: Bexar TX 78234-5000

Landholding Agency: Army

Property Number: 21199440454

Status: Excess

Comment: 400 sq. ft., 1 story concrete frame, off-site removal only, most recent use—detached garage

Bldg. 4201, Fort Hood

Ft. Hood Co: Bell TX 76544-

Landholding Agency: Army

Property Number: 21199520201

Status: Unutilized

Comment: 9000 sq. ft., 1-story, off-site use only

Bldg. 4202, Fort Hood

Ft. Hood Co: Bell TX 76544-

Landholding Agency: Army

Property Number: 21199520202

Status: Unutilized

Comment: 5400 sq. ft., 1-story, most recent use—storage, off-site use only

Bldg. P-197

Fort Sam Houston

San Antonio Co: Bexar TX 78234-5000

Landholding Agency: Army

Property Number: 21199640220

Status: Unutilized

Comment: 13819 sq. ft., presence of asbestos/lead paint, most recent use—admin., off-site use only

Bldg. T-230

Fort Sam Houston

San Antonio Co: Bexar TX 78234-5000

Landholding Agency: Army

Property Number: 21199640221

Status: Unutilized

Comment: 18102 sq. ft., presence of asbestos/lead paint, most recent use—printing plant and shop, off-site use only

Bldg. S-3898

Fort Sam Houston

San Antonio Co: Bexar TX 78234-5000

Landholding Agency: Army

Property Number: 21199640235

Status: Unutilized

Comment: 4200 sq. ft., presence of asbestos/lead paint, most recent use—classroom, off-site use only

Bldg. S-3899

Fort Sam Houston

San Antonio Co: Bexar TX 78234-5000

Landholding Agency: Army

Property Number: 21199640236

Status: Unutilized

Comment: 4200 sq. ft., presence of asbestos/lead paint, most recent use—classroom, off-site use only

Bldg. P-5126

Fort Sam Houston

San Antonio Co: Bexar TX 78234-5000

Landholding Agency: Army

Property Number: 21199640240

Status: Unutilized

Comment: 189 sq. ft., off-site use only

Bldg. P-6201

Fort Sam Houston

San Antonio Co: Bexar TX 78234-5000

Landholding Agency: Army

Property Number: 21199640241

Status: Unutilized

Comment: 3003 sq. ft., presence of asbestos/lead paint, most recent use—officers family quarters, off-site use only

Bldg. P-6202

Fort Sam Houston

San Antonio Co: Bexar TX 78234-5000

Landholding Agency: Army

Property Number: 21199640242

Status: Unutilized

Comment: 1479 sq. ft., presence of lead paint, most recent use—officers family quarters, off-site use only

Bldg. P-6203

Fort Sam Houston

San Antonio Co: Bexar TX 78234-5000

Landholding Agency: Army

Property Number: 21199640243

Status: Unutilized

Comment: 1381 sq. ft., presence of lead paint, most recent use—military family quarters, off-site use only

Bldg. P-6204

Fort Sam Houston

San Antonio Co: Bexar TX 78234-5000

Landholding Agency: Army

Property Number: 21199640244

Status: Unutilized

Comment: 1454 sq. ft., presence of asbestos/lead paint, most recent use—military family quarters, off-site use only

Bldg. 7137, Fort Bliss

El Paso Co: El Paso TX 79916-

Landholding Agency: Army

Property Number: 21199640564

Status: Unutilized

Comment: 35,736 sq. ft., 3-story, most recent use—housing, off-site use only

Building 4630

Fort Hood

Fort Hood Co: Bell TX 76544-

Landholding Agency: Army

Property Number: 21199710088

Status: Unutilized

Comment: 21,833 sq. ft., most recent use—Admin., off-site use only

Bldg. T-330

Fort Sam Houston

San Antonio Co: Bexar TX 78234-5000

Landholding Agency: Army

Property Number: 21199730315

Status: Unutilized

Comment: 59,149 sq. ft., presence of asbestos/lead paint, historical category, most recent use—laundry, off-site use only

Bldg. PT-605A & P-606A

Fort Sam Houston

San Antonio Co: Bexar TX 78234-5000

Landholding Agency: Army

Property Number: 21199730316

Status: Unutilized

Comment: 2418 sq. ft., poor condition presence of asbestos/lead paint, historical category, most recent use—indoor firing range, off-site use only

Bldg. S-1150

Fort Sam Houston

San Antonio Co: Bexar TX 78234-5000

Landholding Agency: Army

Property Number: 21199730317

Status: Unutilized

Comment: 8629 sq. ft., presence of asbestos/lead paint, most recent use—instruction bldg., off-site use only

Bldgs. S-1440-S-1446, S-1452

Fort Sam Houston

San Antonio Co: Bexar TX 78234-5000

Landholding Agency: Army

Property Number: 21199730318

Status: Unutilized

Comment: 4200 sq. ft., presence of lead, most recent use—instruction bldgs., off-site use only

4 Bldgs.

Fort Sam Houston

#S-1447, S-1449, S-1450, S-1451

San Antonio Co: Bexar TX 78234-5000

Landholding Agency: Army

Property Number: 21199730319

Status: Unutilized

Comment: 4200 sq. ft., presence of asbestos/lead paint, most recent use—instruction bldgs., off-site use only

Bldg. P-4115

Fort Sam Houston

San Antonio Co: Bexar TX 78234-5000

Landholding Agency: Army

Property Number: 21199730327

Status: Unutilized

Comment: 529 sq. ft., presence of asbestos/lead paint, historic bldg., most recent use—admin., off-site use only

Bldg. 4205

Fort Sam Houston

San Antonio Co: Bexar TX 78234-5000

Landholding Agency: Army

Property Number: 21199730328

Status: Unutilized

Comment: 24,573 sq. ft., presence of asbestos/lead paint, most recent use—warehouse, off-site use only

Bldg. T-5113

Fort Sam Houston

San Antonio Co: Bexar TX 78234-5000

Landholding Agency: Army

Property Number: 21199730330

Status: Unutilized

Comment: 2550 sq. ft., presence of asbestos/lead paint, historical bldg. most recent use—medical clinic, off-site use only

Bldg. T-5122

Fort Sam Houston

San Antonio Co: Bexar TX 78234-5000

Landholding Agency: Army

Property Number: 21199730331

Status: Unutilized

Comment: 3602 sq. ft., presence of asbestos/lead paint, historical category, most recent use—instruction bldg., off-site use only

Bldg. T-5903

Fort Sam Houston

San Antonio Co: Bexar TX 78234-5000

Landholding Agency: Army

Property Number: 21199730332

Status: Unutilized

Comment: 5200 sq. ft., presence of asbestos/lead paint, historical category, most recent use—admin., off-site use only

Bldg. T-5907

Fort Sam Houston

San Antonio Co: Bexar TX 78234-5000

Landholding Agency: Army

Property Number: 21199730333

Status: Unutilized

Comment: 570 sq. ft., presence of asbestos/lead paint, historical category, most recent use—admin., off-site use only

Bldg. T-6284

Fort Sam Houston

San Antonio Co: Bexar TX 78234-5000

Landholding Agency: Army

Property Number: 21199730335

Status: Unutilized

Comment: 120 sq. ft., presence of lead paint, most recent use—pump station, off-site use only

Bldg. T-5906

Fort Sam Houston

San Antonio Co: Bexar TX 78234-5000

Landholding Agency: Army

Property Number: 21199730420

Status: Unutilized

Comment: 570 sq. ft., presence of asbestos/lead paint, most recent use—admin., off-site use only

Bldg. P-1382

Fort Sam Houston

San Antonio Co: Bexar TX 78234-5000

Landholding Agency: Army

Property Number: 21199810365

Status: Unutilized

Comment: 30,082 sq. ft., presence of asbestos/lead paint, most recent use—housing, off-site use only

Bldg. P-2014

Fort Sam Houston

San Antonio Co: Bexar TX 78234-5000

Landholding Agency: Army

Property Number: 21199810367

Status: Unutilized

Comment: 10,990 sq. ft., historical property, presence of asbestos/lead paint, most recent use—instruction, off-site use only

Bldg. P-2015

Fort Sam Houston

San Antonio Co: Bexar TX 78234-5000

Landholding Agency: Army

Property Number: 21199810368

Status: Unutilized

Comment: 11,333 sq. ft., historical property, presence of asbestos/lead paint, most recent use—admin., off-site use only

Bldg. P-2016

Fort Sam Houston

San Antonio Co: Bexar TX 78234-5000

Landholding Agency: Army

Property Number: 21199810369

Status: Unutilized

Comment: 11,517 sq. ft., historical property, presence of asbestos/lead paint, most recent use—admin., off-site use only

Bldg. P-2017

Fort Sam Houston

San Antonio Co: Bexar TX 78234-5000

Landholding Agency: Army

Property Number: 21199810370

Status: Unutilized

Comment: 10,990 sq. ft., historical property, presence of asbestos/lead paint, most recent use—admin., off-site use only

Bldg. S-3897

Fort Sam Houston

San Antonio Co: Bexar TX 78234-5000

Landholding Agency: Army

Property Number: 21199810371

Status: Unutilized

Comment: 4200 sq. ft., presence of asbestos/lead paint, most recent use—instruction, off-site use only

Bldg. S-1155

Fort Sam Houston

San Antonio Co: Bexar TX 78234-5000

Landholding Agency: Army

Property Number: 21199830347

Status: Unutilized

Comment: 2100 sq. ft., good, hazard abatement required, most recent use—instruction bldg., off-site use only

Bldg. S-3896

Fort Sam Houston

San Antonio Co: Bexar TX 78234-5000

Landholding Agency: Army

Property Number: 21199830349

Status: Unutilized

Comment: 4200 sq. ft., fair, hazard abatement required, most recent use—training, off-site use only

Bldg. T-5123

Fort Sam Houston

San Antonio Co: Bexar TX 78234-5000

Landholding Agency: Army

Property Number: 21199830350

Status: Unutilized

Comment: 2596 sq. ft., fair, hazard abatement required, most recent use—instruction, off-site use only, historical significance

Bldg. P-6150

Fort Sam Houston

San Antonio Co: Bexar TX 78234-5000

Landholding Agency: Army

Property Number: 21199830351

Status: Unutilized

Comment: 48 sq. ft., fair, hazard abatement required, most recent use—pumphouse, off-site use only

Bldgs. P-6331, P-6335, P-6495

Fort Sam Houston

San Antonio Co: Bexar TX 78234-5000

Landholding Agency: Army

Property Number: 21199830353

Status: Unutilized

Comment: 36 sq. ft., fair, hazard abatement required, most recent use—pumping station, off-site use only

Bldg. P-8000

Fort Sam Houston

San Antonio Co: Bexar TX 78234-5000

Landholding Agency: Army

Property Number: 21199830354

Status: Unutilized

Comment: 1766 sq. ft., fair, hazard abatement required, most recent use—housing, off-site use only

9 Bldgs.

Fort Sam Houston

San Antonio Co: Bexar TX 78234-5000

Location: #P8001, P8008, 8014, 8027, 8033, 8035, 8127, 8229, 8265

Landholding Agency: Army

Property Number: 21199830355

Status: Unutilized

Comment: 2456 sq. ft., fair, hazard abatement required, most recent use—housing, off-site use only

11 Bldgs.

Fort Sam Houston

San Antonio Co: Bexar TX 78234-5000

Location: #P8003, P8011, 8012, 8019, 8043, 8202, 8204, 8216, 8235, 8241, 8261

Landholding Agency: Army

Property Number: 21199830356

Status: Unutilized

Comment: 2358 sq. ft., fair, hazard abatement required, most recent use—housing, off-site use only

Bldgs. P-8003C, P-8220C

Fort Sam Houston

San Antonio Co: Bexar TX 78234-5000

Landholding Agency: Army

Property Number: 21199830357

Status: Unutilized

Comment: 1174 sq. ft., fair, hazard abatement required, most recent use—detached garage, off-site use only

Bldg. P-8004

Fort Sam Houston

San Antonio Co: Bexar TX 78234-5000

Landholding Agency: Army

Property Number: 21199830358

Status: Unutilized

Comment: 2243 sq. ft., fair, hazard abatement required, most recent use—housing, off-site use only

7 Bldgs.

Fort Sam Houston

San Antonio Co: Bexar TX 78234-5000

Location: #P8005, 8101, 8107, 8141, 8143, 8146, 8150

Landholding Agency: Army

Property Number: 21199830359

Status: Unutilized

Comment: 1804 sq. ft., fair, hazard abatement required, most recent use—housing, off-site use only

15 Bldgs.

Fort Sam Houston

San Antonio Co: Bexar TX 78234-5000

Location: #P8006, 8007, 8010, 8013, 8015, 8017, 8020, 8029, 8103, 8105, 8201, 8208, 8218, 8225, 8234

Landholding Agency: Army

Property Number: 211998303060

Status: Unutilized

Comment: 1703 sq. ft., fair, hazard abatement required, most recent use—housing, off-site use only

7 Bldgs.

Fort Sam Houston

San Antonio Co: Bexar TX 78234-5000

Location: #P8009, 8024, 8207, 8214, 8217, 8226, 8256

Landholding Agency: Army

Property Number: 21199830361

Status: Unutilized

Comment: 2253 sq. ft., fair, hazard abatement required, most recent use—housing, off-site use only

4 Bldgs.

Fort Sam Houston

San Antonio Co: Bexar TX 78234-5000

Location: #P8009C, 8027C, 8248C, 8256C

Landholding Agency: Army

Property Number: 21199830362

Status: Unutilized

Comment: 681 sq. ft., fair, hazard abatement required, most recent use—detached garage, off-site use only

3 Bldgs.

Fort Sam Houston

San Antonio Co: Bexar TX 78234-5000

Location: #P8012C, 8039C, 8224C

Landholding Agency: Army

Property Number: 21199830363

Status: Unutilized

Comment: 1185 sq. ft., fair, hazard abatement required, most recent use—detached garage, off-site use only

Bldg. P8016

Fort Sam Houston

San Antonio Co: Bexar TX 78234-5000

Landholding Agency: Army

Property Number: 21199830364

Status: Unutilized

Comment: 2347 sq. ft., fair, hazard abatement required, most recent use—housing, off-site use only

8 Bldgs.

Fort Sam Houston

San Antonio Co: Bexar TX 78234-5000

Location: #P8021, 8211, 8244, 8270, 8213, 8233, 8243, 8266

Landholding Agency: Army

Property Number: 21199830365

Status: Unutilized

Comment: 249 sq. ft., fair, hazard abatement required, most recent use—housing, off-site use only

Bldg. P-8022

Fort Sam Houston

San Antonio Co: Bexar TX 78234-5000

Landholding Agency: Army

Property Number: 21199830366

Status: Unutilized

Comment: 1849 sq. ft., fair, hazard abatement reqired, most recent use—housing, off-site use only

5 Bldgs.

Fort Sam Houston

San Antonio Co: Bexar TX 78234-5000

Location: #8022C, 8023C, 8106C, 8127C, 8206C

Landholding Agency: Army

Property Number: 21199830367

Status: Unutilized

Comment: 513 sq. ft., fair, hazard abatement reqired, most recent use—detached garage, off-site use only

Bldgs. P8026, P8028

Fort Sam Houston

San Antonio Co: Bexar TX 78234-5000

Landholding Agency: Army

Property Number: 21199830369

Status: Unutilized

Comment: approx. 1850 sq. ft., fair, hazard abatement reqired, most recent use—housing, off-site use only

3 Bldgs.

Fort Sam Houston

San Antonio Co: Bexar TX 78234-5000

Location: #P8028C, P8143C, P8150C

Landholding Agency: Army

Property Number: 21199830370

Status: Unutilized

Comment: 838 sq. ft., fair, hazard abatement reqired, most recent use—detached garage, off-site use only

3 Bldgs.

Fort Sam Houston

San Antonio Co: Bexar TX 78234-5000

Location: #P8035C, P8104C, P8236C

Landholding Agency: Army

Property Number: 21199830372

Status: Unutilized

Comment: 1017 sq. ft., fair, hazard abatement reqired, most recent use—detached garage, off-site use only

3 Bldgs.

Fort Sam Houston

San Antonio Co: Bexar TX 78234-5000

Location: #P8102, P8106, P8108

Landholding Agency: Army

Property Number: 21199830375

Status: Unutilized

Comment: approx. 2700 sq. ft., fair, hazard abatement reqired, most recent use—housing, off-site use only

Bldgs. P8109, P8137

Fort Sam Houston

San Antonio Co: Bexar TX 78234-5000

Landholding Agency: Army

Property Number: 21199830376

Status: Unutilized

Comment: 1540 sq. ft., fair, hazard abatement reqired, most recent use—housing, off-site use only

Bldgs. P8112, P8228

Fort Sam Houston

San Antonio Co: Bexar TX 78234-5000

Landholding Agency: Army

Property Number: 21199830378

Status: Unutilized

Comment: 1807 sq. ft., fair, hazard abatement reqired, most recent use—housing, off-site use only

3 Bldgs.

Fort Sam Houston

San Antonio Co: Bexar TX 78234-5000

Location: #P8116, 8151, 8158

Landholding Agency: Army

Property Number: 21199830380

Status: Unutilized

Comment: approx. 1691 sq. ft., fair, hazard abatement reqired, most recent use—housing, off-site use only

Bldg. P8117

Fort Sam Houston

San Antonio Co: Bexar TX 78234-5000

Landholding Agency: Army

Property Number: 21199830381

Status: Unutilized

Comment: 1581 sq. ft., fair, hazard abatement reqired, most recent use—housing, off-site use only

8 Bldgs.

Fort Sam Houston

San Antonio Co: Bexar TX 78234-5000

Location: #P8118, 8121, 8125, 8153, 8119, 8120, 8124, 8168

Landholding Agency: Army

Property Number: 21199830382

Status: Unutilized

Comment: various. sq. ft., fair, hazard abatement reqired, most recent use—housing, off-site use only

Bldgs. P8122, P8123

Fort Sam Houston

San Antonio Co: Bexar TX 78234-5000

Landholding Agency: Army

Property Number: 21199830383

Status: Unutilized

Comment: approx. 1400 sq. ft., fair, hazard abatement reqired, most recent use—housing, off-site use only

Bldg. P8126

Fort Sam Houston

San Antonio Co: Bexar TX 78234-5000

Landholding Agency: Army

Property Number: 21199830384

Status: Unutilized

Comment: 1331 sq. ft., fair, hazard abatement required, most recent use—housing, off-site use only

8 Bldgs.

Fort Sam Houston

San Antonio Co: Bexar TX 78234-5000

Location: P8131C, 8139C, 8203C, 8211C, 8231C, 8243C, 8249C, 8261C

Landholding Agency: Army

Property Number: 21199830386

Status: Unutilized

Comment: 849 sq. ft., fair, hazard abatement required, most recent use—detached garage, off-site use only

Bldgs. P8133, P8134

Fort Sam Houston

San Antonio Co: Bexar TX 78234-5000

Landholding Agency: Army

Property Number: 21199830387

Status: Unutilized

Comment: approx. 2000 sq. ft., fair, hazard abatement required, most recent use—housing, off-site use only

Bldgs. P8135, P8136

Fort Sam Houston

San Antonio Co: Bexar TX 78234-5000

Landholding Agency: Army

Property Number: 21199830388

Status: Unutilized

Comment: approx. 1500 sq. ft., fair, hazard abatement required, most recent use—housing, off-site use only

4 Bldgs.

Fort Sam Houston

San Antonio Co: Bexar TX 78234-5000

Location: #P8144, 8267, 8148, 8149

Landholding Agency: Army

Property Number: 21199830389

Status: Unutilized

Comment: approx. 2200 sq. ft., fair, hazard abatement required, most recent use—housing, off-site use only

Bldg. P8171

Fort Sam Houston

San Antonio Co: Bexar TX 78234-5000

Landholding Agency: Army

Property Number: 21199830392

Status: Unutilized

Comment: 1289 sq. ft., fair, hazard abatement required, most recent use —housing, off-site use only

Bldg. P8172

Fort Sam Houston

San Antonio Co: Bexar TX 78234-5000

Landholding Agency: Army

Property Number: 21199830393

Status: Unutilized

Comment: 1597 sq. ft., fair, hazard abatement required, most recent use—housing, off-site use only

Bldgs. P8173, P8174

Fort Sam Houston

San Antonio Co: Bexar TX 78234—5000

Landholding Agency: Army

Property Number: 21199830394

Status: Unutilized

Comment: approx. 2200 sq. ft., fair, hazard abatement required, most recent use—housing, off-site use only

Bldg. P8174C

Fort Sam Houston

San Antonio Co: Bexar TX 78234-5000

Landholding Agency: Army

Property Number: 21199830395

Status: Unutilized

Comment: 670 sq. ft., fair, hazard abatement required, most recent use—detached garage, off-site use only

Bldg. P8175

Fort Sam Houston

San Antonio Co: Bexar TX 78234-5000

Landholding Agency: Army

Property Number: 21199830396

Status: Unutilized

Comment: 2220 sq. ft., fair, hazard abatement required, most recent use—housing, off-site use only

Bldg. P8200

Fort Sam Houston

San Antonio Co: Bexar TX 78234-5000

Landholding Agency: Army

Property Number: 21199830397

Status: Unutilized

Comment: 892 sq. ft., fair, hazard abatement required, most recent use—officers quarters, off-site use only

Bldg. P8200C

Fort Sam Houston

San Antonio Co: Bexar TX 78234-5000

Landholding Agency: Army

Property Number: 21199830398

Status: Unutilized

Comment: 924 sq. ft., fair, hazard abatement required, most recent use—detached garage, off-site use only

Bldg. P8205

Fort Sam Houston

San Antonio Co: Bexar TX 78234-5000

Landholding Agency: Army

Property Number: 21199830399

Status: Unutilized

Comment: 1745 sq. ft., fair, hazard abatement required, most recent use—housing, off-site use only

3 Bldgs.

Fort Sam Houston

San Antonio Co: Bexar TX 78234-5000

Location: #P8206, 8232, 8233

Landholding Agency: Army

Property Number: 21199830400

Status: Unutilized

Comment: approx. 2400 sq. ft., fair, hazard abatement required, most recent use—housing, off-site use only

Bldg. P8245

Fort Sam Houston

San Antonio Co: Bexar TX 78234-5000

Landholding Agency: Army

Property Number: 21199830401

Status: Unutilized

Comment: 2876 sq. ft., hazard abatement required, most recent use—housing, off-site use only

Bldgs. P8262C, 8271C

Fort Sam Houston

San Antonio Co: Bexar TX 78234-5000

Landholding Agency: Army

Property Number: 21199830403

Status: Unutilized

Comment: 1006 sq. ft., fair, hazard abatement required, most recent use—detached garage, off-site use only

Bldg. P8269

Fort Sam Houston

San Antonio Co: Bexar TX 78234-5000

Landholding Agency: Army

Property Number: 21199830404

Status: Unutilized

Comment: 2396 sq. ft., fair, hazard abatement required, most recent use—housing, off-site use only

20 Bldgs.

Fort Sam Houston

San Antonio Co: Bexar TX 78234-5000

Location: #P8271, 8002, 8018, 8025, 8037, 8100, 8130, 8132, 8138, 8140, 8142, 8145, 8147, 8210, 8212, 8221, 8242, 8247, 8264, 8257

Landholding Agency: Army

Property Number: 21199830405

Status: Unutilized

Comment: 2777 sq. ft., fair, hazard abatement required, most recent use—housing, off-site use only

Bldg. P-1374

Fort Sam Houston

San Antonio Co: Bexar TX 78234-5000

Landholding Agency: Army

Property Number: 21199840169

Status: Unutilized

Comment: 111,448 sq. ft., presence of asbestos/lead paint, hazard abatement responsibility, most recent use—barracks, off-site use only

Bldg. P-1980

Fort Sam Houston

San Antonio Co: Bexar TX 78234-5000

Landholding Agency: Army

Property Number: 21199840170

Status: Unutilized

Comment: 2989 sq. ft., presence of asbestos/lead paint, hazard abatement responsibility, most recent use—radio system station, off-site use only

Bldg. P-1981

Fort Sam Houston

San Antonio Co: Bexar TX 78234-5000

Landholding Agency: Army

Property Number: 21199840171

Status: Unutilized

Comment: 200 sq. ft., presence of asbestos/lead paint, hazard abatement responsibility, most recent use—generator plant, off-site use only

Bldg. P-2396

Fort Sam Houston

San Antonio Co: Bexar TX 78234-5000

Landholding Agency: Army

Property Number: 21199840172

Status: Unutilized

Comment: 1080 sq. ft., presence of asbestos, hazard abatement responsibility, most recent use—generator plant, off-site use only

Bldg. P-4226

Fort Sam Houston

San Antonio Co: Bexar TX 78234-5000

Landholding Agency: Army

Property Number: 21199840173

Status: Unutilized

Comment: 1809 sq. ft., presence of lead paint, hazard abatement responsibility, most recent use—storage, off-site use only

Bldg. 2842

Fort Hood

Ft. Hood TX 76544-

Landholding Agency: Army

Property Number: 21199840177

Status: Unutilized

Comment: 2650 sq. ft., most recent use—admin., off-site use only

Bldg. 2843

Fort Hood

Ft. Hood TX 76544-

Landholding Agency: Army

Property Number: 21199840178

Status: Unutilized

Comment: 8043 sq. ft., most recent use—admin., off-site use only

Bldg. 2845

Fort Hood

Ft. Hood TX 76544-

Landholding Agency: Army

Property Number: 21199840180

Status: Unutilized

Comment: 8043 sq. ft., most recent use—admin., off-site use only

Bldg. 2846

Fort Hood

Ft. Hood TX 76544-

Landholding Agency: Army

Property Number: 21199840181

Status: Unutilized

Comment: 8043 sq. ft., most recent use—admin., off-site use only

Bldg. 36

Fort Hood

Ft. Hood Co: Coryell TX 76544-

Landholding Agency: Army

Property Number: 21199920204

Status: Unutilized

Comment: 2250 sq. ft., needs repair, most recent use—ACS center, off-site use only

Bldg. 37

Fort Hood

Ft. Hood Co: Coryell TX 76544-

Landholding Agency: Army

Property Number: 21199920205

Status: Unutilized

Comment: 2220 sq. ft., needs repair, most recent use—storage, off-site use only

Bldg. 38

Fort Hood

Ft. Hood Co: Coryell TX 76544-

Landholding Agency: Army

Property Number: 21199920206

Status: Unutilized

Comment: 2700 sq. ft., needs repair, most recent use—gen. inst., off-site use only

Bldg. 39

Fort Hood

Ft. Hood Co: Coryell TX 76544-

Landholding Agency: Army

Property Number: 21199920207

Status: Unutilized

Comment: 2220 sq. ft., needs repair, most recent use—storage, off-site use only

Bldg. 41

Fort Hood

Ft. Hood Co: Coryell TX 76544-

Landholding Agency: Army

Property Number: 21199920208

Status: Unutilized

Comment: 1750 sq. ft., needs repair, most recent use—admin., off-site use only

Bldgs. 43-44

Fort Hood

Ft. Hood Co: Coryell TX 76544-

Landholding Agency: Army

Property Number: 21199920209

Status: Unutilized

Comment: 2750 sq. ft., needs repair, most recent use—admin., off-site use only

Bldgs. 209-212

Fort Hood

Ft. Hood Co: Coryell TX 76544-

Landholding Agency: Army

Property Number: 21199920210

Status: Unutilized

Comment: 8043 sq. ft., needs repair, most recent use—admin., off-site use only

Bldg. 213

Fort Hood

Ft. Hood Co: Coryell TX 76544-

Landholding Agency: Army

Property Number: 21199920211

Status: Unutilized

Comment: 7670 sq. ft., needs repair, most recent use—operations, off-site use only

Bldg. 919

Fort Hood

Ft. Hood Co: Coryell TX 76544-

Landholding Agency: Army

Property Number: 21199920212

Status: Unutilized

Comment: 11,800 sq. ft., needs repair, most recent use—Bde. Hq. Bldg., off-site use only

Bldg. 923

Fort Hood

Ft. Hood Co: Coryell TX 76544-

Landholding Agency: Army

Property Number: 21199920213

Status: Unutilized

Comment: 4440 sq. ft., needs repair, most recent use—admin., off-site use only

Bldg. 924

Fort Hood

Ft. Hood Co: Coryell TX 76544-

Landholding Agency: Army

Property Number: 21199920214

Status: Unutilized

Comment: 3500 sq. ft., needs repair, most recent use—admin., off-site use only

Bldgs. 3949-3950

Fort Hood

Ft. Hood Co: Coryell TX 76544-

Landholding Agency: Army

Property Number: 21199920219

Status: Unutilized

Comment: 5310 sq. ft., needs repair, most recent use—Bn. Hq. Bldg., off-site use only

Bldg. 3951

Fort Hood

Ft. Hood Co: Coryell TX 76544-

Landholding Agency: Army

Property Number: 21199920220

Status: Unutilized

Comment: 2500 sq. ft., needs repair, most recent use—admin., off-site use only

Bldgs. 3952-3953

Fort Hood

Ft. Hood Co: Coryell TX 76544-

Landholding Agency: Army

Property Number: 21199920221

Status: Unutilized

Comment: 3100 sq. ft., needs repair, most recent use—admin., off-site use only

Bldgs. 3954-3957

Fort Hood

Ft. Hood Co: Coryell TX 76544-

Landholding Agency: Army

Property Number: 21199920222

Status: Unutilized

Comment: 5310 sq. ft., needs repair, most recent use—admin., off-site use only

Bldg. 3958

Fort Hood

Ft. Hood Co: Coryell TX 76544-

Landholding Agency: Army

Property Number: 21199920223

Status: Unutilized

Comment: 3241 sq. ft., needs repair, most recent use—admin., off-site use only

Bldg. 3959

Fort Hood

Ft. Hood Co: Coryell TX 76544-

Landholding Agency: Army

Property Number: 21199920224

Status: Unutilized

Comment: 3373 sq. ft., needs repair, most recent use—admin., off-site use only

Bldgs. 3960-3962

Fort Hood

Ft. Hood Co: Coryell TX 76544-

Landholding Agency: Army

Property Number: 21199920225

Status: Unutilized

Comment: 5310 sq. ft., needs repair, most recent use—admin., off-site use only

Bldgs. 3964-3965

Fort Hood

Ft. Hood Co: Coryell TX 76544-

Landholding Agency: Army

Property Number: 21199920226

Status: Unutilized

Comment: 3100 sq. ft., needs repair, most recent use—Bn. Hq. Bldg., off-site use only

Bldg. 3966

Fort Hood

Ft. Hood Co: Coryell TX 76544-

Landholding Agency: Army

Property Number: 21199920227

Status: Unutilized

Comment: 2741 sq. ft., needs repair, most recent use—Co. Hq. Bldg., off-site use only

Bldgs. 3967-3969

Fort Hood

Ft. Hood Co: Coryell TX 76544-

Landholding Agency: Army

Property Number: 21199920228

Status: Unutilized

Comment: 5310 sq. ft., needs repair, most recent use—admin., off-site use only

Bldgs. 3970-3971

Fort Hood

Ft. Hood Co: Coryell TX 76544-

Landholding Agency: Army

Property Number: 21199920229

Status: Unutilized

Comment: 3241 sq. ft., needs repair, most recent use—admin., off-site use only

Virginia

Bldg. 178

Fort Monroe

Ft. Monroe Co: VA 23651-

Landholding Agency: Army

Property Number: 21199940046

Status: Unutilized

Comment: 1180 sq. ft., needs repair, most recent use—storage, off-site use only

Bldg. T246

Fort Monroe

Ft. Monroe Co: VA 23651-

Landholding Agency: Army

Property Number: 21199940047

Status: Unutilized

Comment: 756 sq. ft., needs repair, possible lead paint, most recent use—scout meetings, off-site use only

Washington

13 Bldgs., Fort Lewis

A0402, C0723, C0726, C0727, C0902

C0907, C0922, C0923, C0926, C0927

Ft. Lewis Co: Pierce WA 98433-9500

Landholding Agency: Army

Property Number: 21199630199

Status: Unutilized

Comment: 2360 sq. ft., possible asbestos/lead paint, most recent use—barracks, off-site use only

7 Bldgs., Fort Lewis

A0438, A0439, C0901, C0910, C0911

Ft. Lewis Co: Pierce WA 98433-9500

Landholding Agency: Army

Property Number: 21199630200

Status: Unutilized

Comment: 1144 sq. ft., possible asbestos/lead paint, most recent use—dayroom bldgs., off-site use only

6 Bldgs., Fort Lewis

C0908, C0728, C0921, C1008

Ft. Lewis Co: Pierce WA 98433-9500

Landholding Agency: Army

Property Number: 21199630204

Status: Unutilized

Comment: 2207 sq. ft., possible asbestos/lead paint, most recent use—dining, off-site use only

Bldg. C0909, Fort Lewis

Ft. Lewis Co: Pierce WA 98433-9500

Landholding Agency: Army

Property Number: 21199630205

Status: Unutilized

Comment: 1984 sq. ft., possible asbestos/lead paint, most recent use—admin., off-site use only

Bldg. C0920, Fort Lewis

Ft. Lewis Co: Pierce WA 98433-9500

Landholding Agency: Army

Property Number: 21199630206

Status: Unutilized

Comment: 1984 sq. ft., possible asbestos/lead paint, most recent use—admin., off-site use only

Bldg. C1249, Fort Lewis

Ft. Lewis Co: Pierce WA 98433-9500

Landholding Agency: Army

Property Number: 21199630207

Status: Unutilized

Comment: 992 sq. ft., possible asbestos/lead paint, most recent use—storage, off-site use only

Bldg. 1164, Fort Lewis

Ft. Lewis Co: Pierce WA 98433-9500

Landholding Agency: Army

Property Number: 21199630213

Status: Unutilized

Comment: 230 sq. ft., possible asbestos/lead paint, most recent use—storehouse, off-site use only

Bldg. 1307, Fort Lewis

Ft. Lewis Co: Pierce WA 98433-9500

Landholding Agency: Army

Property Number: 21199630216

Status: Unutilized

Comment: 1092 sq. ft., possible asbestos/lead paint, most recent use—storage, off-site use only

Bldg. 1309, Fort Lewis

Ft. Lewis Co: Pierce WA 98433-9500

Landholding Agency: Army

Property Number: 21199630217

Status: Unutilized

Comment: 1092 sq. ft., possible asbestos/lead paint, most recent use—storage, off-site use only

Bldg. 2167, Fort Lewis

Ft. Lewis Co: Pierce WA 98433-9500

Landholding Agency: Army

Property Number: 21199630218

Status: Unutilized

Comment: 288 sq. ft., possible asbestos/lead paint, most recent use—warehouse, off-site use only

Bldg. 4078, Fort Lewis

Ft. Lewis Co: Pierce WA 98433-9500

Landholding Agency: Army

Property Number: 21199630219

Status: Unutilized

Comment: 10200 sq. ft., needs rehab, possible asbestos/lead paint, most recent use—warehouse, off-site use only

Bldg. 9599, Fort Lewis

Ft. Lewis Co: Pierce WA 98433-9500

Landholding Agency: Army

Property Number: 21199630220

Status: Unutilized

Comment: 12366 sq. ft., possible asbestos/lead paint, most recent use—warehouse, off-site use only

Bldg. A1404, Fort Lewis

Ft. Lewis Co: Pierce WA 98433-

Landholding Agency: Army

Property Number: 21199640570

Status: Unutilized

Comment: 557 sq. ft., needs rehab, most recent use—storage, off-site use only

Bldg. A1419, Fort Lewis

Ft. Lewis Co: Pierce WA 98433-

Landholding Agency: Army

Property Number: 21199640571

Status: Unutilized

Comment: 1307 sq. ft., needs rehab, most recent use—storage, off-site use only

11 Bldgs.

Fort Lewis

Ft. Lewis Co: Pierce WA 98433-

Location: #E0103-E0106, E0306, E0315-E0316, E0343-E0344, E0353-E0354

Landholding Agency: Army

Property Number: 21199710143

Status: Unutilized

Comment: 2360 sq. ft., possible asbestos/lead paint, most recent use—officer's quarters, off-site use only

Bldgs. E0109, E0350

Fort Lewis

Ft. Lewis Co: Pierce WA 98433-

Landholding Agency: Army

Property Number: 21199710144

Status: Unutilized

Comment: 1165 sq. ft., possible asbestos/lead paint, most recent use—dayroom, off-site use only

Bldgs. E0120, E0321, E0338

Fort Lewis

Ft. Lewis Co: Pierce WA 98433-

Landholding Agency: Army

Property Number: 21199710145

Status: Unutilized

Comment: 3810 sq. ft., possible asbestos/lead paint, most recent use—officer's quarters, off-site use only

5 Bldgs.

Fort Lewis

Ft. Lewis Co: Pierce WA 98433-

Location: #E0127, E0136, E0302, E0204, E0330

Landholding Agency: Army

Property Number: 21199710146

Status: Unutilized

Comment: 2284 sq. ft., possible asbestos/lead paint, most recent use—offices, off-site use only

Bldg. E0136

Fort Lewis

Ft. Lewis Co: Pierce WA 98433-

Landholding Agency: Army

Property Number: 21199710147

Status: Unutilized

Comment: 3885 sq. ft., possible asbestos/lead paint, most recent use—officer's quarters, off-site use only

Bldgs. E0158, E0303

Fort Lewis

Ft. Lewis Co: Pierce WA 98433-

Landholding Agency: Army

Property Number: 21199710148

Status: Unutilized

Comment: 1675 sq. ft., possible asbestos/lead paint, most recent use—office, off-site use only

Bldg. E0202

Fort Lewis

Ft. Lewis Co: Pierce WA 98433-

Landholding Agency: Army

Property Number: 21199710149

Status: Unutilized

Comment: 992 sq. ft., possible asbestos/lead paint, most recent use—office, off-site use only

Bldg. E0312

Fort Lewis

Ft. Lewis Co: Pierce WA 98433-

Landholding Agency: Army

Property Number: 21199710150

Status: Unutilized

Comment: 3885 sq. ft., possible asbestos/lead paint, most recent use—officer's quarters, off-site use only

Bldg. E0322

Fort Lewis

Ft. Lewis Co: Pierce WA 98433-

Landholding Agency: Army

Property Number: 21199710151

Status: Unutilized

Comment: 2250 sq. ft., possible asbestos/lead paint, most recent use—storage, off-site use only

Bldg. E0325

Fort Lewis

Ft. Lewis Co: Pierce WA 98433-

Landholding Agency: Army

Property Number: 21199710152

Status: Unutilized

Comment: 3336 sq. ft., possible asbestos/lead paint, most recent use—officer's quarters, off-site use only

Bldg. E0329

Fort Lewis

Ft. Lewis Co: Pierce WA 98433-

Landholding Agency: Army

Property Number: 21199710153

Status: Unutilized

Comment: 1843 sq. ft., possible asbestos/lead paint, most recent use—office, off-site use only

Bldg. E0334

Fort Lewis

Ft. Lewis Co: Pierce WA 98433-

Landholding Agency: Army

Property Number: 21199710154

Status: Unutilized

Comment: 3779 sq. ft., possible asbestos/lead paint, most recent use—recreation, off-site use only

Bldg. E0335

Fort Lewis

Ft. Lewis Co: Pierce WA 98433-

Landholding Agency: Army

Property Number: 21199710155

Status: Unutilized

Comment: 2207 sq. ft., possible asbestos/lead paint, most recent use—dining facility, off-site use only

Bldg. E0347

Fort Lewis

Ft. Lewis Co: Pierce WA 98433-

Landholding Agency: Army

Property Number: 21199710156

Status: Unutilized

Comment: 1800 sq. ft., possible asbestos/lead paint, most recent use—office, off-site use only

Bldgs. E0349, E0110

Fort Lewis

Ft. Lewis Co: Pierce WA 98433-

Landholding Agency: Army

Property Number: 21199710157

Status: Unutilized

Comment: 1296 sq. ft., possible asbestos/lead paint, most recent use—office, off-site use only

4 Bldgs.

Fort Lewis

Ft. Lewis Co: Pierce WA 98433-

Location: #E0351, E0308, E0207, E0108

Landholding Agency: Army

Property Number: 21199710158

Status: Unutilized

Comment: 1144 sq. ft., possible asbestos/lead paint, most recent use—dayroom, off-site use only

Bldgs. E0352, E0307

Fort Lewis

Ft. Lewis Co: Pierce WA 98433-

Landholding Agency: Army

Property Number: 21199710159

Status: Unutilized

Comment: 992 sq. ft., possible asbestos/lead paint, most recent use—office, off-site use only

Bldg. E0355

Fort Lewis

Ft. Lewis Co: Pierce WA 98433-

Landholding Agency: Army

Property Number: 21199710160

Status: Unutilized

Comment: 2360 sq. ft., possible asbestos/lead paint, most recent use—training facility, off-site use only

Bldg. B1008, Fort Lewis

Ft. Lewis Co: Pierce WA 98433-

Landholding Agency: Army

Property Number: 21199720216

Status: Unutilized

Comment: 7387 sq. ft., 2-story, needs rehab, possible asbestos/lead paint, most recent use—medical clinic, off-site use only

Bldgs. B1011-B1012

Fort Lewis

Ft. Lewis Co: Pierce WA 98433-

Landholding Agency: Army

Property Number: 21199720217

Status: Unutilized

Comment: 992 sq. ft., and 1144 sq. ft., needs rehab, possible asbestos/lead paint, most recent use—office, off-site use only

Bldgs. C0509, C0709, C0720

Fort Lewis

Ft. Lewis Co: Pierce WA 98433-

Landholding Agency: Army

Property Number: 21199810372

Status: Unutilized

Comment: 1984 sq. ft., possible asbestos/lead paint, needs rehab, most recent use—storage, off-site use only

4 Bldgs.

Fort Lewis

C0511, C0710, C0711, C0719

Ft. Lewis Co: Pierce WA 98433-

Landholding Agency: Army

Property Number: 21199810373

Status: Unutilized

Comment: 1,144 sq. ft possible asbestos/lead paint, needs rehab, most recent use—dayrooms, off-site use only

11 Bldgs.

Fort Lewis

Ft. Lewis Co: Pierce WA 98433-

Location:

C0528, C0701, C0708, C0721, C0526, C0527, C0702, C0703, C0706, C0707, C0722

Landholding Agency: Army

Property Number: 21199810374

Status: Unutilized

Comment: 2207 sq. ft., possible asbestos/lead paint, needs rehab, most recent use—dining, off-site use only

Bldg. 1021

Fort Lewis

Ft. Lewis Co: Pierce WA 98433-

Landholding Agency: Army

Property Number: 21199830418

Status: Unutilized

Comment: 3724 sq. ft., needs repair, presence of asbestos/lead paint, most recent use—carport, off-site use only

Bldg. 5162

Fort Lewis

Ft. Lewis Co: Pierce WA 98433-

Landholding Agency: Army

Property Number: 21199830419

Status: Unutilized

Comment: 2360 sq. ft., needs repair, presence of asbestos/lead paint, most recent use—office, off-site use only

Bldg. A0631

Fort Lewis

Ft. Lewis Co: Pierce WA 98433-

Landholding Agency: Army

Property Number: 21199830422

Status: Unutilized

Comment: 2207 sq. ft., needs repair, presence of asbestos/lead paint, most recent use—office, off-site use only

Bldg. C1246

Fort Lewis

Ft. Lewis Co: Pierce WA 98433-

Landholding Agency: Army

Property Number: 21199830426

Status: Unutilized

Comment: 7670 sq. ft., needs repair, presence of asbestos/lead paint, most recent use—office, off-site use only

Bldg. B0813

Fort Lewis

Ft. Lewis Co: Pierce WA 98433-

Landholding Agency: Army

Property Number: 21199830427

Status: Unutilized

Comment: 1144 sq. ft., needs repair, presence of asbestos/lead paint, most recent use—office, off-site use only

Bldg. B0812

Fort Lewis

Ft. Lewis Co: Pierce WA 98433-

Landholding Agency: Army

Property Number: 21199830428

Status: Unutilized

Comment: 1144 sq. ft., needs repair, presence of asbestos/lead paint, most recent use—dayroom, off-site use only

Bldg. B0228

Fort Lewis

Ft. Lewis Co: Pierce WA 98433-

Landholding Agency: Army

Property Number: 21199830429

Status: Unutilized

Comment: 2739 sq. ft., needs repair, presence of asbestos/lead paint, most recent use—storage, off-site use only

Bldg. C0409

Ft. Lewis Co: Pierce WA 98433-

Landholding Agency: Army

Property Number: 21199830431

Status: Unutilized

Comment: 1948 sq. ft., needs repair, presence of asbestos/lead paint, most recent use—storage, off-site use only

Bldg. 9575

Fort Lewis

Ft. Lewis Co: Pierce WA 98433-

Landholding Agency: Army

Property Number: 21199830432

Status: Unutilized

Comment: 17,217 sq. ft., needs repair, presence of asbestos/lead paint, most recent use—veh. maint., off-site use only

Bldg. 5224

Fort Lewis

Ft. Lewis Co: Pierce WA 98433-

Landholding Agency: Army

Property Number: 21199830433

Status: Unutilized

Comment: 2360 sq. ft., needs repair, presence of asbestos/lead paint, most recent use—educ. fac., off-site use only

Bldg. 9794

Fort Lewis

Ft. Lewis Co: Pierce WA 98433-

Landholding Agency: Army

Property Number: 21199830435

Status: Unutilized

Comment: 210 sq. ft., needs repair, presence of asbestos/lead paint, most recent use—vet. fac., off-site use only

Bldg. 4540

Fort Lewis

Co: Pierce WA 98433-

Landholding Agency: Army

Property Number: 21199840183

Status: Unutilized

Comment: 1200 sq. ft., needs rehab, presence of asbestos/lead paint, most recent use—office, off-site use only

Bldg. 4541

Fort Lewis

Co: Pierce WA 98433-

Landholding Agency: Army

Property Number: 21199840184

Status: Unutilized

Comment: 880 sq. ft., needs rehab, presence of asbestos/lead paint, most recent use—storage, off-site use only

Bldg. 4542

Fort Lewis

Co: Pierce WA 98433-

Landholding Agency: Army

Property Number: 21199840185

Status: Unutilized

Comment: 112 sq. ft., needs rehab, presence of asbestos/lead paint, most recent use—heat plant, off-site use only

Bldg. 4549

Fort Lewis

Co: Pierce WA 98433-

Landholding Agency: Army

Property Number: 21199840186

Status: Unutilized

Comment: 26220 sq. ft., needs rehab, presence of asbestos/lead paint, most recent use—green house heat plant, off-site use only

Bldg. U001B

Fort Lewis

Ft. Lewis Co: Pierce WA 98433-

Landholding Agency: Army

Property Number: 21199920237

Status: Excess

Comment: 54 sq. ft., needs repair, presence of asbestos/lead paint, most recent use—control tower, off-site use only

Bldg. U001C

Fort Lewis

Ft. Lewis Co: Pierce WA 98433-

Landholding Agency: Army

Property Number: 21199920238

Status: Unutilized

Comment: 960 sq. ft., needs repair, presence of asbestos/lead paint, most recent use—supply, off-site use only

10 Bldgs.

Fort Lewis

Ft. Lewis Co: Pierce WA 98433-

Location: U002B, U002C, U005C, U015I, U016E, U019C, U022A, U028B, 0091A, U093C

Landholding Agency: Army

Property Number: 21199920239

Status: Excess

Comment: 600 sq. ft., needs repair, presence of asbestos/lead paint, most recent use—range house, off-site use only

6 Bldgs.

Fort Lewis

Ft. Lewis Co: Pierce WA 98433-

Location: U003A, U004B, U006C, U015B, U016B, U019B

Landholding Agency: Army

Property Number: 21199920240

Status: Unutilized

Comment: 54 sq. ft., needs repair, presence of asbestos/lead paint, most recent use—control tower, off-site use only

Bldg. U004D

Fort Lewis

Ft. Lewis Co: Pierce WA 98433-

Landholding Agency: Army

Property Number: 21199920241

Status: Unutilized

Comment: 960 sq. ft., needs repair, presence of asbestos/lead paint, most recent use—supply, off-site use only

Bldg. U005A

Fort Lewis

Ft. Lewis Co: Pierce WA 98433-

Landholding Agency: Army

Property Number: 21199920242

Status: Unutilized

Comment: 360 sq. ft., needs repair, presence of asbestos/lead paint, most recent use—control tower, off-site use only

Bldgs. U006A, U024A

Fort Lewis

Ft. Lewis Co: Pierce WA 98433-

Landholding Agency: Army

Property Number: 21199920243

Status: Excess

Comment: 1440 sq. ft., needs repair, presence of asbestos/lead paint, most recent use—shelter, off-site use only

Bldgs. U007A, U021A

Fort Lewis

Ft. Lewis Co: Pierce WA 98433-

Landholding Agency: Army

Property Number: 21199920244

Status: Excess

Comment: 100 sq. ft., needs repair, presence of asbestos/lead paint, most recent use—control tower, off-site use only

7 Bldgs.

Fort Lewis

Ft. Lewis Co: Pierce WA 98433-

Location: U014A, U022B, U023A, U043B, U059B, U060A, U101A

Landholding Agency: Army

Property Number: 21199920245

Status: Excess

Comment: needs repair, presence of asbestos/lead paint, most recent use—ofc/tower/support, off-site use only

Bldg. U015J

Fort Lewis

Ft. Lewis Co: Pierce WA 98433-

Landholding Agency: Army

Property Number: 21199920246

Status: Excess

Comment: 144 sq. ft., needs repair, presence of asbestos/lead paint, most recent use—tower, off-site use only

Bldg. U018B

Fort Lewis

Ft. Lewis Co: Pierce WA 98433-

Landholding Agency: Army

Property Number: 21199920247

Status: Unutilized

Comment: 121 sq. ft., needs repair, presence of asbestos/lead paint, most recent use—range house, off-site use only

Bldg. U018C

Fort Lewis

Ft. Lewis Co: Pierce WA 98433-

Landholding Agency: Army

Property Number: 21199920248

Status: Unutilized

Comment: 48 sq. ft., needs repair, presence of asbestos/lead paint, off-site use only

Bldg. U024B

Fort Lewis

Ft. Lewis Co: Pierce WA 98433-

Landholding Agency: Army

Property Number: 21199920249

Status: Unutilized

Comment: 168 sq. ft., needs repair, presence of asbestos/lead paint, most recent use—control tower, off-site use only

Bldg. U024D

Fort Lewis

Ft. Lewis Co: Pierce WA 98433-

Landholding Agency: Army

Property Number: 21199920250

Status: Unutilized

Comment: 120 sq. ft., needs repair, presence of asbestos/lead paint, most recent use—ammo bldg., off-site only

Bldg. U027A

Fort Lewis

Ft. Lewis Co: Pierce WA

Landholding Agency: Army

Property Number: 21199920251

Status: Excess

Comment: 64 sq. ft., needs repair, presence of asbestos/lead paint, most recent use—tire house, off-site use only

Bldgs. U028A-U032A

Fort Lewis

Ft. Lewis Co: Pierce WA 98433-

Landholding Agency: Army

Property Number: 21199920252

Status: Unutilized

Comment: 72 sq. ft., needs repair, presence of asbestos/lead paint, most recent use—control tower, off-site use only

Bldg. U031A

Fort Lewis

Ft. Lewis Co: Pierce WA 98433-

Landholding Agency: Army

Property Number: 21199920253

Status: Excess

Comment: 3456 sq. ft., needs repair, presence of asbestos/lead paint, most recent use—line shed, off-site use only

Bldg. U031C

Fort Lewis

Ft. Lewis Co: Pierce WA 98433-

Landholding Agency: Army

Property Number: 21199920254

Status: Unutilized

Comment: 32 sq. ft., needs repair, presence of asbestos/lead paint, off-site use only

Bldg. U040D

Fort Lewis

Ft. Lewis Co: Pierce WA 98433-

Landholding Agency: Army

Property Number: 21199920255

Status: Excess

Comment: 800 sq. ft., needs repair, presence of asbestos/lead paint, most recent use—range house, off-site use only

Bldgs. U052C, U052H

Fort Lewis

Ft. Lewis Co: Pierce WA 98433-

Landholding Agency: Army

Property Number: 21199920256

Status: Excess

Comment: various sq. ft., needs repair, presence of asbestos/lead paint, most recent use—range house, off-site use only

Bldgs. U035A, U035B

Fort Lewis

Ft. Lewis Co: Pierce WA 98433-

Landholding Agency: Army

Property Number: 21199920257

Status: Excess

Comment: 192 sq. ft., needs repair, presence of asbestos/lead paint, most recent use—shelter, off-site use only

Bldgs. U035C

Fort Lewis

Ft. Lewis Co: Pierce WA 98433-

Landholding Agency: Army

Property Number: 21199920258

Status: Excess

Comment: 242 sq. ft., needs repair, presence of asbestos/lead paint, most recent use—range house, off-site use only

Bldgs. U039A

Fort Lewis

Ft. Lewis Co: Pierce WA 98433-

Landholding Agency: Army

Property Number: 21199920259

Status: Excess

Comment: 36 sq. ft., needs repair, presence of asbestos/lead paint, most recent use—control tower, off-site use only

Bldgs. U039B

Fort Lewis

Ft. Lewis Co: Pierce WA 98433-

Landholding Agency: Army

Property Number: 21199920260

Status: Excess

Comment: 1600 sq. ft., needs repair, presence of asbestos/lead paint, most recent use—grandstand/bleachers, off-site use only

Bldgs. U039C

Fort Lewis

Ft. Lewis Co: Pierce WA 98433-

Landholding Agency: Army

Property Number: 21199920261

Status: Excess

Comment: 600 sq. ft., needs repair, presence of asbestos/lead paint, most recent use—support, off-site use only

Bldgs. U043A

Fort Lewis

Ft. Lewis Co: Pierce WA 98433-

Landholding Agency: Army

Property Number: 21199920262

Status: Excess

Comment: 132 sq. ft., needs repair, presence of asbestos/lead paint, most recent use—range house, off-site use only

Bldgs. U052A

Fort Lewis

Ft. Lewis Co: Pierce WA 98433-

Landholding Agency: Army

Property Number: 21199920263

Status: Excess

Comment: 69 sq. ft., needs repair, presence of asbestos/lead paint, most recent use—tower, off-site use only

Bldgs. U052E

Fort Lewis

Ft. Lewis Co: Pierce WA 98433-

Landholding Agency: Army

Property Number: 21199920264

Status: Excess

Comment: 600 sq. ft., needs repair, presence of asbestos/lead paint, most recent use—storage, off-site use only

Bldgs. U052G

Fort Lewis

Ft. Lewis Co: Pierce WA 98433-

Landholding Agency: Army

Property Number: 21199920265

Status: Excess

Comment: 1600 sq. ft., needs repair, presence of asbestos/lead paint, most recent use—shelter, off-site use only

3 Bldgs.

Fort Lewis

Ft. Lewis Co: Pierce WA 98433-

Location: U058A, U103A, U018A

Landholding Agency: Army

Property Number: 21199920266

Status: Excess

Comment: 36 sq. ft., needs repair, presence of asbestos/lead paint, most recent use—control tower, off-site use only

Bldg. U059A

Fort Lewis

Ft. Lewis Co: Pierce WA 98433-

Landholding Agency: Army

Property Number: 21199920267

Status: Excess

Comment: 16 sq. ft., needs repair, presence of asbestos/lead paint, most recent use—tower, off-site use only

Bldg. U093B

Fort Lewis

Ft. Lewis Co: Pierce WA 98433-

Landholding Agency: Army

Property Number: 21199920268

Status: Excess

Comment: 680 sq. ft., needs repair, presence of asbestos/lead paint, most recent use—range house, off-site use only

4 Bldgs.

Fort Lewis

Ft. Lewis Co: Pierce WA 98433-

Location: U101B, U101C, U507B, U557A

Landholding Agency: Army

Property Number: 21199920269

Status: Excess

Comment: 400 sq. ft., needs repair, presence of asbestos/lead paint, off-site use only

Bldg. U102B

Fort Lewis

Ft. Lewis Co: Pierce WA 98433-

Landholding Agency: Army

Property Number: 21199920270

Status: Excess

Comment: 1058 sq. ft., needs repair, presence of asbestos/lead paint, most recent use—shelter, off-site use only

Bldg. U108A

Fort Lewis

Ft. Lewis Co: Pierce WA 98433-

Landholding Agency: Army

Property Number: 21199920271

Status: Excess

Comment: 31,320 sq. ft., needs repair, presence of asbestos/lead paint, most recent use—line shed, off-site use only

Bldg. U110B

Fort Lewis

Ft. Lewis Co: Pierce WA 98433-

Landholding Agency: Army

Property Number: 21199920272

Status: Excess

Comment: 138 sq. ft., needs repair, presence of asbestos/lead paint, most recent use—support, off-site use only

6 Bldgs.

Fort Lewis

Ft. Lewis Co: Pierce WA 98433-

Location: U111A, U015A, U024E, U052F, U109A, U110A

Landholding Agency: Army

Property Number: 21199920273

Status: Excess

Comment: 1000 sq. ft., needs repair, presence of asbestos/lead paint, most recent use—support/shelter/mess, off-site use only

Bldg. U112A

Fort Lewis

Ft. Lewis Co: Pierce WA 98433-

Landholding Agency: Army

Property Number: 21199920274

Status: Excess

Comment: 1600 sq. ft., needs repair, presence of asbestos/lead paint, most recent use—shelter, off-site use only

Bldg. U115A

Fort Lewis

Ft. Lewis Co: Pierce WA 98433-

Landholding Agency: Army

Property Number: 21199920275

Status: Excess

Comment: 36 sq. ft., needs repair, presence of asbestos/lead paint, most recent use—tower, off-site use only

Bldg. U507A

Fort Lewis

Ft. Lewis Co: Pierce WA 98433-

Landholding Agency: Army

Property Number: 21199920276

Status: Excess

Comment: 400 sq. ft., needs repair, presence of asbestos/lead paint, most recent use—support, off-site use only

Bldg. U516B

Fort Lewis

Ft. Lewis Co: Pierce WA 98433-

Landholding Agency: Army

Property Number: 21199920277

Status: Excess

Comment: 5000 sq. ft., needs repair, presence of asbestos/lead paint, most recent use—shed, off-site use only

7 Bldgs.

Fort Lewis

Ft. Lewis Co: Pierce WA 98433-

Location: F0002, F0004, F0003, F0005, F0006, F0008, F0009

Landholding Agency: Army

Property Number: 21199920278

Status: Excess

Comment: various sq. ft., needs repair, presence of asbestos/lead paint, most recent use—storehouse, off-site use only

Bldg. F0022A

Fort Lewis

Ft. Lewis Co: Pierce WA 98433-

Landholding Agency: Army

Property Number: 21199920279

Status: Excess

Comment: 4373 sq. ft., needs repair, presence of asbestos/lead paint, most recent use—gen. inst., off-site use only

Bldg. F0022B

Fort Lewis

Ft. Lewis Co: Pierce WA 98433-

Landholding Agency: Army

Property Number: 21199920280

Status: Excess

Comment: 3100 sq. ft., needs repair, presence of asbestos/lead paint, most recent use—storage, off-site use only

Bldg. C0120

Fort Lewis

Ft. Lewis Co: Pierce WA 98433-

Landholding Agency: Army

Property Number: 21199920281

Status: Excess

Comment: 384 sq. ft., needs repair, presence of asbestos/lead paint, most recent use—scale house, off-site use only

Bldg. A0220

Fort Lewis

Ft. Lewis Co: Pierce WA 98433-

Landholding Agency: Army

Property Number: 21199920282

Status: Excess

Comment: 2284 sq. ft., needs repair, presence of asbestos/lead paint, most recent use—club facility, off-site use only

18 Bldgs.

Fort Lewis

Ft. Lewis Co: Pierce WA 98433-

Location: A0337, A0617, B0820, B0821, C0319, C0833, C0310, C0311, C0318, C1019, D0712, D0713, D0720, D0721, D1108, D1153, C1011, C1018

Landholding Agency: Army

Property Number: 21199920283

Status: Excess

Comment: 1144 sq. ft., needs repair, presence of asbestos/lead paint, most recent use—day room, off-site use only

Bldg. A0334

Fort Lewis

Ft. Lewis Co: Pierce WA 98433-

Landholding Agency: Army

Property Number: 21199920284

Status: Excess

Comment: 1092 sq. ft., needs repair, presence of asbestos/lead paint, most recent use—sentry station, off-site use only

7 Bldgs.

Fort Lewis

Ft. Lewis Co: Pierce WA 98433-

Location: C0302, C0303, C0306, C0322, C0323, C0326, C0327

Landholding Agency: Army

Property Number: 21199920285

Status: Excess

Comment: 2340 sq. ft., needs repair, presence of asbestos/lead paint, most recent use—barracks, off-site use only

12 Bldgs.

Fort Lewis

Ft. Lewis Co: Pierce WA 98433-

Location: C1002, C1003, C1006, C1007, C1022, C1023, C1026, C1027, C1207, C1301, C13333, C1334

Landholding Agency: Army

Property Number: 21199920287

Status: Excess

Comment: 2360 sq. ft., needs repair, presence of asbestos/lead paint, most recent use—barracks, off-site use only

Bldg. E1010

Fort Lewis

Ft. Lewis Co: Pierce WA 98433-

Landholding Agency: Army

Property Number: 21199920288

Status: Excess

Comment: 148 sq. ft., needs repair, presence of asbestos/lead paint, most recent use—gas station, off-site use only

Bldg. D1154

Fort Lewis

Ft. Lewis Co: Pierce WA 98433-

Landholding Agency: Army

Property Number: 21199920289

Status: Excess

Comment: 1165 sq. ft., needs repair, presence of asbestos/lead paint, most recent use—day room, off-site use only

Bldg. 01205

Fort Lewis

Ft. Lewis Co: Pierce WA 98433-

Landholding Agency: Army

Property Number: 21199920290

Status: Excess

Comment: 87 sq. ft., needs repair, presence of asbestos/lead paint, most recent use—storehouse, off-site use only

Bldg. 01259

Fort Lewis

Ft. Lewis Co: Pierce WA 98433-

Landholding Agency: Army

Property Number: 21199920291

Status: Excess

Comment: 16 sq. ft., needs repair, presence of asbestos/lead paint, most recent use—storage, off-site use only

Bldg. 01266

Fort Lewis

Ft. Lewis Co: Pierce WA 98433-

Landholding Agency: Army

Property Number: 21199920292

Status: Excess

Comment: 45 sq. ft., needs repair, presence of asbestos/lead paint, most recent use—shelter, off-site use only

Bldg. B1410

Fort Lewis

Ft. Lewis Co: Pierce WA 98433-

Landholding Agency: Army

Property Number: 21199920293

Status: Excess

Comment: 3108 sq. ft., needs repair, presence of asbestos/lead paint, most recent use—motor repair, off-site use only

Bldg. 1445

Fort Lewis

Ft. Lewis Co: Pierce WA 98433-

Landholding Agency: Army

Property Number: 21199920294

Status: Excess

Comment: 144 sq. ft., needs repair, presence of asbestos/lead paint, most recent use—generator bldg., off-site use only

Bldg. 02082

Fort Lewis

Ft. Lewis Co: Pierce WA 98433-

Landholding Agency: Army

Property Number: 21199920295

Status: Excess

Comment: 16 sq. ft., needs repair, presence of asbestos/lead paint, most recent use—storage, off-site use only

Bldgs. 03091, 03099

Fort Lewis

Ft. Lewis Co: Pierce WA 98433-

Landholding Agency: Army

Property Number: 21199920296

Status: Excess

Comment: various sq. ft., needs repair, presence of asbestos/lead paint, most recent use—sentry station, off-site use only

Bldgs. 03100, 3101

Fort Lewis

Ft. Lewis Co: Pierce WA 98433-

Landholding Agency: Army

Property Number: 21199920297

Status: Excess

Comment: various sq. ft., needs repair, presence of asbestos/lead paint, most recent use—storage, off-site use only

Bldg. 4040

Fort Lewis

Ft. Lewis Co: Pierce WA 98433-

Landholding Agency: Army

Property Number: 21199920298

Status: Excess

Comment: 8326 sq. ft., needs repair, presence of asbestos/lead paint, most recent use—shed, off-site use only

Bldgs. 4072, 5104

Fort Lewis

Ft. Lewis Co: Pierce WA 98433-

Landholding Agency: Army

Property Number: 21199920299

Status: Excess

Comment: 24/36 sq. ft., needs repair, presence of asbestos/lead paint, off-site use only

Bldg. 4295

Fort Lewis

Ft. Lewis Co: Pierce WA 98433-

Landholding Agency: Army

Property Number: 21199920300

Status: Excess

Comment: 48 sq. ft., needs repair, presence of asbestos/lead paint, most recent use—storage, off-site use only

Bldg. 5170

Fort Lewis

Ft. Lewis Co: Pierce WA 98433-

Landholding Agency: Army

Property Number: 21199920301

Status: Excess

Comment: 19,411 sq. ft., needs repair, presence of asbestos/lead paint, most recent use—store, off-site use only

Bldg. 6191

Fort Lewis

Ft. Lewis Co: Pierce WA 98433-

Landholding Agency: Army

Property Number: 21199920303

Status: Excess

Comment: 3663 sq. ft., needs repair, presence of asbestos/lead paint, most recent use—exchange branch, off-site use only

Bldgs. 08076, 08080

Fort Lewis

Ft. Lewis Co: Pierce WA 98433-

Landholding Agency: Army

Property Number: 21199920304

Status: Excess

Comment: 3660/412 sq. ft., needs repair, presence of asbestos/lead paint, off-site use only

Bldg. 08093

Fort Lewis

Ft. Lewis Co: Pierce WA 98433-

Landholding Agency: Army

Property Number: 21199920305

Status: Excess

Comment: 289 sq. ft., needs repair, presence of asbestos/lead paint, most recent use—boat storage, off-site use only

Bldg. 8279

Fort Lewis

Ft. Lewis Co: Pierce WA 98433-

Landholding Agency: Army

Property Number: 21199920306

Status: Excess

Comment: 210 sq. ft., needs repair, presence of asbestos/lead paint, most recent use—fuel disp. fac., off-site use only

Bldgs. 8280, 8291

Fort Lewis

Ft. Lewis Co: Pierce WA 98433-

Landholding Agency: Army

Property Number: 21199920307

Status: Excess

Comment: 800/464 sq. ft., needs repair, presence of asbestos/lead paint, most recent use—storage, off-site use only

Bldg. 8956

Fort Lewis

Ft. Lewis Co: Pierce WA 98433-

Landholding Agency: Army

Property Number: 21199920308

Status: Excess

Comment: 100 sq. ft., needs repair, presence of asbestos/lead paint, most recent use—storage, off-site use only

Bldg. 9530

Fort Lewis

Ft. Lewis Co: Pierce WA 98433-

Landholding Agency: Army

Property Number: 21199920309

Status: Excess

Comment: 64 sq. ft., needs repair, presence of asbestos/lead paint, most recent use—sentry station, off-site use only

Bldg. 9574

Fort Lewis

Ft. Lewis Co: Pierce WA 98433-

Landholding Agency: Army

Property Number: 21199920310

Status: Excess

Comment: 6005 sq. ft., needs repair, presence of asbestos/lead paint, most recent use—veh. shop., off-site use only

Bldg. 9596

Fort Lewis

Ft. Lewis Co: Pierce WA 98433-

Landholding Agency: Army

Property Number: 21199920311

Status: Excess

Comment: 36 sq. ft., needs repair, presence of asbestos/lead paint, most recent use—gas station, off-site use only

Bldg. 9939

Fort Lewis

Ft. Lewis Co: Pierce WA 98433-

Landholding Agency: Army

Property Number: 21199920313

Status: Excess

Comment: 600 sq. ft., needs repair, presence of asbestos/lead paint, most recent use—recreation, off-site use only

Bldg. E0324

Fort Lewis

Ft. Lewis Co: Pierce WA 98433-

Landholding Agency: Army

Property Number: 21199920314

Status: Excess

Comment: 2207 sq. ft., needs repair, presence of asbestos/lead paint, most recent use—storage, off-site use only

LAND (by State)

Georgia

Land (Railbed)

Fort Benning

Ft. Benning Co: Muscogee GA 31905-

Landholding Agency: Army

Property Number: 21199440440

Status Unutilized

Comment: 17.3 acres extending 1.24 miles, no known utilities potential

Maryland

13 acres

Fort George G. Meade

west side of Rt 175

Ft. Meade Co: Anne Arundel MD 20755-5111

Landholding Agency: Army

Property Number: 21199930151

Status: Underutilized

Comment: small paved area, remainder wooded

Nevada

Parcel A

Hawthorne Army Ammunition

Plant

Hawthorne Co: Mineral NV 89415-

Location: At Foot of Eastern slope of Mount Grant in Wassuk Range & S.W. edge of Walker Lane

Landholding Agency: Army

Property Number: 21199012049

Status: Unutilized

Comment: 160 acres, road and utility easements, no utility hookup, possible flooding problem.

Parcel B

Hawthorne Army Ammunition

Plant

Hawthorne Co: Mineral NV 89415-

Location: At Foot of Eastern slope of Mount Grant in Wassuk Range & S.W. edge of Walker Lane

Landholding Agency: Army

Property Number: 21199012056

Status: Unutilized

Comment: 1920 acres; road and utility easements; no utility hookup, possible flooding problem.

Parcel C

Hawthorne Army Ammunition

Plant

Hawthorne Co: Mineral NV 89415-

Location: South-southwest of Hawthorne along HWAAP's South Magazine Area at Western edge of State Route 359

Landholding Agency: Army

Property Number: 21199012057

Status: Unutilized

Comment: 85 acres; road and utility easements; no utility hookup.

Parcel D

Hawthorne Army Ammunition

Plant

Hawthorne Co: Mineral NV 89415-

Location: South-southwest of Hawthorne along HWAAP's South Magazine Area at western edge of State Route 359.

Landholding Agency: Army

Property Number: 21199012058

Status: Unutilized

Comment: 955 acres; road and utility easements; no utility hookup.

New York

Land—6.965 Acres

Dix Avenue

Queensbury Co: Warren NY 12801-

Landholding Agency: Army

Property Number: 21199540018

Status: Unutilized

Comment: 6.96 acres of vacant land, located in industrial area, potential utilities

Texas

Old Camp Bullis Road

Fort Sam Houston

San Antonio Co: Bexar TX 78234-5000

Landholding Agency: Army

Property Number: 21199420461

Status: Unutilized

Comment: 7.16 acres; rural gravel road

Castner Range

Fort Bliss

El Paso Co: El Paso TX 79916-

Landholding Agency: Army

Property Number: 21199610788

Status: Unutilized

Comment: approx. 56.81 acres; portion in floodway, most recent use—recreation picnic park

Suitable/Unavailable Properties

BUILDINGS (by State)

Alaska

Bldg. 806

Fort Richardson

Ft. Richardson Co: AK 99505-

Landholding Agency: Army

Property Number: 21199930115

Status: Excess

Comment: 93,178 sq. ft., concrete block, most recent use—storage, off-site use only

Georgia

Bldg. 4090

Fort Benning

Ft. Benning Co: Muscogee GA 31905-

Landholding Agency: Army

Property Number: 21199630007

Status: Underutilized

Comment: 3530 sq. ft., most recent use—chapel, off-site use only

Kansas

Bldg. P-295

Fort Leavenworth

Leavenworth Co: Leavenworth KS 66027-

Landholding Agency: Army

Property Number: 21199810296

Status: Unutilized

Comment: 3480 sq. ft., concrete, most recent use—underground storage, off-site use only

New York

Bldg. T-2215

Fort Drum

Co: Jefferson NY 13602-

Landholding Agency: Army

Property Number: 21199840161

Status: Unutilized

Comment: 7670 sq. ft., most recent use—quarters, off-site use only

Bldg. T-2216

Fort Drum

Co: Jefferson NY 13602-

Landholding Agency: Army

Property Number: 21199840162

Status: Unutilized

Comment: 7670 sq. ft., most recent use—quarters, off-site use only

Texas

Bldg. P-2000, Fort Sam Houston

San Antonio Co: Bexar TX 78234-5000

Landholding Agency: Army

Property Number: 21199220389

Status: Underutilized

Comment: 49,542 sq. ft., 3-story brick structure, within National Landmark Historic District

Bldg. P-2001, Fort Sam Houston

San Antonio Co: Bexar TX 78234-5000

Landholding Agency: Army

Property Number: 21199220390

Status: Underutilized

Comment: 16,539 sq. ft., 4-story brick structure, within National Landmark Historic District

LAND (by State)

North Carolina

.92 Acre—Land

Military Ocean Terminal,

Sunny Point

Southport Co: Brunswick NC 28461-5000

Landholding Agency: Army

Property Number: 21199610728

Status: Underutilized

Comment: municipal drinking waterwell, restricted by explosive safety regs., New Hanover County Buffer Zone

10 Acre—Land

Military Ocean Terminal,

Sunny Point

Southport Co: Brunswick NC 28461-5000

Landholding Agency: Army

Property Number: 21199610729

Status: Underutilized

Comment: municipal drinking waterwell, restricted by explosive safety regs., New Hanover County Buffer Zone

257 Acre—Land

Military Ocean Terminal,

Sunny Point

Southport Co: Brunswick NC 28461-5000

Landholding Agency: Army

Property Number: 21199610730

Status: Underutilized

Comment: state park, restricted by explosive safety regs., New Hanover County Buffer Zone

24.83 acres—Tract of Land

Military Ocean Terminal,

Sunny Point

Southport Co: Brunswick NC 28461-5000

Landholding Agency: Army

Property Number: 21199620685

Status: Underutilized

Comment: 24.83 acres, municipal park, most recent use—New Hanover County explosive buffer zone

Texas

Vacant Land, Fort Sam Houston

All of Block 1800, Portions of Blocks 1900, 3100 and 3200

San Antonio Co: Bexar TX 78234-5000

Landholding Agency: Army

Property Number: 21199220438

Status: Unutilized

Comment: 210.83 acres, 85% located in floodplain, presence of unexploded ordnance, 2 land fill areas

Suitable/To Be Excessed

BUILDINGS (by State)

Idaho

Moore Hall U.S. Army Rsve Ctr

1575 N. Skyline Dr.

Idaho Falls Co: Bonneville ID 83401-

Landholding Agency: Army

Property Number: 21199720207

Status: Unutilized

Comment: 12582 sq. ft. dental clinic in mobile home, 1138 sq. ft. maint. shop, good condition, possible asbestos

Illinois

WARD Army Reserve Center

1429 Northmoor Road

Peoria Co: Peoria IL 61614-3498

Landholding Agency: Army

Property Number: 21199430254

Status: Unutilized

Comment: 2 bldgs. on 3.15 acres, 36451 sq. ft., reserve center & warehouse, presence of asbestos, most recent use—office/storage/training

Stenafich Army Reserve Center

1600 E. Willow Road

Kankakee Co: Kankakee IL 60901-2631

Landholding Agency: Army

Property Number: 21199430255

Status: Unutilized

Comment: 2 bldgs.—reserve center & vehicle maint. shop on 3.68 acres, 5641 sq. ft., most recent use—office/storage/training, presence of asbestos

Indiana

Bldg. 27, USARC Paulsen

North Judson Co: Starke IN 46366-

Landholding Agency: Army

Property Number: 21199610669

Status: Unutilized

Comment: 10379 sq. ft., presence of asbestos, most recent use—office/storage/training

Bldg. 36, USARC Paulsen

North Judson Co: Starke IN 46366-

Landholding Agency: Army

Property Number: 21199610670

Status: Unutilized

Comment: 1802 sq. ft., presence of asbestos, most recent use—vehicle maintenance

Kansas

U.S. Army Reserve Center Annex

800 South 29th St.

Parsons KS

Landholding Agency: Army

Property Number: 21199720208

Status: Unutilized

Comment: 3157 sq. ft., 1-story, reserve center annex and storage

New York

Bldgs. P-1 & P-2

Olean Reserve Center

423 Riverside Drive

Olean Co: Cattaraugus NY 14760-

Landholding Agency: Army

Property Number: 21199540017

Status: Unutilized

Comment: 4464 sq. ft. reserve center/1325 sq. ft. motor repair shop, 1 story each, concrete block/brick frame, on 3.9 acres

Reserve Center

PFC. Robert J. Manville

USARC

1205 Lafayette Street

Ogdensburg Co: St. Lawrence NY 13669-

Landholding Agency: Army

Property Number: 21199710241

Status: Unutilized

Comment: 11,540 sq. ft., good condition

Motor Repair Shop

PFC. Robert J. Manville

USARC

1205 Lafayette Street

Ogdensburg Co: St. Lawrence NY 13669-

Landholding Agency: Army

Property Number: 21199710242

Status: Unutilized

Comment: 2524 sq. ft., good condition

Wisconsin

U.S. Army Reserve Center

2310 Center Street

Racine Co: Racine WI 53403-3330

Landholding Agency: Army

Property Number: 21199620740

Status: Unutilized

Comment: 3 bldgs. (14,137 sq. ft.) on 3 acres, needs repair, most recent use—office/storage/training

LAND (by State)

California

U.S. Army Reserve Center

Mountain Lakes Industrial Park

Redding Co: Shasta CA

Landholding Agency: Army

Property Number: 21199610645

Status: Unutilized

Comment: 5.13 acres within a light industrial park

Tennessee

Railroad Bed

Fort Campbell

Jack Miller Blvd.

Clarksville TN

Landholding Agency: Army

Property Number: 21199840189

Status: Unutilized

Comment: approx. 6.06 acres

Unsuitable Properties

BUILDINGS (by State)

Alabama

72 Bldgs.

Redstone Arsenal

Redstone Arsenal Co: Madison AL 35898-

Landholding Agency: Army

Property Number: 219014015, 219430286, 219530034,

219630015, 219630017, 219710163-219710170

219810011-219810023, 21199840008,

21199910003, 21199910006, 21199920026, 21199930010-

21199930018, 21199930110, 21199940048-21199940049,

21200010001-21200010008

Status: Unutilized

Reason: Secured Area (Some are extensively deteriorated.)

55 Bldgs., Fort Rucker

Ft. Rucker Co: Dale AL 36362

Landholding Agency: Army

Property Number: 219310016, 219330003, 219340116,

219340124, 219410022,

219520057-219520058, 2196300011,

219640440, 219710091, 219730009, 219730011,

219740004, 219740006, 219810010,

219830002, 219830007, 21199910001,

21199930019, 21200010009-21200010010

Status: Unutilized

Reason: Extensive deterioration

Bldgs. 25203, 25205-25207, 25209

Fort Rucker

Stagefield Areas

Ft. Rucker CO; Dale AL 36362-5138

Landholding Agency: Army

Property Number 219410020

Status: Unutilized

Reason Secured area.

Alaska

16 Bldgs.

Fort Greely

Ft. Greely AK 99790-

Landholding Agency: Army

Property Number: 219210124-219210125, 219220320-219220332,

219520064

Status: Unutilized

Reason: Extensive deterioration

8 Bldgs., Fort Wainwright

Ft. Wainwright AK 99703

Landholding Agency: Army

Property Number: 219710090

219710195-219710198, 219810002, 219810007,

21199920001

Status: Unutilized

Reason: Within 2000 ft. of flammable or explosive material; Secured area; Floodway (Some are extensively deteriorated)

Bldg. 1501, Fort Greely

Ft. Greely AK 99505

Landholding Agency: Army

Property Number: 219240327

Status: Unutilized

Reason: Secured Area

Sullivan Roadhouse, Fort Greely

Ft. Greely AK

Landholding Agency: Army

Property Number: 219430291

Status: Unutilized

Reason: Extensive deterioration

27 Bldgs., Fort Richardson

Ft. Richardson AK 99505

Landholding Agency: Army

Property Number: 219710199-219710220,

21199930004-21199930009

Status: Unutilized

Reason: Extensive deterioration

Arizona

32 Bldgs.

Navajo Depot Activity

Bellemont Co: Coconino AZ 86015-

Location: 12 miles west of Flagstaff, Arizona on I-40

Landholding Agency: Army

Property Number: 219014560-219014591

Status: Underutilized

Reason: Secured Area

10 properties: 753 earth covered igloos; above ground standard, magazines

Navajo Depot Activity

Bellemont Co: Coconino AZ 86015-

Location: 12 miles west of Flagstaff, Arizona on I-40

Landholding Agency: Army

Property Number: 219014592-219014601

Status: Underutilized

Reason: Secured Area

9 Bldgs.

Navajo Deport Activity

Bellemont Co: Coconino AZ 86015-5000

Location: 12 miles west of Flagstaff, on I-40

Landholding Agency: Army

Property Number: 219030273-219030274, 219120175-219120181

Status: Unutilized

Reason: Secured Area

Bldg. 47017

Fort Huachuca

Sierra Vista Co: Cochise AZ 85635

Landholding Agency: Army

Property Number: 21199930020

Status: Excess

Reason: Extensive deterioration

Arkansas

177 Bldgs., Fort Chaffee

Ft. Chaffee Co: Sebastian AR 72905-5000

Landholding Agency: Army

Property Number: 219630019-219630029,

219640462-219640477

Status: Unutilized

Reason: Extensive deterioration

California

Bldg. 18

Riverbank Army Ammunition Plant

5300 Claus Road

Riverbank Co: Stanislaus CA 95367-

Landholding Agency: Army

Property Number: 219012554

Status: Unutilized

Reason: Within 2000 ft. of flammable or explosive material; Secured Area

11 Bldgs., Nos. 2-8, 156, 1, 120, 181

Riverbank Army Ammunition Plant

Riverbank Co: Stanislaus CA 95367-

Landholding Agency: Army

Property Number: 219013582-219013588, 219013590, 219240444-219240446

Status: Underutilized

Reason: Secured area

9 Bldgs.

Oakland Army Base

Oakland Co; Alameda CA 94626-5000

Landholding Agency: Army

Property Number: 219013903-219013906, 219120051, 219340008-219340011

Status: Unutilized

Reason: Secured Area (Some are extensively deteriorated.)

Bldgs. 13, 171, 178 Riverbank Ammun Plant

5300 Claus Road

Riverbank Co: Stanislaus CA 95367-

Landholding Agency: Army

Property Number: 219120162-219120164

Status: Underutilized

Reason: Secured Area

6 Bldgs.

DDDRW Sharpe Facility

Tracy Co: San Joaquin CA 95331

Landholding Agency: Army

Property Number: 219610289, 219610291, 21199930021, 21200010011-21200010013

Status: Unutilized

Reason: Secured Area

6 Buildings

Oakland Army Base

Oakland Co: Alameda CA 94626

Location: Include: 90, 790, 792, 807, 829, 916

Landholding Agency: Army

Property Number: 219510097

Status: Unutilized

Reason: Secured Area; Within 2000 ft. of flammable or explosive material

Bldgs. 29, 39, 73, 154, 155, 193, 204, 257

Los Alamitos Co: Orange CA 90720-5001

Landholding Agency: Army

Property Number: 219520040

Status: Unutilized

Reason: Extensive deterioration

Bldgs. 1103, 1131, 1120

Parks Reserve Forces Training Area

Dublin Co: Alameda CA 94568-5201

Landholding Agency: Army

Property Number: 219520056, 219830010

Status: Unutilized

Reason: Extensive deterioration

15 Bldgs.

Sierra Army Depot

Herlong Co: Lassen CA 96113

Landholding Agency: Army

Property Number: 21199840015-21199840020, 21199920033-21199920036, 21199940052-21199940056

Status: Underutilized

Reason: Within 2000 ft. of flammable or explosive material; Secured Area

449 Bldgs.

Camp Roberts

Camp Roberts Co: San Obispo CA

Landholding Agency: Army

Property Number: 21199730014, 219820192-219820235

Status: Excess

Reason: Secured Area; Extensive deterioration

30 Bldgs.

Presidio of Monterey Annex

Seaside Co: Monterey CA 93944

Landholding Agency: Army

Property Number: 219810380-219810381, 21199930106-21199930108, 21199940050-21199940051

Status: Unutilized

Reason: Extensive deterioration

21 Bldgs.

Fort Irwin

Ft. Irwin Co: San Bernardino CA 92310

Landholding Agency: Army

Property Number: 21199920037-21199920038

Status: Unutilized

Reason: Secured Area; Extensive deterioration

Colorado

Bldgs. T-317, T-412, 431, 433

Rocky Mountain Arsenal

Commerce Co: Adams Co 80022-2180

Landholding Agency: Army

Property Number: 219320013-219320016

Status: Unutilized

Reason: Within 2000 ft. of flammable or explosive material; Secured Area; Extensive deterioration

46 Bldgs. Fort Carson

Ft. Carson Co: El Paso Co 80913-5023

Landholding Agency: Army

Property Number: 219610317, 219620400, 219710093, 219710173, 219730015, 219730017, 219830020-219830032, 21199910008-21199910010, 21199930022-21199930025

Status: Unutilized

Reason: Extensive deterioration

15 Storage Sheds

Pueblo Chemical Depot

Pueblo CO 81006-9330

Landholding Agency: Army

Property Number: 219830011

Status: Unutilized

Reason: Extensive deterioration

Connecticut

Bldgs. DK001, DKL05, DKL10

USARC Middletown

Middletown Co: Middlesex CT 06457-1809

Landholding Agency: Army

Property Number: 219810024-219810026

Status: Unutilized

Reason: Extensive deterioration

Georgia

Fort Stewart

Sewage Treatment Plant

Ft. Stewart Co: Hinesville GA 31314-

Landholding Agency: Army

Property Number: 219013922

Status: Unutilized

Reason: Sewage treatment

Facility 12304

Fort Gordon

Augusta Co: Richmond GA 30905-

Location: Located off Lane Avenue

Landholding Agency: Army

Property Number: 219014787

Status: Unutilized

Reason: Wheeled vehicle grease/inspection rack

210 Bldgs.

Fort Gordon

Augusta Co: Richmond GA 30905-

Landholding Agency: Army

Property Number: 219220269, 219320026, 219410050-219410060, 219410071-219410072, 219410100, 219410109, 219410114-219410115, 219520067, 219610330-219610331, 219610336, 219630044-219630067, 219640011-219640037, 219710094, 219730019-219730020, 219810027, 219830034-219830067, 21199910012, 21199940057-21199940059

Status: Unutilized

Reason: Extensive deterioration

3 Bldgs., Fort Benning

Fort Benning Co: Muscogee GA 31905

Landholding Agency: Army

Property Number: 219220335-219220337

Status: Unutilized

Reason: Detached lavatory

24 Bldgs., Fort Benning

Ft. Benning Co: Muscogee GA 31905

Landholding Agency: Army

Property Number: 219520150, 219610320-219610321, 219640046, 219720017-219720022, 219810028-219810031, 219810035, 219830073-219830083, 21199930030-21199930037

Status: Unutilized

Reason: Extensive deterioration

18 Bldgs.

Fort Gillem

Forest Park Co: Clayton GA 30050

Landholding Agency: Army

Property Number: 219620815, 21199920044-21199920051, 21199930026-21199930029

Status: Unutilized

Reason: Extensive deterioration; Secured Area

3 Bldgs., Fort Stewart

Hinesville Co: Liberty GA 31314

Landholding Agency: Army

Property Number: 219740012-219740013, 21199940060

Status: Unutilized

Reason: Extensive Deterioration

4 Bldgs., Hunter Army Airfield

Savannah Co: Chatham GA 31409

Landholding Agency: Army

Property Number: 219620413, 219630034, 219740010, 219830068

Status: Unutilized

Reason: Extensive deterioration

14 Bldgs., Fort McPherson

Ft. McPherson Co: Fulton GA 30330-5000

Landholding Agency: Army

Property Number: 21199920040-21199920043

Status: Unutilized

Reason: Secured Area

Hawaii

PU-01, 02, 03, 04, 05, 06, 07, 08, 09, 10, 11

Schofield Barracks

Kolekole Pass Road

Wahiawa Co: Wahiawa HI 96786-

Landholding Agency: Army

Property Number: 219014836-219014837

Status: Unutilized

Reason: Secured Area

P-3384, T-1089, T-1093, T-1133

Schofield Barracks

Wahiawa Co: Wahiawa HI 96786-

Landholding Agency: Army

Property Number: 219030361, 21199930039, 21200010014

Status: Unutilized

Reason: Secured Area

Bldgs. T-1305, P408

Wheeler Army Airfield

Wahiawa HI 96857

Landholding Agency: Army

Property Number: 219610348, 21199940061

Status: Unutilized

Reason: Extensive deterioration

Bldgs. T-226, T-224

Dillingham Military

Reservation

Wahiawa Co: HI 96857

Landholding Agency: Army

Property Number: 21199930040

Status: Unutilized

Reason: Extensive deterioration

4 Bldgs.

Fort Shafter

#S-720, S-721, S722, P1610

Honolulu Co: HI 96819

Landholding Agency: Army

Property Number: 21200010015-21200010018

Status: Unutilized

Reason: Extensive deterioration

Illinois

Bldgs. 58, 59 and 72, 69, 64, 105, 135

Rock Island Arsenal

Rock Island Co: Rock Island IL 61299-5000

Landholding Agency: Army

Property Number: 219110104-219110108, 219620427

Status: Unutilized

Reason: Secured Area

Bldgs. 133, 141 Rock Island Arsenal

Gillespie Avenue

Rock Island Co: Rock Island IL 61299-

Landholding Agency: Army

Property Number: 219210100, 219620428

Status: Unutilized

Reason: Extensive deterioration

16 Bldgs.

Charles Melvin Price Support Center

Granite City Co: Madison IL 62040

Landholding Agency: Army

Property Number: 219820027, 21199930042-21199930053

Status: Unutilized

Reason: Secured Area; Extensive deterioration; Floodway

Indiana

181 Bldgs.

Newport Army Ammunition Plant

Newport Co: Vermillion IN 47966-

Landholding Agency: Army

Property Number: 219011584, 219011586-219011587, 219011589-219011590, 219011592-219011627, 219011629-219011636, 219011638-219011641, 219210149-219210151, 219220220, 219230034-219230033, 219430336-219430338, 219520033, 219520042, 219530075-219530097, 219740021-219740026, 219820031-219820032, 21199920063

Status: Unutilized

Reason: Secured Area (Some are extensively deteriorated.)

2 Bldgs.

Atterbury Reserve Forces Training Area

Edinburgh Co: Johnson IN 46124-1096

Landholding Agency: Army

Property Number: 219230030-219230031

Status: Unutilized

Reason: Extensive deterioration

12 Bldgs., Camp Atterbury

Edinburgh IN 46124

Landholding Agency: Army

Property Number: 219610351-219610352, 219620429-219620434

Status: Unutilized

Reason: Secured Area; Extensive deterioration

Iowa

96 Bldgs.

Iowa Army Ammunition Plant

Middletown Co: Des Moines IA 52638-

Landholding Agency: Army

Property Number: 219012605-219012607, 219012609, 219012611, 219012613, 219012615, 219012620, 219012622, 219012624, 219013706-219013738, 219120172-219120174, 219440112-219440158, 219520002, 219520070, 219610414, 219740027

Status: Unutilized

Reason: (Many are in a Secured Area) (Most are within 2000 ft. of flammable or explosive material.)

27 Bldgs., Iowa Army Ammunition Plant

Middletown Co: Des Moines IA 52638

Landholding Agency: Army

Property Number: 219230005-219230029, 219310017, 219340091

Status: Unutilized

Reason: Extensive deterioration

Kansas

37 Bldgs.

Kansas Army Ammunition Plant

Production Area

Parsons Co: Labette KS 67357-

Landholding Agency: Army

Property Number: 219011909-219011945

Status: Unutilized

Reason: Secured Area (Most are within 2000 ft. of flammable or explosive material)

11 Bldgs.

Fort Riley

Ft. Riley Co: Geary KS 66442-

Landholding Agency: Army

Property Number: 219430040, 219610623-219610626, 219620825-219620826, 219630085

Status: Unutilized

Reason: Extensive deterioration

121 Bldgs.

Kansas Army Ammunition Plant

Parsons Co: Labette KS 67357

Landholding Agency: Army

Property Number: 219620518-219620638

Status: Unutilized

Reason: Secured Area

Bldgs. P-417, T-994

Fort Leavenworth

Leavenworth KS 66027

Landholding Agency: Army

Property Number: 219740029, 21199920064

Status: Unutilized

Reason: Extensive deterioration; Sewage pump station

Kentucky

Bldg. 126

Lexington-Blue Grass Army Depot

Lexington Co: Fayette KY 40511-

Location: 12 miles northeast of Lexington, Kentucky.

Landholding Agency: Army

Property Number: 219011661

Status: Unutilized

Reason: Secured Area; Sewage treatment facility

Bldg. 12

Lexington—Blue Grass Army Depot

Lexington Co: Fayette KY 40511-

Location: 12 miles Northeast of Lexington Kentucky.

Landholding Agency: Army

Property Number: 219011663

Status: Unutilized

Reason: Industrial waste treatment plant

20 Bldgs., Fort Knox

Ft. Knox Co: Hardin KY 40121-

Landholding Agency: Army

Property Number: 219820033, 2199940062-21199940072

Status: Unutilized

Reason: Extensive deterioration

3 Bldgs., Fort Campbell

Ft. Campbell Co: Christian KY 42223

Landholding Agency: Army

Property Number: 21200010019-21200010021

Status: Unutilized

Reason: Extensive deterioration

Louisiana

528 Bldgs.

Louisiana Army Ammunition Plant

Doylin Co: Webster LA 71023-

Landholding Agency: Army

Property Number: 219011714-219011716, 219011735-219011737, 219012112, 219013863-219013869, 219110131, 219240138-219240147, 219420332, 219610049-219610263, 219620002-219620200, 219620749-219620801, 219820047-219820078

Status: Unutilized

Reason: Secured Area (Most are within 2000 ft. of flammable or explosive material) (Some are extensively deteriorated)

116 Bldgs., Fort Polk

Ft. Polk Co: Vernon Parish LA 71459-7100

Landholding Agency: Army

Property Number: 219430339, 219520059, 219810039-219810061, 219820035-219820043, 219830105-219830108, 21199840033-21199840047, 21199920067-21199920080, 21199940074-21199940083, 21200010022-21200010040

Status: Unutilized

Reason: Extensive deterioration; (Some are in Floodway)

Maryland

141 Bldgs.

Aberdeen Proving Ground

Aberdeen City Co: Harford MD 21005-5001

Landholding Agency: Army

Property Number: 219011417, 219012610, 219012626, 219012628, 219012634, 219012637-219012642, 219012649, 219012650, 219012658-219012662, 219013773, 219014711, 219610480, 219610489-219610490, 219730077-219730084, 219810070-219810127, 219820081-219820096, 219830114, 21199840059, 21199920081, 21200010046-21200010060

Status: Unutilized

Reason: Most are in a secured area; (Some are within 2000 ft. of flammable or explosive material) (Some are in a floodway) (Some are extensively deteriorated)

82 Bldgs. Ft. George G. Meade

Ft. Meade Co: Anne Arundel MD 20755-

Landholding Agency: Army

Property Number: 219130059, 219140461, 219310031, 219710186-219710192, 219740068-219740088, 219810064-219810069, 21199910018, 21199910019, 21199930055-21199930058, 21199940084-21199940088

Status: Unutilized

Reason: Extensive deterioration

Bldgs. 132 Fort Ritchie

Ft. Ritchie Co: Washington MD 21719-5010

Landholding Agency: Army

Property Number: 219330109

Status: Underutilized

Reason: Secured Area

6 Bldgs. Fort Detrick

Frederick Co: Frederick MD 21762-5000

Landholding Agency: Army

Property Number: 219830110, 21200010041-21200010045

Status: Unutilized

Reason: Secured Area; Extensive deterioration

Massachusetts

Bldg. 3462, Camp Edwards

Massachusetts Military Reservation

Bourne Co: Barnstable MA 02462-5003

Landholding Agency: Army

Property Number: 219230095

Status: Unutilized

Reason: Secured Area; Extensive deterioration

Bldgs. 3596, 1209-1211 Camp Edwards

Massachusetts Military Reservation

Bourne Co: Barnstable MA 02462-5003

Landholding Agency: Army

Property Number: 219230096, 219310018-219310020

Status: Unutilized

Reason: Secured Area

Facility No. 0G001

LTA Granby

Granby Co: Hampshire MA

Landholding Agency: Army

Property Number: 219810062

Status: Unutilized

Reason: Extensive deterioration

Michigan

Detroit Arsenal Tank Plant

28251 Van Dyke Avenue

Warren Co: Macomb MI 48090-

Landholding Agency: Army

Property Number: 219014605

Status: Underutilized

Reason: Secured Area

Bldgs. 5755-5756

Newport Weekend Training Site

Carleton Co: Monroe MI 48166

Landholding Agency: Army

Property Number: 219310060-219310061

Status: Unutilized

Reason: Secured Area; Extensive deterioration

25 Bldgs.

Fort Custer Training Center

2501 26th Street

Augusta Co: Kalamazoo MI 49102-9205

Landholding Agency: Army

Property Number: 219014947-219014963, 219140447-219140454

Status: Unutilized

Reason: Secured Area

6 Bldgs.

Selfridge ANG Base

Selfridge Co: MI 48045

Landholding Agency: Army

Property Number: 21199930059, 21199940089-21199940093

Status: Unutilized

Reason: Secured Area

Minnesota

169 Bldgs.

Twin Cities Army Ammunition Plant

New Brighton Co: Ramsey MN 55112-

Landholding Agency: Army

Property Number: 219120165-219120166, 219210014-219210015, 219220227-219220235, 219240328, 219310055-219310056, 219320145-219320156, 219330096-219330108, 219340015, 219410159-219410189, 219420195-219420283, 219430059-219430064, 21199840060

Status: Unutilized

Reason: Secured Area (Most are within 2000 ft. of flammable or explosive material.) (Some are extensively deteriorated)

Missouri

82 Bldgs.

Lake City Army Ammo. Plant

Independence Co: Jackson MO 64050-

Landholding Agency: Army

Property Number: 219013666-219013669, 219530134-219530138, 21199910023-21199910035, 21199920082

Status: Unutilized

Reason: Secured Area (Some are within 2000 ft. of flammable or explosive material)

9 Bldgs.

St. Louis Army Ammunition Plant

4800 Goodfellow Blvd.

St. Louis Co: St. Louis MO 63120-1798

Landholding Agency: Army

Property Number: 219120067-219120068, 219610469-219610475

Status: Unutilized

Reason: Secured Area (Some are extensively deteriorated.)

14 Bldgs.

Fort Leonard Wood

Ft. Leonard Wood Co: Pulaski MO 65473-5000

Landholding Agency: Army

Property Number: 219430070-219430078, 219830115-219830116, 21199910020-21199910022, 21199930060

Status: Unutilized

Reason: Within 2000 ft. of flammable or explosive material (Some are extensively deteriorated.)

Montana

19 Bldgs.

Fort Harrison

Ft. Harrison Co: Lewis/Clark MT 59636

Landholding Agency: Army

Property Number: 219620473-219620475, 219740093-219740101

Status: Unutilized

Reason: Within 2000 ft. of flammable or explosive material; Extensive deterioration

Nevada

Bldg. 292

Hawthorne Army Ammunition Plant

Hawthorne Co: Mineral NV 89415-

Landholding Agency: Army

Property Number: 219013614

Status: Unutilized

Reason: Secured Area

Bldg. 396

Hawthorne Army Ammunition Plant

Bachelor Enlisted Qtrs W/Dining Facilities

Hawthorne Co: Mineral NV 89415-

Location: East side of Decatur Street-North of Maine Avenue

Landholding Agency: Army

Property Number: 219011997

Status: Unutilized

Reason: Within airport runway clear zone; Secured Area

41 Bldgs.

Hawthorne Army Ammunition Plant

Hawthorne Co: Mineral NV 89415-

Landholding Agency: Army

Property Number: 219012013, 219012021, 219012044, 219013615-219013643,

Status: Underutilized

Reason: Secured Area (Some within airport runway clear zone; many within 2000 ft. of flammable or explosive material)

Group 101, 34 Bldgs.

Hawthorne Army Ammunition Plant Co: Mineral NV 89415-0015

Landholding Agency: Army

Property Number: 219830132

Status: Unutilized

Reason: Within 2000 ft. of flammable or explosive material; Secured Area

New Jersey

218 Bldgs.

Armament Res. Dev. & Eng. Ctr.

Picatinny Arsenal Co: Morris NJ 07806-5000

Landholding Agency: Army

Property Number: 219010440-219010474, 219010476, 219010478, 219010639-219010665, 219010671-219010721, 219012424, 219012427-219012428, 219012430, 219012433-219012466, 219012469-219012472, 219012475, 219012760, 219012763-219012767, 219014306-219014307, 219014311, 219014313-219014321, 219140617, 219230121-219230125, 219420001-219420002, 219420006-219420008, 219530144-219530150, 219540002-219540007, 219740110-219740127,

Status: Excess

Reason: Secured Area (Most are within 2000 ft. of flammable or explosive material.) (Some are extensively deteriorated) (Some are in a floodway)

Structure 403B

Armament Research, Dev. & Eng. Center

Picatinny Arsenal Co: Morris NJ 07806-5000

Landholding Agency: Army

Property Number: 219510001

Status: Unutilized

Reason: Drop Tower

9 Bldgs.

Armament Research

Picatinny Arsenal Co: Morris NJ 07806-5000

Landholding Agency: Army

Property Number: 21199940094-21199940099

Status: Unutilized

Reason: unexploded ordnance, Extensive deterioration

New York

Bldgs. 110, 143, 2084, 2105, 2110

Seneca Army Depot

Romulus Co: Seneca NY 14541-5001

Landholding Agency: Army

Property Number: 219240439, 219240440-219240443

Status: Unutilized

Reason: Secured Area, Extensive deterioration

Parcel 19

Stewart Army Subpost, U.S. Military Academy

New Windsor Co: Orange NY 12553

Landholding Agency: Army

Property Number: 219730098

Status: Unutilized

Reason: Within airport runway clear zone

Bldg. 12

Watervliet Arsenal

Watervliet NY

Landholding Agency: Army

Property Number: 219730099

Status: Unutilized

Reason: Extensive deterioration

Bldg. 134

Watervliet Arsenal Co: Albany NY 12189-4050

Landholding Agency: Army

Property Number: 21199840068

Status: Unutilized

Reason: Secured Area

Bldg. T-2222

Fort Drum

Ft. Drum Co: Jefferson NY 13602

Landholding Agency: Army

Property Number: 21199920083

Status: Unutilized

Reason: Extensive deterioration

Bldgs. 4056, 4275

Stewart Army Subpost

New Windsor Co: Orange NY 12553

Landholding Agency: Army

Property Number: 21199930061

Status: Unutilized

Reason: sewage pump station

North Carolina

47 Bldgs.

Fort Bragg Co: Cumberland NC 28307

Landholding Agency: Army

Property Number: 219620478, 219620480, 219640064, 219640074, 219710102-219710111, 219710224, 219810167, 219830117, 219830120 21199930062-21199930067

Status: Unutilized

Reason: Extensive deterioration

Bldgs. 16, 139, 261, 273

Military Ocean Terminal

Southport Co: Brunswick NC 28461-5000

Landholding Agency: Army

Property Number: 219530155, 219810158-219810160

Status: Unutilized

Reason: Secured Area

North Dakota

Bldgs. 440, 455, 456, 3101, 3110

Stanley R. Mickelsen

Nekoma Co: Cavalier ND 58355

Landholding Agency: Army

Property Number: 21199941013-21199940107

Status: Unutilized

Reason: Extensive deterioration

Ohio

190 Bldgs.

Ravenna Army Ammunition Plant

Ravenna Co: Portage OH 44266-9297

Landholding Agency: Army

Property Number: 219012476-219012507, 219012509-219012513, 219012515, 219012517-219012518, 219012520, 219012522-219012523, 219012525-219012528, 219012530-219012532, 219012534-219012535, 219012537, 219013670-219013677, 219013781, 219210148, 2119984069-21199840104, 21199930070-21199930072

Status: Unutilized

Reason: Secured Area

7 Bldgs.

Lima Army Tank Plant

Lima OH 45804-1898

Landholding Agency: Army

Property Number: 219730104-219730110

Status: Unutilized

Reason: Secured Area

3 Bldgs.

Defense Supply Center

Columbia Co: Franklin OH 43216-5000

Landholding Agency: Army

Property Number: 219830134-21199910037

Status: Unutilized

Reason: Extensive deterioration

Oklahoma

548 Bldgs.

McAlester Army Ammunition Plant

McAlester Co: Pittsburg OK 74501-5000

Landholding Agency: Army

Property Number: 219011674, 219011680, 219011684, 219011687, 219012113, 219013981-210913991, 219013994, 219014081-219014102, 21901404, 219014107-219014137, 219014141-219014159, 219014162, 219014165-219014216, 219014218-219014274, 219014336-219014559, 219030007-219030127, 21904004, 21199910039-21199910040

Status: Underutilized

Reason: Secured Area, (Some are within 2000 ft. of flammable or explosive material)

5 Bldgs.

Fort Sill

Lawton Co: Comanche OK 73503-

Landholding Agency: Army

Property Number: 219140548, 219140550, 219440309, 219510023, 219730342

Status: Unutilized

Reason: Extensive deterioration

33 Bldgs.

McAlester Army Ammunition Plant

McAlester Co: Pittsburg OK 74501

Landholding Agency: Army

Property Number: 219310050-219310052, 219320170-219320171, 219330149-219330160, 219430122-219430125, 219620485-219620490, 219630110-219630111, 219810174-219810176

Status: Unutilized

Reason: Secured Area (Some are extensively deteriorated)

Oregon

11 Bldgs.

Tooele Army Depot

Umatilla Depot Activity

Hermiston Co: Morrow/Umatilla OR 97838-

Landholding Agency: Army

Property Number: 219012174-219012176, 219012178-219012179, 219012190-219012191, 219012197-219012198, 219012217, 219012229

Status: Underutilized

Reason: Secured Area

34 Bldgs.

Tooele Army Depot

Umatilla Depot Activity

Hermiston Co: Morrow/Umatilla OR 97838-

Landholding Agency: Army

Property Number: 219012177, 219012185-219012186, 219012189, 219012195-219012196, 219012199-219012205, 219012207-219012208, 219012225, 219012279, 219014304-219014305, 219014782, 219030362-219030363, 219120032, 21199840107-21199840110, 21199920084-21199920090

Status: Unutilized

Reason: Secured Area

Pennsylvania

Bldg. 82001, Reading USARC

Reading Co: Berks PA 19604-1528

Landholding Agency: Army

Property Number: 219320173

Status: Unutilized

Reason: Extensive deterioration

Bldg. T-685, Carlisle Barracks

Carlisle Co: Cumberland PA 17013

Landholding Agency: Army

Property Number: 219610530

Status: Unutilized

Reason: Extensive deterioration

74 Bldgs.

Fort Indiantown Gap

Annville Co: Lebanon PA 17003-5011

Landholding Agency: Army

Property Number: 219640337, 219720093, 219730116-219730128, 219740129-219740132, 219740134, 219740137, 219810177-219810194

Status: Unutilized

Reason: Extensive deterioration

6 Bldgs.

Defense Distribution Depot

New Cumberland Co: York PA 17070-5001

Landholding Agency: Army

Property Number: 219830135, 21199940108-21199940112

Status: Unutilized

Reason: Secured Area

South Carolina

57 Bldgs., Fort Jackson

Ft. Jackson Co: Richland SC 29207

Landholding Agency: Army

Property Number: 219440237, 219440239, 219510017, 219620306, 219620312, 219620317, 219620348-219620351, 219620368, 219640138-219640139, 21199640148-21199640149, 219640167, 219720095, 219720097, 219730130-219730157, 219740138, 219820102-219820111, 219830139-219830157

Status: Unutilized

Reason: Extensive deterioration

Tennessee

32 Bldgs.

Holston Army Ammunition Plant

Kingsport Co: Hawkins TN 61299-6000

Landholding Agency: Army

Property Number: 219012304-219012309, 219012311-219012312, 219012314, 219012316-219012317, 219012319, 219012325, 219012328, 219012330, 219012332, 219012334-219012335, 219012337, 219013789-219013790, 219030266, 219140613, 219330178, 219440212-219440216, 219510025-219510028

Status: Unutilized

Reason: Secured Area (Some are within 2000 ft. of flammable or explosive material)

10 Bldgs.

Milan Army Ammunition Plant

Milan Co: Gibson TN 38358

Landholding Agency: Army

Property Number: 219240447-219240449, 219320182-219320184, 219330176-219330177, 219520034, 219740139

Status: Unutilized

Reason: Secured Area

Bldg. Z-183A

Milan Army Ammunition Plant

Milan Co: Gibson TN 38358

Landholding Agency: Army

Property Number: 219240783

Status: Unutilized

Reason: Within 2000 ft. of flammable or explosive material

Texas

20 Bldgs.

Lone Star Army Ammunition Plant

Highway 82 West

Texarkana Co: Bowie TX 75505-9100

Landholding Agency: Army

Property Number: 219012524, 219012529, 219012533, 219012536, 219012539-219012540, 219012542, 219012544-219012545, 219030337-219030345

Status: Unutilized

Reason: Within 2000 ft. of flammable or explosive material; Secured Area

186 Bldgs.

Longhorn Army Ammunition Plant

Karnack Co: Harrison TX 75661-

Location: State highway 43 north

Landholding Agency: Army

Property Number: 219012546, 219012548, 219610553-219610584, 219610635, 219620243-219620291, 219620827-219620837

Status: Unutilized

Reason: Secured Area (Most are within 2000 ft. of flammable or explosive material)

17 Bldgs., Red River Army Depot

Texarkana Co: Bowie TX 75507-5000

Landholding Agency: Army

Property Number: 219420314-219420327, 219430094-219430097, 219440217

Status: Unutilized

Reason: Secured Area (Some are extensively deteriorated)

11 Bldgs., Fort Sam Houston

San Antonio Co: Bexar TX 78234-5000

Landholding Agency: Army

Property Number: 219610549, 219640172, 219640177, 219640182, 219810197-219810201, 219830201-219830205

Status: Unutilized

Reason: Extensive Deterioration

Bldgs. T-2916, T-3180, T-3192, T-3398, T-2915

Fort Sam Houston

San Antonio Co: Bexar TX 78234-5000

Landholding Agency: Army

Property Number: 219330476-219330479, 219640181

Status: Unutilized

Reason: Detached latrines

83 Bldgs. Fort Bliss

El Paso Co: El Paso TX 79916

Landholding Agency: Army

Property Number: 219640490-219640491, 219730160-219730186, 219740146, 219830161-219830197

Status: Unutilized

Reason: Extensive deterioration

Starr Ranch, Bldg. 703B

Longhorn Army Ammunition Plant

Karnack Co: Harrison TX 75661

Landholding Agency: Army

Property Number: 219640186, 219640494

Status: Unutilized

Reason: Floodway

Bldgs. 53

Laredo USARC

Laredo Co: Webb TX 78040

Landholding Agency: Army

Property Number: 21199930073

Status: Unutilized

Reason: Extensive deterioration

Utah

14 Bldgs.

Tooele Army Depot

Tooele Co: Tooele UT 84074-5008

Landholding Agency: Army

Property Number: 219012153, 219012166, 219030366, 21200010061021200010068

Status: Unutilized

Reason: Secured Area Most are extensively deteriorated)

8 Bldgs.

Tooele Army Depot

Tooele Co: Tooele UT 84074-5008

Landholding Agency: Army

Property Number: 219012148-219012149, 219012152, 219012155, 219012156, 219012158, 219012751, 219240267

Status: Underutilized

Reason: Secured Area

3 Bldgs.

Dugway Proving Ground

Dugway Co: Tooele UT 84022-

Landholding Agency: Army

Property Number: 219013997, 219130012, 219130015

Status: Underutilized

Reason: Secured Area

59 Bldgs.

Dugway Proving Ground

Dugway Co: Tooele UT 84022-

Landholding Agency: Army

Property Number: 219330181-219330182, 219330185, 219420328-219420329, 21199920091-21199920101

Status: Unutilized

Reason: Secured Area

Bldgs. 3102, 5145, 8030

Deseret Chemical Depot

Tooele UT 84074

Landholding Agency: Army

Property Number: 219820119-219820121

Status: Unutilized

Reason: Secured Area; Extensive deterioration

Virginia

320 Bldgs.

Radford Army Ammunition Plant

Radford Co: Montgomery VA 24141-

Landholding Agency: Army

Property Number: 219010833, 219010836, 219010839, 219010842, 219010844, 219010847-219010890, 219010892-219010912, 219011521-219011577, 219011581-219011583, 219011585, 219011588, 219011591, 219013559-219013570, 219110142-219110143, 219120071, 21940618-219140633, 219440219-219440225, 219510031-219510033, 219610607-219610608, 219830223-219830267

Status: Unutilized

Reason: Within 2000 ft. of flammable or explosive material; Secured Area

13 Bldgs.

Radford Army Ammunition Plant

Radford Co: Montgomery VA 24141-

Landholding Agency: Army

Property Number: 219010834-219010835, 219010837-219010838, 219010840-219010841, 219010843, 219010845-219010846, 219010891, 219011578-219011580

Status: Unutilized

Reason: Within 2000 ft. of flammable or explosive material; Secured Area; Latrine, detached structure

46 Bldgs.

U. S. Army Combined Arms Support Command

Fort Lee Co: Prince George VA 23801-

Landholding Agency: Army

Property Number: 219240107, 219330210-219330211, 212330219-219330220, 219330225-219330228, 219520062, 219610595, 219601597, 219620497, 21962505, 219620863-219620876, 219630115, 219640497, 219740155-219740156, 219830206-219830210, 21199910041-21199910043, 21199920117-21199920118, 21199940128-21199940131, 21200010072-21200010073

Status: Unutilized

Reason: Extensive deterioration (Some are in a secured area.)

16 Bldgs.

Radford Army Ammunition Plant

Radford VA 24141

Landholding Agency: Army

Property Number: 219220210-219220218, 219230100-219230103, 219520037

Status: Unutilized

Reason: Secured Area

Bldgs. B7103-01, Motor House

Radford Army Ammunition Plant

Radford VA 24141

Landholding Agency: Army

Property Number: 219240324

Status: Unutilized

Reason: Secured Area; Within 2000 ft. of flammable or explosive material; Extensive deterioration

56 Bldgs.

Red Water Field Office

Radford Army Ammunition Plant

Radford VA 24141

Landholding Agency: Army

Property Number: 219430341-219430396

Status: Unutilized

Reason: Within 2000 ft. of flammable or explosive material; Secured Area

3 Bldgs.

Fort A.P. Hill

Bowling Green Co: Caroline VA 22427

Landholding Agency: Army

Property Number: 219510030, 219610588, 21199930079

Status: Underutilized

Reason: Secured Area; Extensive deterioration

Bldgs. 2013-00, B2013-00, A1601-00

Radford Army Ammunition Plant

Radford VA 24141

Landholding Agency: Army

Property Number: 219520052, 219530194

Status: Unutilized

Reason: Extensive deterioration

19 Bldgs.

Fort Belvoir

Ft. Belvoir Co: Fairfax VA 22060-5116

Landholding Agency: Army

Property Number: 21199910050-21199910052, 21199920107-21199920111, 21199940117-21199940127

Status: Unutilized

Reason: Extensive deterioration

4 Bldgs.

Fort Story

Ft. Story Co: Princess Ann VA 23459

Landholding Agency: Army

Property Number: 219640506, 219710193,

Status: Unutilized

Reason: Extensive deterioration

16 Bldgs., Fort Eustis

#219, 220, 229, 231, 232, 651, 654, 1400, 1404, 1408, 1416, 1419, 1505, 1547, 1743, 421

Ft. Eustis Co: VA 23604

Landholding Agency: Army

Property Number: 21199930074-21199930076, 21200010071

Status: Unutilized

Reason: Extensive deterioration

Bldgs. 448, Fort Myer

Ft. Myer Co: Arlington VA 22211-1199

Landholding Agency: Army

Property Number: 21200010069

Status: Underutilized

Reason: Extensive deterioration

Bldg. T-113

Defense Supply Center

Richmond Co: Chesterfield VA 23297

Landholding Agency: Army

Property Number: 21200010070

Status: Unutilized

Reason: Extensive deterioration

Washington

665 Bldgs., Fort Lewis

Ft. Lewis Co: Pierce WA 98433-5000

Landholding Agency: Army

Property Number: 219610001, 219610006-219610007, 219610009-219610010, 219619912, 219610042-219610046, 219620509-219620517, 219640193, 219710194, 219720142-219720151, 219810205-219810243, 219820130-219820132, 21199840118-21199840123, 21199910063-21199910080, 21199920125-21199920181, 21199930080-21199930105, 21199940134

Status: Unutilized

Reason: Secured Area; Extensive deterioration

11 Bldgs., Fort Lewis

Huckleberry Creek Mountain Training Site

Co: Pierce WA

Landholding Agency: Army

Property Number: 219740162-219740172

Status: Unutilized

Reason: Extensive deterioration

Bldg. 575

Fort Lawton

Seattle Co: King WA 98199

Landholding Agency: Army

Property Number: 21199920119

Status: Unutilized

Reason: Secured Area

Bldg. 415, Fort Worden

Port Angeles Co: Clallam WA 98362

Landholding Agency: Army

Property Number: 21199910062

Status: Excess

Reason: Extensive deterioration

Bldg. U515A, Fort Lewis

Ft. Lewis Co: Pierce WA 98433

Landholding Agency: Army

Property Number: 21199920124

Status: Excess

Reason: gas chamber

Bldg. 303

Yakima Training Center

Yakima Co: WA 98901

Landholding Agency: Army

Property Number: 21200010074

Status: Unutilized

Reason: Extensive deterioration

Wisconsin

6 Bldgs.

Badger Army Ammunition Plant

Baraboo Co: Sauk WI 53913-

Landholding Agency: Army

Property Number: 219011094, 219011290-219011212, 219011217

Status: Underutilized

Reason: Within 2000 ft. of flammable or explosive material; Friable asbestos; Secured Area

154 Bldgs.

Badger Army Ammunition Plant

Baraboo Co: Sauk WI 59313-

Landholding Agency: Army

Property Number: 219011104, 219011106, 219011108-219011113, 219011115-219011117, 219011119-219011120, 219011122-219011139, 219011141-219011142, 219011144, 219011148-219011208, 219011213-219011216, 219011218-219011234, 219011236, 219011238, 219011240, 219011242, 219011244, 219011247, 219011249, 219011251, 219011254, 219011256, 19011259, 219011263, 219011265, 219011268, 219011270, 219011275, 219011277, 219011280, 219011282, 219011284, 219011286, 219011290, 219011293, 219011295, 219011297, 219011300, 219011302, 219011304-219011311, 219011317, 219011319-219011321, 219011323

Status: Unutilized

Reason: Within 2000 ft. of flammable or explosive material; Friable asbestos; Secured Area

4 Bldgs.

Badger Army Ammunition Plant

Baraboo Co: Sauk WI

Landholding Agency: Army

Property Number: 219013871-219013873, 219013875

Status: Underutilized

Reason: Secured Area

31 Bldgs.

Badger Army Ammunition Plant

Baraboo Co: Sauk WI

Landholding Agency: Army

Property Number: 219013876-219013878, 219220295-219220311, 219510058-219510068

Status: Unutilized

Reason: Secured Area

316 Bldgs.

Badger Army Ammunition Plant

Baraboo Co: Sauk WI 53913-

Landholding Agency: Army

Property Number: 29210097-219210099, 219740184-219740271

Status: Unutilized

Reason: Within 2000 ft. of flammable or explosive material; Secured Area

Bldg. 6513-3

Badger Army Ammunition Plant

Baraboo Co: Sauk WI 53913

Landholding Agency: Army

Property Number: 219510057

Status: Unutilized

Reason: Detached Latrine

124 Bldgs.

Badger Army Ammunition Plant

Baraboo Co: Sauk WI 53913

Landholding Agency: Army

Property Number: 219510069-219510077

Status: Unutilized

Reason: Secured Area; Extensive deterioration

Bldgs. 101, 2017

Fort McCoy

Ft. McCoy Co: Monroe WI 54656-5163

Landholding Agency: Army

Property Number: 21200010075-21200010076

Status: Unutilized

Reason: Extensive deterioration

LAND (by State)

Alabama

23 acres and 2284 acres

Alabama Army Ammunition Plant

110 Hwy. 235

Childersburg Co: Talladega AL 35044-

Landholding Agency: Army

Property Number: 219210095-219210096

Status: Excess

Reason: Secured Area

Indiana

Newport Army Ammunition Plant

East of 14th St. & North of S. Blvd.

Newport Co: Vermillion IN 47966-

Landholding Agency: Army

Property Number: 219012360

Status: Unutilized

Reason: Within 2000 ft. of flammable or explosive material; Secured Area

Maryland

Carroll Island, Graces Quarters

Aberdeen Proving Ground

Edgewood Area

Aberdeen City Co: Harford MD 21010-5425

Landholding Agency: Army

Property Number: 219012630, 219012632

Status: Underutilized

Reason: Floodway; Secured Area

Minnesota

Portion of R.R. Spur

Twin Cities Army Ammunition Plant

New Brighton Co: Ramsey MN 55112

Landholding Agency: Army

Property Number: 219620472

Status: Unutilized

Reason: landlocked

New Jersey

Land

Armament Research Development & Eng. Center

Route 15 North

Picatinny Arsenal Co: Morris NJ 07806-

Landholding Agency: Army

Property Number: 219013788

Status: Unutilized

Reason: Secured Area

Spur Line/Right of Way

Armament Rsch., Dev., & Eng. Center

Picatinny Arsenal Co: Morris NJ 07806-5000

Landholding Agency: Army

Property Number: 219530143

Status: Unutilized

Reason: Floodway

2.0 Acres, Berkshire Trail

Armament Rsch., Dev., & Eng. Center

Picatinny Arsenal Co: Morris NJ 07806-5000

Landholding Agency: Army

Property Number: 21199910036

Status: Underutilized

Reasons: Within 2000 ft. of flammable or explosive material; Secured Area

Ohio

0.4051 acres, Lot 40 & 41

Ravenna Army Ammunition Plant

Ravenna Co: Portage OH 44266-9297

Landholding Agency: Army

Property Number: 219630109

Status: Excess

Reason: Within 2000 ft. of flammable or explosive material

Oklahoma

McAlester Army Ammo. Plant

McAlester Army Ammunition Plant

McAlester Co: Pittsburg OK 74501-

Landholding Agency: Army

Property Number: 219014603

Status: Underutilized

Reason: Within 2000 ft. of flammable or explosive material

Texas

Land—Approx. 50 acres

Lone Star Army Ammunition Plant

Texarkana Co: Bowie TX 75505-9100

Landholding Agency: Army

Property Number: 219420308

Status: Unutilized

Reason: Secured Area

Land—Harrison Bayou

Longhorn Army Ammunition Plant

Karnack Co: Harrison TX 75661

Landholding Agency: Army

Property Number: 219640187

Status: Unutilized

Reason: Within 2000 ft. of flammable or explosive material; Floodway

Land—.036 acres

Fort Sam Houston

San Antonio Co: Bexar TX 78234-5000

Landholding Agency: Army

Property Number: 219730202

Status: Unutilized

Reason: Within 2000 ft. of flammable or explosive material

Wisconsin

Land

Badger Army Ammunition Plant

Baraboo Co: Sauk WI 53913-

Location: Vacant land within plant boundaries.

Landholding Agency: Army

Property Number: 219013783

Status: Unutilized

Reason: Secured Area

[FR Doc. 00-3530 Filed 2-17-00; 8:45 am]

BILLING CODE 4210-29-M